DEPARTMENT OF THE INTERIOR

Fish and Wildlife Service

50 CFR Part 32

[Docket No. FWS-R9-NWRS-2012-0022; FXRS126509000004A-123-FF09R20000]

RIN 1018-AY37

2012-2013 Refuge-Specific Hunting and Sport Fishing Regulations

AGENCY: Fish and Wildlife Service, Interior.

ACTION: Final rule.

SUMMARY: The Fish and Wildlife Service adds one refuge to the list of areas open for hunting and/or sport fishing, closes one refuge to hunt activities, closes one hunt opportunity at one refuge, and increases the hunting activities available at 16 other refuges, along with pertinent refuge-specific regulations on other refuges that pertain to migratory game bird hunting, upland game hunting, big game hunting, and sport fishing for the 2012-2013 season.

DATES: This rule is effective September 11, 2012.

FOR FURTHER INFORMATION CONTACT: Leslie A. Marler, (703) 358-2397.

SUPPLEMENTARY INFORMATION: The National Wildlife Refuge System Administration Act of 1966 closes national wildlife refuges in all States except Alaska to all uses until opened. The Secretary of the Interior (Secretary) may open refuge areas to any use, including hunting and/or sport fishing, upon a determination that such uses are compatible with the purposes of the refuge and National Wildlife Refuge System (Refuge System or our/we) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in title 50 of the Code of Federal Regulations in part 32 (50 CFR part 32). We regulate hunting and sport fishing on refuges to:

• Ensure compatibility with refuge purpose(s);

• Properly manage the fish and wildlife resource(s);

• Protect other refuge values;

• Ensure refuge visitor safety; and

• Provide opportunities for quality fish- and wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the “Statutory Authority” section. We issue refuge-specific hunting and sport fishing regulations when we open wildlife refuges to migratory game bird hunting, upland game hunting, big game hunting, or sport fishing. These regulations list the wildlife species that you may hunt or fish, seasons, bag or creel (container for carrying fish) limits, methods of hunting or sport fishing, descriptions of areas open to hunting or sport fishing, and other provisions as appropriate. You may find previously issued refuge-specific regulations for hunting and sport fishing in 50 CFR part 32. In this rulemaking, we are also proposing to standardize and clarify the language of existing regulations.

Statutory Authority

The National Wildlife Refuge System Administration Act of 1966 (16 U.S.C. 668dd-668ee, as amended by the National Wildlife Refuge System Improvement Act of 1997 [Improvement Act]) (Administration Act), and the Refuge Recreation Act of 1962 (16 U.S.C. 460k-460k-4) (Recreation Act) govern the administration and public use of refuges.

Amendments enacted by the Improvement Act, built upon the Administration Act in a manner that provides an “organic act” for the Refuge System, are similar to those that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are: hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans, specific plans, and by annual review of hunting and sport fishing programs and regulations.

Response to Comments Received

In the July 11, 2012, Federal Register (77 FR 41002), we published a proposed rulemaking identifying changes pertaining to migratory game bird hunting, upland game bird hunting, big game hunting, and sport fishing to existing refuge-specific language on certain refuges for the 2012-2013 season. We received 33 comments on this proposed rule during a 30-day comment period; 9 of those comments were supportive of the rulemaking; 16 were opposed to our ban of falconry on a specific refuge; and several were opposed to allowing hunting at all on our refuges.

Comment 1: Numerous commenters expressed concern regarding a proposed prohibition on falconry at Hagerman National Wildlife Refuge in the State of Texas. They state we offered no explanation in the Cumulative Impacts Report and no environmental, biological, or other such scientific justification for this prohibition. They contend that falconry is a legal means of hunting/take in the State of Texas as it is in 49 of the 50 States. They object strongly to what appears to be “prejudicial and a denied equitable public opportunity” on the refuge and request that we remove such a bias from the regulations by allowing falconry.

Response 1: During the recent National Environmental Policy Act (NEPA) process to open Hagerman National Wildlife Refuge (NWR) to two new hunts (wild turkey and feral hog), we did not address impacts of falconry as it is not a legal means of take for wild turkey in Texas and unfeasible for feral hog hunting. Falconry for any species has never occurred on the refuge. Therefore, we have completed no assessment of short-term, long-term, or cumulative impacts related to this type of special hunt.

The only migratory game bird hunting currently or historically allowed on Hagerman NWR is for mourning dove. We have allowed mourning dove hunting by shotguns only in the Big Mineral Management Unit of Hagerman NWR from September 1 through 30, annually, since 1985.

In Texas, the Statewide falconry season for doves is from mid-November to mid-December (dates fluctuate annually). This is outside of the refuge's open season for dove hunting, and during this time, limited permit archery deer hunting is in progress at the refuge. By law, refuges may be more conservative than the States when setting their individual refuge-specific regulations but not more liberal.

Regarding policy specific to falconry, Service policy 605 FW 2.7M Special Hunts, stipulates, “We will address special types of hunts, such as falconry, in the hunt section of the visitor service plan (VSP).” In other words, each refuge manager when developing their step-down visitor service's plan (which would include a hunt plan, if appropriate) from their Comprehensive Conservation Plan, must first determine if hunting is compatible. Assuming it is found to be compatible, the refuge manager would next determine the conduct of the hunt which might include the use of falconry. A refuge manager has discretion to prohibit hunting, and specifically falconry, in certain cases such as if endangered or threatened species are present; thus, this issue is decided individually on a refuge-by-refuge basis.

Other than the issue of our dove season falling outside of the State of Texas' season for falconry, there is concern regarding the potential take of nontarget species if we allowed falconry for migratory game bird hunting at Hagerman NWR. For example, mourning doves and Inca doves (which occur around Hagerman NWR) are similar in appearance and size, with the mourning dove being only slightly larger. While mourning doves are a legal species to hunt, Inca doves are a protected species. Also, bird species listed as federally or State threatened or endangered, including interior least tern (nesting site) and piping plover, forage on the refuge during spring and fall migration. We are making no change to the regulation as a result of this comment.

Comment 2: A commenter noted that Minnesota Valley NWR in the State of Minnesota is located in a more suburban setting and is mixed use for the hunting and nonhunting public. The commenter feels there should be better parking access in the spring for turkey hunters to minimize contact with the nonhunting users of the Wilkie Unit of the refuge.

Response 2: Minnesota Valley NWR is constructing an additional parking lot and making improvements to the existing parking lot, both of which the refuge manager expects to complete by early fall 2012. The new parking lot will accommodate approximately 15 vehicles with options for overflow parking. The improvements to the second parking lot, which accommodates approximately 25 vehicles, will include additional signage and surface improvements. We will still allow hunters to use the current parking lot along with other refuge visitors. We believe that these improvements will ease congestion for all users of Minnesota Valley NWR and enhance the visitor's enjoyment of refuge resources. We are making no change to the regulation as a result of this comment.

Comment 3: A commenter felt that the “working population of America needs more than 30 days to comment. 60 days or 3 months would be more appropriate.”

Response 3: We disagree that the 30-day public comment period is insufficient. The process of opening refuges is done in stages, with the fundamental work being done on the ground at the refuge and in the community where the program is administered. In these stages, the public is provided other opportunities to comment, for example, on the comprehensive conservation plans, the compatibility determinations, on the hunt plans, and on accompanying NEPA documents. The final stage for public comment is when we publish the proposed rule in the Federal Register, commonly providing a 30-day comment period.

We make every attempt to collect all of the proposals from the refuges nationwide and process them expeditiously to maximize the time available for public review. We believe that a 30-day comment period, through the broader publication following the earlier public involvement, gives the public sufficient time to comment and allows us to establish hunting and fishing programs in time for the upcoming seasons. Many of these rules also relieve restrictions and allow the public to participate in wildlife-dependent recreational activities for the first time on a number of refuges. Even after issuance of a final rule, we accept comments, suggestions, and concerns for consideration for any appropriate subsequent rulemaking. We are making no changes to the regulation as a result of this comment.

Comment 4: A commenter felt that the name, National Bison National Wildlife Refuge, should remain unchanged, and it should be a refuge.

Response 4: The commenter is referring to amendment (e) we made to 50 CFR 32.7 where we revised the entry for “National Bison National Wildlife Refuge” to read “National Bison Range” and placed it in alphabetical order in the State of Montana. This was a technical amendment change to the regulation. The proper name of the National Bison Range has always been National Bison Range since its establishment in an amendment by Senator Dixon of Montana to an agriculture bill on May 23, 1908. We are correcting the way the refuge name is listed in the Code of Federal Regulations to reflect the legal name of the refuge. We are making no changes to the regulation as a result of this comment.

Comment 5: A commenter stated, “the number of hunters has been diminishing every single year, there are fewer hunters in 2012 than there were in 2006 so why is this agency using 2006 numbers when a 2011 report has been bought and paid for by us general taxpayers.”

Response 5: The economists use the most up-to-date data available to them when calculating hunter numbers to determine the economic impacts. The national numbers are updated every 5 years then another year is needed to tabulate and incorporate this data into the databases and produce a new survey. The 2006 National Survey of Fishing, Hunting, and Wildlife Associated Recreation provides the national estimates of expenditures for food and lodging, transportation and other incidental expenses. The revised survey (issued jointly by the Service and the Department of Commerce) will not be available until November 2012. We are making no changes to the regulation as a result of this comment.

Comment 6: A commenter opined that “killing wildlife is not an acceptable use for a refuge, you even misuse the word refuge.”

Response 6: The National Wildlife Refuge System Administration Act of 1966 (16 U.S.C. 668dd-ee), amended by the 1997 National Wildlife Refuge System Improvement Act (Pub. L. 105-57), stipulates that hunting (along with fishing, wildlife observation and photography, and environmental education and interpretation), if found to be compatible, is a legitimate and priority general public use of a refuge and should be facilitated. The Administration Act authorizes the Secretary to allow use of any refuge area for any purpose as long as those uses are compatible. In the case of each refuge opening/expansion in this rule, the refuge managers went through the compatibility process (which allows for public comment), in addition to complying with NEPA, which also allows for public comment, to make the determination before opening or expanding the refuge to allow for hunting. We are making no changes to the regulation as a result of this comment.

Comment 7: A commenter felt that the [National Wildlife Refuge System Administration Act] 1966 law is “too old to use as a plan since this is 2012 and massive changes in both habitat and climate [have occurred] since this law was passed.”

Response 7: The National Wildlife Refuge System Administration Act of 1966, as amended, (as referenced and described in some detail in the Statutory Authority section of this rule) is foundational legislation for the National Wildlife Refuge System. The 1997 National Wildlife Refuge System Improvement Act amended the 1966 Act as described in Response 6. Congress determines when changes to law are necessary and appropriate. Further, refuge managers do take changes in habitat and climate into consideration when deciding whether to open or continue hunting and/or fishing activities on national wildlife refuges. These discussions take place when the refuge managers develop their comprehensive conservation plans and then their step-down hunting and/or fishing plans. Those plans are modified when and if situations change on the refuge affecting their hunting and/or fishing programs. We are making no changes to the regulation as a result of this comment.

Comment 8: Several commenters felt that the use of lead shot (Pb) was inappropriate on national wildlife refuges. One commenter expanded this thought to state that they believed that we should extend the ban “on nontoxic shot to all firearms ammunition, especially center-fire and rim-fire lead-based bullets.” They ask that we consider developing and implementing an aggressive education outreach program on all national wildlife refuges informing users about the dangers related to the deposition of all traditional Pb-based hunting ammunition and fishing tackle.

Response 8: This rule contains amendments to 94 refuges. Lead shot for waterfowl hunting has been illegal on national wildlife refuges since 1998. The majority (54) of these 94 refuges also ban the use of toxic shot for upland game hunting (for such species as squirrel, rabbit, quail, pheasant, and/or partridge); 27 of those 94 refuges do not offer upland game hunting. Under the big game category (primarily deer and/or turkey), 8 of the refuges only allow nontoxic shot for turkey hunting, 14 of them ban the use of toxic shot, and 12 of them are closed to big game hunting.

As for fishing tackle, there are nontoxic fishing weights (split shots) for use in nontidal waters that are readily available on the marketplace. Many anglers use fishing tackle made from nontoxic materials such as tin, bismuth, steel, and tungsten, alternatives which are found in all 50 States. Many of our refuges have banned lead sinkers for years. Of the 94 refuges in this rulemaking, currently 7 of them ban lead tackle and 19 do not offer fishing.

Lead is a toxic metal that, in sufficient quantities, has adverse effects on the nervous and reproductive systems of animals and can be lethal to wildlife if ingested, even in small amounts. We continue to look at options and ways to reduce the indirect impacts of toxic shot to scavengers. We are and have been phasing out the use of lead shot by hunters on refuge lands.

As part of the Service's effort in Conserving the Future: Wildlife Refuges and the Next Generation (a vision document for the National Wildlife Refuge System developed in 2011), there are several implementation teams that will consider developing and implementing education products on the dangers of lead shot and fishing tackle. We invite and encourage the involvement of those interested parties in developing outreach elements relating to the dangers of toxicity in our continuing efforts to educate the public on alternative ammunition and fishing tackle.

The National Wildlife Refuge System Improvement Act of 1997 directs us to make refuge regulations as consistent with State regulations as practicable. We share a strong partnership with the States in managing wildlife, and, therefore, we are proceeding with the phase-out of toxic ammunition and tackle in a coordinated manner with the respective State wildlife agency. There were no changes to this rulemaking as a result of these comments.

Comment 9: A commenter felt that the Improvement Act which amended the National Wildlife Refuge System Administration Act should include trapping as one of the six priority public uses on a national wildlife refuge, as they feel it is a legitimate wildlife-dependent activity in the State of New York.

Response 9: As mentioned in the previous response, the National Wildlife Refuge System does not write legislation, Congress does. As trapping is not one of the six priority public uses (which are hunting, fishing, wildlife observation and interpretation, and environmental education) outlined in the Improvement Act and not a subject of this rulemaking. Additionally as mentioned earlier, the Refuge System reserves the right to be more restrictive than the States in formulating the conduct of hunting and/or fishing activities on our national wildlife refuges. We are making no changes as a result of this comment.

Effective Date

This rule is effective upon publication in the Federal Register. We have determined that any further delay in implementing these refuge-specific hunting and sport fishing regulations would not be in the public interest, in that a delay would hinder the effective planning and administration of the hunting and fishing programs. We provided a 30-day public comment period for the July 11, 2012, proposed rule. An additional delay would jeopardize holding the hunting and/or fishing programs this year or shorten their duration and thereby lessen the management effectiveness of this regulation. This rule does not impact the public generally in terms of requiring lead time for compliance. Rather it relieves restrictions in that it allows activities on refuges that we would otherwise prohibit. Therefore, we find good cause under 5 U.S.C. 553(d)(3) to make this rule effective upon publication.

Amendments to Existing Regulations

This document codifies in the Code of Federal Regulations all of the Service's hunting and/or sport fishing regulations that are applicable at Refuge System units previously opened to hunting and/or sport fishing. We are doing this to better inform the general public of the regulations at each refuge, to increase understanding and compliance with these regulations, and to make enforcement of these regulations more efficient. In addition to now finding these regulations in 50 CFR part 32, visitors to our refuges will usually find them reiterated in literature distributed by each refuge or posted on signs.

We have cross-referenced a number of existing regulations in 50 CFR parts 26, 27, 28, and 32 to assist hunting and sport fishing visitors with understanding safety and other legal requirements on refuges. This redundancy is deliberate, with the intention of improving safety and compliance in our hunting and sport fishing programs.

Table 1—Changes for 2012-2013 Hunting/Fishing Season
Refuge (FWS region) | State | Migratory bird hunting | Upland game hunting | Big game hunting | Sport fishing
Big Muddy (3) | Missouri | C | C | C | Already open.
Big Oaks (3) | Indiana | Closed | Already open | C | Already open.
Block Island (3) | Rhode Island | Closed | Closed | B deer | Already open.
Bond Swamp (4) | Georgia | B | B | C/D turkey | Already open.
Chickasaw (4) | Tennessee | C | C | C | Already open.
Deer Flat (1) | Idaho | Already open | Already open | C | Already open.
Detroit River International (3) | Michigan | A | A | A | Closed.
Hagerman (2) | Texas | Already open | Already open | D turkey | Already open.
Hakalau Forest (1) | Hawaii | Closed | Closed | E | Closed.
Hanford Reach/Saddle Mt. (1) | Washington | C | C/D chukar | C | Already open.
Julia Butler Hansen (1) | Oregon | C | Closed | Closed | Already open.
Lower Hatchie (4) | Tennessee | C | C | C | Already open.
Minnesota Valley (3) | Minnesota | C | C | C | Already open.
Ninigret (5) | Rhode Island | Closed | Closed | B deer | Already open.
Red Rock Lakes (6) | Montana | C | Closed | C | Already open.
Santee (4) | South Carolina | E | Already open | Already open | Already open.
Upper Ouachita (4) | Louisiana | C | C | C | Already open.
Waccamaw (4) | South Carolina | D Woodcock | Already open | C | Already open.
William L. Finley (1) | Oregon | Closed | Closed | C | Already open.
A = New refuge opened.
B = New activity on a refuge previously opened to other activities.
C = Refuge already open to activity but added new land/waters which increased activity.
D = Refuge already open to activity but added new species to hunt.
E = Refuge closing to previously opened activity.

We are closing and reserving big game hunting on the Hakalau Forest National Wildlife Refuge in the State of Hawaii. We opened the Maulua tract (2,000 acres) of Hakalau Forest NWR to the public for pig and cattle hunting in 1991 (with most of the area never hunted) but closed it in 2000 as hunting had reduced the pig population to such low numbers as to provide an unacceptable hunting experience. As there were few cattle, they were quickly removed. We have received no requests for approval to hunt on Hakalau Forest NWR since 2000.

We are closing and reserving migratory bird game hunting on Santee National Wildlife Refuge in the State of South Carolina. The refuge will remain open both for upland and big game hunting as well as for sport fishing. The refuge established a mourning dove hunt in 1975 when historic land management practices on the refuge were productive for both resident and migratory mourning dove habitat. We farmed over 500 acres of corn, wheat, and soybean annually in the Cuddo Unit of the refuge. Over time, however, land management practices and objectives for habitat management adapted and changed, and farming practices are now minimal. Without habitat suitable for mourning dove or the hunting of mourning dove, the refuge has had no public interest in the morning dove hunt. There have been no recorded mourning dove hunting visits since 2003.

We also added Rainwater Basin Wetland Management District in the State of Nebraska to the list of refuges in part 32. As set forth in 50 CFR 32.1 and 32.4, “Lands acquired as `waterfowl production areas' shall annually be open to the hunting of migratory game birds, upland game, big game and sport fishing subject to the provisions of State law and regulations and the pertinent provisions of parts 25 through 31 of this subchapter: Provided, That all forms of hunting or entry on all or any part of the individual areas may be temporarily suspended by posting upon occasions of unusual or critical conditions of, or affecting land, water, vegetation, or wildlife populations.”

The changes for the 2012-13 hunting/fishing season noted in the chart above are each based on a complete administrative record which, among other detailed documentation, also includes a hunt plan, a compatibility determination, and the appropriate National Environmental Policy Act (NEPA; 42 U.S.C. 4321 et seq.) analysis, all of which were the subject of a public review and comment process. These documents are available upon request.

Fish Advisory

For health reasons, anglers should review and follow State-issued consumption advisories before enjoying recreational sport fishing opportunities on Service-managed waters. You can find information about current fish consumption advisories on the internet at: http://www.epa.gov/waterscience/fish/

Plain Language Mandate

In this rule we made some of the revisions to the individual refuge units to comply with a Presidential mandate to use plain language in regulations; as such, these particular revisions do not modify the substance of the previous regulations. These types of changes include using “you” to refer to the reader and “we” to refer to the Refuge System, using the word “allow” instead of “permit” when we do not require the use of a permit for an activity, and using active voice (i.e., “We restrict entry into the refuge” vs. “Entry into the refuge is restricted”).

Regulatory Planning and Review (Executive Orders 12866 and 13563)

Executive Order 12866 provides that the Office of Information and Regulatory Affairs (OIRA) will review all significant rules. OIRA has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where those approaches are relevant, feasible, and consistent with regulatory objectives. E.O. 13563 emphasizes further that we must base regulations on the best available science and that the rulemaking process must allow for public participation and an open exchange of ideas. We have developed this rule in a manner consistent with these requirements.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule would not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule would not have a significant economic impact on a substantial number of small entities.

This rule adds 1 national wildlife refuge to the list of refuges open to hunting, increases hunting activities on 16 national wildlife refuges, closes 1 national wildlife refuge that was previously open to hunting, and closes 1 hunting activity previously open at 1 national wildlife refuge. As a result, visitor use for wildlife-dependent recreation on these national wildlife refuges will change. If the refuges establishing new programs were a pure addition to the current supply of such activities, it would mean an estimated increase of 7,960 user days (one person per day participating in a recreational opportunity) (Table 2). Because the participation trend is flat in these activities since 1991, this increase in supply will most likely be offset by other sites losing participants. Therefore, this is likely to be a substitute site for the activity and not necessarily an increase in participation rates for the activity.

Table 2—Estimated Change in Recreation Opportunities in 2012/2013
[Dollars in thousands]
Refuge | Additional days | Additional expenditures
Big Muddy | 30 | $1.0
Big Oaks | 100 | 3.3
Block Island | 60 | 2.0
Bond Swamp | 1,000 | 32.6
Chickasaw | 150 | 4.9
Deer Flat | 3,300 | 107.7
Detroit River International | 1,021 | 33.3
Hagerman | 194 | 6.3
Hakalau Forest | 0 | 0.0
Hanford Reach/Saddle Mountain | 260 | 8.5
Julia Butler Hansen | 900 | 29.4
Lower Hatchie | 300 | 9.8
Minnesota Valley | 200 | 6.5
Ninigret | 347 | 11.3
Red Rock Lakes | 52 | 1.7
Santee | 0 | 0.0
Upper Ouachita | 50 | 1.6
Waccamaw | 4 | 0.1
William L. Finley | −8 | −0.3*
TOTAL | 7,960 | 259.7
* Negative number resulting from decreased hunting days available despite increased acres to hunt.

To the extent visitors spend time and money in the area of the refuge that they would not have spent there anyway, they contribute new income to the regional economy and benefit local businesses. Due to the unavailability of site-specific expenditure data, we use the national estimates from the 2006 National Survey of Fishing, Hunting, and Wildlife Associated Recreation to identify expenditures for food and lodging, transportation, and other incidental expenses. Using the average expenditures for these categories with the maximum expected additional participation of the Refuge System yields approximately $259,700 in recreation-related expenditures (Table 2). By having ripple effects throughout the economy, these direct expenditures are only part of the economic impact of these recreational activities. Using a national impact multiplier for hunting activities (2.67) derived from the report “Economic Importance of Hunting in America” yields a total economic impact of approximately $693,500 (2011 dollars) (Southwick Associates, Inc., 2007). Using a local impact multiplier would yield more accurate and smaller results. However, we employed the national impact multiplier due to the difficulty in developing local multipliers for each specific region.

Since we know that most of the fishing and hunting occurs within 100 miles of a participant's residence, then it is unlikely that most of this spending would be “new” money coming into a local economy; therefore, this spending would be offset with a decrease in some other sector of the local economy. The net gain to the local economies would be no more than $693,500, and most likely considerably less. Since 80 percent of the participants travel less than 100 miles to engage in hunting and fishing activities, their spending patterns would not add new money into the local economy and, therefore, the real impact would be on the order of about $138,700 annually.

Small businesses within the retail trade industry (such as hotels, gas stations, taxidermy shops, bait and tackle shops, etc.) may be impacted from some increased or decreased refuge visitation. A large percentage of these retail trade establishments in the local communities around national wildlife refuges qualify as small businesses. We expect that the incremental recreational changes will be scattered, and so we do not expect that the rule would have a significant economic effect on a substantial number of small entities in any region or nationally. As noted previously, we expect approximately $259,700 to be spent in total in the refuges' local economies. The maximum increase at most would be less than one-tenth of 1 percent for local retail trade spending (Table 3).

Table 3—Comparative Expenditures for Retail Trade Associated With Additional Refuge Visitation for 2012/2013
[Thousands, 2011 dollars]
Refuge/county(ies) or parishes | Retail trade in 2007 | Estimated maximum addition from new activities | Addition as % of total | Establishments in 2009 | Establ. with <10 emp in 2009
Big Muddy:
Moniteau, MO | $173,206 | $1.0 | 0.001% | 56 | 43
Big Oaks:
Ripley, IN | 277,024 | 1.1 | <0.001% | 97 | 74
Jefferson, IN | 415,188 | 1.1 | <0.001% | 152 | 118
Jennings, IN | 242,792 | 1.1 | <0.001% | 72 | 54
Block Island:
Washington, RI | 1,873,234 | 2.0 | <0.001% | 545 | 398
Bond Swamp:
Bibb, GA | 135,291 | 16.3 | 0.012% | 815 | 575
Twiggs, GA | 32,915 | 16.3 | 0.050% | 16 | 12
Chickasaw:
Lauderdale, TN | 164,722 | 2.4 | 0.001% | 85 | 65
Dyer, TN | 557,684 | 2.4 | <0.001% | 182 | 140
Deer Flat:
Payette, ID | 557,684 | 107.7 | 0.019% | 68 | 52
Detroit River International:
Wayne, MI | 18,741,934 | 16.7 | <0.001% | 6,069 | 4,702
Monroe, MI | 1,589,678 | 16.7 | 0.001% | 383 | 267
Hagerman:
Grayson, TX | 1,730,094 | 6.3 | <0.001% | 457 | 327
Hanford Reach/Saddle Mountain:
Benton, WA | 2,302,112 | 8.5 | <0.001% | 587 | 399
Julia Butler Hansen:
Columbia, OR | 684,891 | 29.4 | 0.004% | 119 | 83
Lower Hatchie:
Lauderdale, TN | 164,722 | 4.9 | 0.003% | 85 | 65
Tipton, TN | 438,464 | 4.9 | 0.001% | 156 | 119
Minnesota Valley:
Sibley, MN | 81,861 | 3.3 | 0.004% | 59 | 46
Scott, MN | 1,268,971 | 3.3 | <0.001% | 344 | 234
Ninigret:
Washington, RI | 1,873,234 | 11.3 | 0.001% | 545 | 398
Red Rock Lakes:
Beaverhead, MT | 133,341 | 1.7 | 0.001% | 53 | 37
Upper Ouachita:
Union, LA | 160,639 | 0.8 | 0.001% | 68 | 55
Morehouse, LA | 261,859 | 0.8 | <0.001% | 96 | 70
Waccamaw:
Georgetown, SC | 761,751 | 0.04 | <0.001% | 295 | 229
Horry, SC | 5,388,805 | 0.04 | <0.001% | 1,707 | 1,241
Marion, SC | 292,846 | 0.04 | <0.001% | 135 | 103
William L. Finley:
Benton, OR | 743,322 | −0.3 | <0.001% | 275 | 192

With the small change in overall spending anticipated from this rule, it is unlikely that a substantial number of small entities would have more than a small impact from the spending change near the affected refuges. Therefore, we certify that this rule would not have a significant economic effect on a substantial number of small entities as defined under the Regulatory Flexibility Act (5 U.S.C. 601 et seq.). An initial/final Regulatory Flexibility Analysis is not required. Accordingly, a Small Entity Compliance Guide is not required.

Small Business Regulatory Enforcement Fairness Act

The rule is not a major rule under 5 U.S.C. 804(2), the Small Business Regulatory Enforcement Fairness Act. We anticipate no significant employment or small business effects. This rule:

a. Will not have an annual effect on the economy of $100 million or more. The minimal impact will be scattered across the country and would most likely not be significant in any local area.

b. Will not cause a major increase in costs or prices for consumers; individual industries; Federal, State, or local government agencies; or geographic regions. This rule will have only a slight effect on the costs of hunting opportunities for Americans. If the substitute sites are farther from the participants' residences, then an increase in travel costs would occur. The Service does not have information to quantify this change in travel cost but assumes that, since most people travel less than 100 miles to hunt, the increased travel cost would be small. We do not expect this rule to affect the supply or demand for hunting opportunities in the United States and, therefore, it should not affect prices for hunting equipment and supplies, or the retailers that sell equipment.

c. Will not have significant adverse effects on competition, employment, investment, productivity, innovation, or the ability of United States-based enterprises to compete with foreign-based enterprises. This rule represents only a small proportion of recreational spending at national wildlife refuges. Therefore, this rule will have no measurable economic effect on the wildlife-dependent industry, which has annual sales of equipment and travel expenditures of $72 billion nationwide.

Unfunded Mandates Reform Act

Since this rule applies to public use of federally owned and managed refuges, it will not impose an unfunded mandate on State, local, or Tribal governments or the private sector of more than $100 million per year. The rule will not have a significant or unique effect on State, local, or Tribal governments or the private sector. A statement containing the information required by the Unfunded Mandates Reform Act (2 U.S.C. 1531 et seq.) is not required.

Takings (E.O. 12630)

In accordance with E.O. 12630, this rule does not have significant takings implications. This regulation affects only visitors at national wildlife refuges and describes what they can do while they are on a refuge.

Federalism (E.O. 13132)

As discussed in the Regulatory Planning and Review and Unfunded Mandates Reform Act sections above, this rule does not have sufficient Federalism implications to warrant the preparation of a Federalism Assessment under E.O. 13132. In preparing this rule, we worked with State governments.

Civil Justice Reform (E.O. 12988)

In accordance with E.O. 12988, the Office of the Solicitor has determined that the rule does not unduly burden the judicial system and that it meets the requirements of sections 3(a) and 3(b)(2) of the Order. The regulation clarifies established regulations and will result in better understanding of the regulations by refuge visitors.

Energy Supply, Distribution or Use (E.O. 13211)

On May 18, 2001, the President issued E.O. 13211 on regulations that significantly affect energy supply, distribution, and use. E.O. 13211 requires agencies to prepare Statements of Energy Effects when undertaking certain actions. Because this rule increases activities at 16 refuges, closes hunting at one refuge, stops one hunt at another refuge, and opens one new refuge, it is not a significant regulatory action under E.O. 12866, and we do not expect it to significantly affect energy supplies, distribution, and use. Therefore, this action is a not a significant energy action and no Statement of Energy Effects is required.

Consultation and Coordination With Indian Tribal Governments (E.O. 13175)

In accordance with E.O. 13175, we have evaluated possible effects on federally recognized Indian tribes and have determined that there are no effects. We coordinate recreational use on national wildlife refuges with Tribal governments having adjoining or overlapping jurisdiction before we propose the regulations.

Paperwork Reduction Act

This regulation does not contain any information collection requirements other than those already approved by the Office of Management and Budget under the Paperwork Reduction Act (44 U.S.C. 3501 et seq.) (OMB Control Numbers are 1018-0102 and 1018-0140). See 50 CFR 25.23 for information concerning that approval. An agency may not conduct or sponsor and a person is not required to respond to a collection of information unless it displays a currently valid OMB control number.

Endangered Species Act Section 7 Consultation

We comply with section 7 of the Endangered Species Act of 1973, as amended (16 U.S.C. 1531 et seq.), when developing Comprehensive Conservation Plans (CCPs) and step-down management plans (which would include hunting and/or fishing plans) for public use of refuges, and prior to implementing any new or revised public recreation program on a refuge as identified in 50 CFR 26.32. We have completed section 7 consultation on each of the affected refuges.

National Environmental Policy Act

We analyzed this rule in accordance with the criteria of the National Environmental Policy Act of 1969 (NEPA) (42 U.S.C. 4332(C)), 43 CFR part 46, and 516 Departmental Manual (DM) 8.

A categorical exclusion from NEPA documentation applies to publication of amendments to refuge-specific hunting and fishing regulations since they are technical and procedural in nature, and the environmental effects are too broad, speculative, or conjectural to lend themselves to meaningful analysis (43 CFR 46.210 and 516 DM 8). Concerning the actions that are the subject of this rulemaking, we have complied with NEPA at the project level when developing each proposal. This is consistent with the Department of the Interior instructions for compliance with NEPA where actions are covered sufficiently by an earlier environmental document (516 DM 3.2A).

Prior to the addition of a refuge to the list of areas open to hunting and fishing in 50 CFR part 32, we develop hunting and fishing plans for the affected refuges. We incorporate these refuge hunting and fishing activities in the refuge CCPs and/or other step-down management plans, pursuant to our refuge planning guidance in 602 Fish and Wildlife Service Manual (FW) 1, 3, and 4. We prepare these CCPs and step-down plans in compliance with section 102(2)(C) of NEPA, and the Council on Environmental Quality's regulations for implementing NEPA in 40 CFR parts 1500-1508. We invite the affected public to participate in the review, development, and implementation of these plans. Copies of all plans and NEPA compliance are available from the refuges at the addresses provided below.

Available Information for Specific Refuges

Individual refuge headquarters have information about public use programs and conditions that apply to their specific programs and maps of their respective areas. To find out how to contact a specific refuge, contact the appropriate Regional office listed below:

Region 1—Hawaii, Idaho, Oregon, and Washington. Regional Chief, National Wildlife Refuge System, U.S. Fish and Wildlife Service, Eastside Federal Complex, Suite 1692, 911 N.E. 11th Avenue, Portland, OR 97232-4181; Telephone (503) 231-6214.

Region 2—Arizona, New Mexico, Oklahoma, and Texas. Regional Chief, National Wildlife Refuge System, U.S. Fish and Wildlife Service, Box 1306, 500 Gold Avenue, Albuquerque, NM 87103; Telephone (505) 248-7419.

Region 3—Illinois, Indiana, Iowa, Michigan, Minnesota, Missouri, Ohio, and Wisconsin. Regional Chief, National Wildlife Refuge System, U.S. Fish and Wildlife Service, 1 Federal Drive, Federal Building, Fort Snelling, Twin Cities, MN 55111; Telephone (612) 713-5401. Detroit River International Wildlife Refuge, 9311 Groh Road, Large Lakes Research Station, Grossle Ile, MI 43138; Telephone (734) 692-7608.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7166.

Region 5—Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8306.

Region 6—Colorado, Kansas, Montana, Nebraska, North Dakota, South Dakota, Utah, and Wyoming. Regional Chief, National Wildlife Refuge System, U.S. Fish and Wildlife Service, 134 Union Blvd., Lakewood, CO 80228; Telephone (303) 236-8145.

Region 7—Alaska. Regional Chief, National Wildlife Refuge System, U.S. Fish and Wildlife Service, 1011 E. Tudor Rd., Anchorage, AK 99503; Telephone (907) 786-3545.

Region 8—California and Nevada. Regional Chief, National Wildlife Refuge System, U.S. Fish and Wildlife Service, 2800 Cottage Way, Room W-2606, Sacramento, CA 95825; Telephone (916) 414-6464.

Primary Author

Leslie A. Marler, Management Analyst, Division of Conservation Planning and Policy, National Wildlife Refuge System is the primary author of this rulemaking document.

List of Subjects in 50 CFR Part 32

Fishing, Hunting, Reporting and recordkeeping requirements, Wildlife, Wildlife refuges.

Regulation Promulgation

For the reasons set forth in the preamble, we amend title 50, chapter I, subchapter C of the Code of Federal Regulations as follows:

PART 32—[AMENDED]

1. The authority citation for part 32 continues to read as follows:

Authority: 5 U.S.C. 301; 16 U.S.C. 460k, 664, 668dd-668ee, and 715i.

2. Amend § 32.7 “What refuge units are open to hunting and/or sport fishing?” by:

a. Revising the entry for “Mountain Lonleaf National Wildlife Refuge” to read “Mountain Longleaf National Wildlife Refuge” in the State of Alabama;

b. Revising the entry for “Lake Umbagog National Wildlife Refuge” to read “Umbagog National Wildlife Refuge” and placing it in alphabetical order in the State of Maine;

c. Adding an entry for “Detroit River International Wildlife Refuge” and placing it in alphabetical order in the State of Michigan;

d. Revising the entry for “Noxubee National Wildlife Refuge” to read “Sam D. Hamilton Noxubee National Wildlife Refuge” and placing it in alphabetical order in the State of Mississippi;

e. Revising the entry for “National Bison National Wildlife Refuge” to read “National Bison Range” in the State of Montana;

f. Revising the entry for “Nine-Pipe National Wildlife Refuge” to read “Ninepipe National Wildlife Refuge” in the State of Montana;

g. Adding an entry for “Rainwater Basin Wetland Management District” and placing it alphabetical order in the State of Nebraska;

h. Adding an entry for “Umbagog National Wildlife Refuge” and placing it in alphabetical order in the State of New Hampshire;

i. Placing the entry for “Currituck National Wildlife Refuge” in alphabetical order in the State of North Carolina in this section; and

j. Removing the entry for “Pocasse National Wildlife Refuge” in the State of South Dakota.

3. Amend § 32.20 Alabama by revising paragraphs B.6., B.8., and B.10., adding paragraph B.11., revising the introductory text of paragraph C., and revising paragraph C.1. under Choctaw National Wildlife Refuge. These revisions and addition reads as follows:

§ 32.20 Alabama.

* * * * *

Choctaw National Wildlife Refuge

* * * * *

B. Upland Game Hunting. * * *

* * * * *

6. We prohibit the mooring and storing of boats from ½ hour after legal sunset to ½ hour before legal sunrise.

* * * * *

8. Persons possessing, transporting, or carrying firearms on the refuge must comply with all provisions of State and local law. Persons may only use (discharge) firearms in accordance with refuge regulations (see § 27.42 of this chapter and specific refuge regulations in part 32). Persons may only use approved nontoxic shot (see § 32.2(k)) #4 or smaller, .22 caliber rimfire or smaller rifles, or legal archery equipment.

* * * * *

10. We allow squirrel, raccoon, rabbit, and opossum to be hunted with dogs during designated hunts. We prohibit dogs in the Middle Swamp area of the refuge, except during the February small game hunt.

11. Hunt information and hunt dates are available at refuge headquarters and specified in the refuge brochure.

C. Big Game Hunting. We allow archery hunting of white-tailed deer and incidental take of feral hog in accordance with State regulations subject to the following conditions:

1. Conditions B1 through B9 and B11 apply.

* * * * *

4. Amend § 32.22 Arizona by revising paragraph C.1. under Cibola National Wildlife Refuge to read as follows:

§ 32.22 Arizona.

* * * * *

Cibola National Wildlife Refuge

* * * * *

C. Big Game Hunting. * * *

1. For units open to mule deer hunting, refer to current Big Game hunt brochure.

* * * * *

5. Amend § 32.23 Arkansas by:

a. Revising paragraph C.10. under Bald Knob National Wildlife Refuge;

b. Removing paragraph C.7., redesignating paragraphs C.8. through C.12. as paragraphs C.7. through C.11., and revising newly redesignated paragraph C.7. under Big Lake National Wildlife Refuge;

c. Revising paragraph C.10. under Cache River National Wildlife Refuge;

d. Adding paragraph C.16. under Felsenthal National Wildlife Refuge;

e. Revising paragraph A.5., removing paragraph A.19., and redesignating paragraphs A.20. through A.23. as paragraphs A.19. through A.22. under Overflow National Wildlife Refuge;

f. Removing paragraph C.5., redesignating paragraphs C.6. through C.9. as paragraphs C.5. through C.8., and revising newly redesignated paragraph C.6. under Wapanocca National Wildlife Refuge; and

g. Revising paragraphs A.22., B.2., and B.3., removing paragraph B.8., redesignating paragraphs B.9. through B.11. as paragraphs B.8. through B.10., revising newly redesignated paragraphs B.8. and B.9., and revising paragraphs C.10. and C.13. under White River National Wildlife Refuge.

These additions and revisions read as follows:

§ 32.23 Arkansas.

* * * * *

Bald Knob National Wildlife Refuge

* * * * *

C. Big Game Hunting. * * *

* * * * *

10. We allow only portable deer stands capable of being carried in their entirety by a single individual. Hunters may erect stands 7 days prior to the refuge deer season and must remove them from the waterfowl sanctuaries prior to November 15, except for stands used by Quota Gun Deer Hunt permit holders (signature required), which hunters must remove by the last day of the Quota Gun Deer Hunt. Hunters must remove all stands on the remainder of the refuge within 7 days of the closure of archery season (see § 27.93 of this chapter). Hunters must permanently affix the owner's name and address to their deer stands on the refuge.

* * * * *

Big Lake National Wildlife Refuge

* * * * *

C. Big Game Hunting. * * *

* * * * *

7. We allow only portable deer stands capable of being carried in their entirety by a single individual. Hunters may erect stands 7 days prior to the refuge deer season and must remove them within 7 days of the closure of archery season (see § 27.93 of this chapter). Hunters must permanently affix the owner's name and address to stands on the refuge.

* * * * *

Cache River National Wildlife Refuge

* * * * *

C. Big Game Hunting. * * *

* * * * *

10. We allow only portable deer stands capable of being carried in their entirety by a single individual.

* * * * *

Felsenthal National Wildlife Refuge

* * * * *

C. Big Game Hunting. * * *

* * * * *

16. We restrict hunt participants for quota hunts to those drawn for a quota permit (OMB 1018-0140). These permits are nontransferable and permit fees are nonrefundable. If conditions prevent the hunts from taking place, there will be no refunds or permits carried over from year to year. Hunt dates and application procedures will be available at the refuge office in July for deer and January for turkey.

* * * * *

Overflow National Wildlife Refuge

A. Migratory Game Bird Hunting. * * *

* * * * *

5. We close areas of the refuge by posting “Area Closed” signs and identifying them on the refuge hunt brochure map as “Sanctuary” and closed to all public entry and public use. Exception: We open the area identified as “North Sanctuary” on the refuge hunt brochure map to all authorized public use activities from 2 days prior to the opening of deer archery season through October 31.

* * * * *

Wapanocca National Wildlife Refuge

* * * * *

C. Big Game Hunting. * * *

* * * * *

6. We allow only portable deer stands capable of being carried in their entirety by a single individual. Hunters may erect stands 7 days prior to the refuge deer season and must remove them from the waterfowl sanctuaries by December 1. Hunters must remove all stands on the remainder of the refuge within 7 days of the closure of archery season (see § 27.93 of this chapter). Hunters must permanently affix their name and address on stands on the refuge.

* * * * *

White River National Wildlife Refuge

A. Migratory Game Bird Hunting. * * *

* * * * *

22. We allow refuge users to leave boats 16 feet (4.8 m) or less in length unattended overnight from March 1 to October 31 as long as the owner clearly and prominently displays his or her complete name and physical address.

* * * * *

B. Upland Game Hunting. * * *

* * * * *

2. We allow hunting of rabbit and squirrel on the North Unit from September 1 until January 31.

3. We allow dogs for hunting of rabbit and squirrel from December 1 through January 31 on the North Unit.

* * * * *

8. We allow furbearer (as defined by State law) hunting in accordance with season dates posted in the refuge user brochure/permit (signed brochure). We allow furbearer hunting only with rimfire weapons and shotguns.

9. We allow the use of dogs for hunting furbearers from legal sunset to legal sunrise. Hunters must tether or pen all dogs used for furbearer hunting from legal sunrise to legal sunset and any time they are not involved in actual hunting.

* * * * *

C. Big Game Hunting. * * *

* * * * *

10. We close refuge lands on the North Unit to all deer hunting and fall turkey hunting when the White River Gauge at St. Charles (station no. 53) reaches 23 feet (7 m) as reported by the following Web site: http://www.srh.noaa.gov/lzk/html/whitervr.htm. The season will reopen when the gauge reading reaches 21 feet (6 m) as reported by the same Web site.

* * * * *

13. We prohibit the use of dogs other than those specified in the user permit.

* * * * *

6. Amend § 32.28 Florida by:

a. Revising paragraphs D.9., D.10., and D.17. under J.N. “Ding” Darling National Wildlife Refuge;

b. Revising paragraphs A.2., B.3., and C.25. under Lower Suwannee National Wildlife Refuge;

c. Revising paragraphs B.1., B.3., and B.4., adding a new paragraph B.11., and revising paragraphs C.8., C.9., and D.11. under St. Marks National Wildlife Refuge;

d. Revising paragraph C.9. under St. Vincent National Wildlife Refuge; and

e. Revising paragraph A.13. under Ten Thousand Islands National Wildlife Refuge.

These additions and revisions read as follows:

§ 32.28 Florida.

* * * * *

J.N. “Ding” Darling National Wildlife Refuge

* * * * *

D. Sport Fishing. * * *

* * * * *

9. We allow anglers to launch canoes and kayaks anywhere on the north side of Wildlife Drive. We prohibit launching motorized vessels over 14 feet (4.2 m) in length from Wildlife Drive. We allow launching of motorized vessels only 14 feet (4.2 m) or less in length from designated site #2.

10. We allow public access to Wildlife Drive and Indigo Trail, except on Fridays, when we close Wildlife Drive to all public access. See hours posted at the front gate, on the refuge Web site http://www.fws.gov/dingdarling/, or call 239-472-1100.

* * * * *

17. We prohibit the use of bows and spears from Wildlife Drive or any structure affixed to shore.

* * * * *

Lower Suwannee National Wildlife Refuge

A. Migratory Game Bird Hunting. * * *

* * * * *

2. We designate open and closed refuge hunting areas on the map in the refuge hunt brochure. The hunter must possess and carry this brochure while hunting on the refuge. The refuge can designate temporary closed hunting areas at the management's discretion for refuge management activities (e.g., prescribed burns, forestry, habitat restoration, wildlife management).

* * * * *

B. Upland Game Hunting. * * *

* * * * *

3. You may use only .17, .22, and .22 magnum caliber rimfire rifle firearms (see § 27.42 of this chapter), bows, or shotguns with shot no larger than #4 birdshot when hunting. The refuge retains the discretion to allow the use of a crossbow during refuge hunts.

* * * * *

C. Big Game Hunting. * * *

* * * * *

25. We retain the discretion to allow the use of crossbows during all or portions of refuge hunts. We may allow, on a case-by-case basis, individuals with a State-issued disabled-persons crossbow permit use of crossbows. Those individuals will hunt according to State regulations.

* * * * *

St. Marks National Wildlife Refuge

* * * * *

B. Upland Game Hunting. * * *

1. We require refuge permits (signed brochure) for hunting upland game. Permits are available at no cost from the refuge office. Each hunter must possess and carry a signed refuge permit while participating in a hunt.

* * * * *

3. You may use .22 caliber or smaller rim-fire rifles, shotguns with nontoxic shot (#4 bird shot or smaller) (see § 32.2(k)), or muzzleloaders to harvest squirrel, rabbit, and raccoon. In addition, you may use shotgun slugs, buckshot, archery equipment, or pistols to take feral hogs. We prohibit the use of other weapons.

4. We allow the use of leashed dogs for trailing injured or harvested game. We prohibit unleashed dogs.

* * * * *

11. We limit vehicle access to permitted hunters during the hunt.

C. Big Game Hunting. * * *

* * * * *

8. The bag limit for white-tailed deer is two deer per scheduled hunt period. We allow hunters to harvest two antlerless deer per scheduled hunt period. We define antlerless deer per State regulations (i.e., deer with no antlers or antlers less than 5 inches (12.5 cm)). Otherwise, hunters may harvest one antlerless deer and one antlered deer per hunt. Hunters must ensure that antlered deer must have at least 3 points, of 1 inch (2.5 cm) or more length.

9. There is one youth hunt, for youth ages 12 to 17, on the St. Marks Unit in an area we will specify in the refuge hunt brochure. Hunters may harvest one deer of either sex or feral hog (no limit). An adult age 21 or older possessing a refuge permit (State permit) must accompany each youth hunter, and each adult may accompany only one youth. Only the youth hunter may handle or discharge firearms. Contact the refuge office for specific dates.

* * * * *

D. Sport Fishing. * * *

* * * * *

11. We prohibit commercially registered boats, air-thrust boats, commercial guides, and personal watercraft to launch at the saltwater boat ramp on the St. Marks Unit.

* * * * *

St. Vincent National Wildlife Refuge

* * * * *

C. Big Game Hunting. * * *

* * * * *

9. We limit weapons to primitive weapons (bow and arrow and muzzleloader) on the sambar deer hunt and the primitive weapons white-tailed deer hunt. We limit the archery hunt to bow and arrow. Weapons must meet all State regulations. We prohibit crossbows during the white-tailed deer archery hunt except with a State disabled persons permit.

* * * * *

Ten Thousand Islands National Wildlife Refuge

A. Migratory Game Bird Hunting. * * *

* * * * *

13. We allow youth hunt days in accordance with State regulations. We also will designate a special youth hunt day during the second phase of the regular State waterfowl season that we will specify in the annual hunt brochure. Hunters under age 16 may hunt only with a nonhunting adult age 18 or older. Youth hunters must remain within sight and sound of the nonhunting adult.

* * * * *

7. Amend § 32.29 Georgia by:

a. Removing paragraph C.17. and redesignating paragraphs C.18. through C.20. as paragraphs C.17. through C.19. under Blackbeard Island National Wildlife Refuge;

b. Adding paragraphs A. and B., and revising paragraph C. under Bond Swamp National Wildlife Refuge;

c. Removing paragraph C.18. and redesignating paragraphs C.19. and C.20. as paragraphs C.18. and C.19. under Harris Neck National Wildlife Refuge;

d. Removing paragraph A.4. and redesignating paragraph A.5. as A.4., revising the introductory text of paragraph B., revising paragraph B.3., removing paragraphs B.5. and B.6., redesignating paragraphs B.7. and B.8. as B.5. and B.6, revising newly redesignated paragraphs B.5. and B.6., removing paragraph C.2., redesignating paragraph C.3. as paragraph C.2., revising newly redesignated paragraph C.2., removing paragraph C.4., redesignating paragraph C.5. as paragraph C.3., revising newly redesignated paragraph C.3., redesignating paragraphs C.6. and C.7. as paragraphs C.4. and C.5., removing paragraph C.8, redesignating paragraph C.9. as paragraph C.6., revising newly redesignated paragraph C.6., redesignating paragraph C.10. as paragraph C.7. and revising newly redesignated paragraph C.7., and redesignating paragraphs C.11. and C.12. as paragraphs C.8. and C.9. under Savannah National Wildlife Refuge; and

e. Removing paragraph C.19. and redesignating paragraphs C.20. and C.21. as paragraphs C.19. and C.20. under Wassaw National Wildlife Refuge.

These additions and revisions read as follows:

§ 32.29 Georgia.

* * * * *

Bond Swamp National Wildlife Refuge

A. Migratory Game Bird Hunting. We allow hunting of waterfowl, mourning dove, snipe, and woodcock on designated areas of the refuge in accordance with State regulations subject to the following conditions:

1. We coordinate hunting seasons and limits with the State and annually list them in the hunting brochure.

2. We require you to possess and carry a signed refuge hunt brochure while hunting. The hunt brochure will serve as the hunt permit. You may obtain this permit from the refuge Web site, kiosks at designated parking lots, or the refuge office.

3. At the manager's discretion we may zone or restrict some of the areas of the refuge to season of use, while we may close other areas to all public use.

4. Persons possessing, transporting, or carrying firearms on national wildlife refuges must comply with all provisions of State and local law. Persons may only use (discharge) firearms in accordance with refuge regulations (50 CFR 27.42 and specific refuge regulations in part 32).

5. We allow the incidental take of feral hog with legal weapons during open season.

6. We allow only nontoxic shot with the use of a shotgun in designated areas at the manager's discretion (see § 32.2(k)).

7. We require hunters to report all harvested game at the check station before leaving the refuge (see hunting brochure).

8. We allow access to the hunt area from 1 hour before legal sunrise until 1 hour after legal sunset.

9. We allow the use of hunting dogs during migratory bird hunts.

10. We allow motorized boats in designated areas at the manager's discretion.

11. We prohibit flagging, blazing, painting, or any other trail-marking devices.

12. We prohibit hunting within 50 yards (45 m) of a road open to vehicle travel or within 200 yards (180 m) of a building.

13. We prohibit entry into the designated hunt area by nonhunters during the hunts.

14. We prohibit use or possession of alcoholic beverages while hunting on the refuge (see § 32.2(j)).

15. We prohibit target practice or any nonhunting discharge of firearms (see § 27.42 of this chapter).

16. We prohibit walking or trespassing on the railroad tracks to access the refuge.

17. We prohibit removal of live hogs from the refuge.

18. We prohibit the use of organized drives for taking or attempting to take game.

19. Youth hunters age 15 and under must remain within sight and normal voice contact of an adult age 21 or older possessing a valid hunting license. One adult may supervise no more than one youth hunter.

20. We prohibit taking, collecting, or disturbing any artifact, property, plant, wildlife, or part thereof, other than that specifically allowed by refuge regulation (see §§ 27.61 and 27.62 of this chapter).

21. We prohibit littering (see § 27.94 of this chapter).

22. We prohibit disturbing, annoying, or interfering with other persons.

23. We prohibit open fires (see § 27.95(a) of this chapter).

24. We prohibit ATVs on the refuge except by disabled hunters with a refuge Special Use Permit (General Special Use Application and Permit FWS Form 3-1383-G).

25. We prohibit off-road vehicle travel.

26. We prohibit vehicle travel around a closed gate.

27. We prohibit blocking refuge roads, boat ramp, or gates with vehicles, boats, or trailers.

28. We prohibit leaving vehicles, boats, or trailers on the refuge overnight (see § 27.93 of this chapter).

29. We prohibit overnight camping and/or parking.

B. Upland Game Hunting. We allow hunting of squirrel, rabbit, and quail on designated areas of the refuge in accordance with State regulations subject to the following conditions:

1. Conditions A1 through A8 and A10 through A29 apply.

2. We allow the use of hunting dogs during small game hunts.

3. We require each small game hunter to wear at least 500 square inches (3,250 cm²) of hunter orange as an outer garment above the waist during small game hunts.

C. Big Game Hunting. We allow hunting for white-tailed deer, feral hog, and turkey on designated areas of the refuge in accordance with State regulations subject to the following conditions:

1. Conditions A1 through A8 and A10 through A29 apply.

2. We may implement designated feral hog hunts at the manager's discretion.

3. We prohibit the use of buckshot.

4. We prohibit the use of dogs during deer and feral hog hunts.

5. We require each deer and feral hog hunter to wear at least 500 square inches (3,250 cm²) of hunter orange as an outer garment above the waist during hunts.

* * * * *

Savannah National Wildlife Refuge

* * * * *

B. Upland Game Hunting. We allow hunting of squirrel on designated areas of the refuge in accordance with State regulations subject to the following conditions:

* * * * *

3. We prohibit hunting on or within 100 yards (90 m) of U.S. Highway 17, GA Highway 25/SC Highway 170, refuge facilities, road and trails, railroad rights of way, and within areas marked as closed.

* * * * *

5. During the period when the squirrel hunt coincides with the refuge gun hunt for deer and hogs, we require hunters to possess a big game license (State) and to wear an outer garment containing a minimum of 500 square inches (3,250 cm²) of hunter-orange material above the waistline.

6. Condition A4 applies.

C. Big Game Hunting. * * *

* * * * *

2. We allow only bows, in accordance with State regulations, for deer and hog hunting during the refuge archery hunt.

3. We allow only shotguns (20 gauge or larger; slugs only), center-fire rifles (.22 caliber or larger), muzzleloaders, and bows, in accordance with State regulations, for deer and hog hunting during the gun hunts.

* * * * *

6. Conditions A4 and B3 apply.

7. Turkey hunters may harvest only three gobblers (male turkey).

* * * * *

8. Amend § 32.30 Hawaii by revising paragraph C. under Hakalau Forest National Wildlife Refuge to read as follows:

§ 32.30 Hawaii.

* * * * *

Hakalau Forest National Wildlife Refuge

* * * * *

C. Big Game Hunting. [Reserved]

* * * * *

9. Amend § 32.31 Idaho by revising the entry for Deer Flat National Wildlife Refuge to read as follows:

§ 32.32 Idaho.

* * * * *

Deer Flat National Wildlife Refuge

A. Migratory Game Bird Hunting. We allow hunting of goose, duck, coot, common snipe, and dove on designated areas of the refuge in accordance with State regulations subject to the following conditions:

1. You may hunt only duck, coot, and dove on the Lake Lowell Unit.

2. Duck and coot hunting in the East Side Recreation Area is walk-in only. Duck and coot hunters may use float tubes, nonmotorized boats, or boats equipped with only electric motors within 200 yards (180 m) of the shoreline in the South Side Recreation Area.

3. We allow only portable and temporary blinds. We prohibit permanent structures.

4. You must remove boats, decoys, blinds, other personal property, and any materials brought onto the refuge for blind construction at the end of each day.

5. We allow hunters to enter the refuge 1 hour before official shooting hours (½ hour before legal sunrise), and remain on the refuge until 1 hour after official shooting hours (legal sunset).

6. We allow the use of dogs for hunting. Dogs must be under the immediate control of the handler at all times and not allowed to roam at large.

7. From February 1 through May 31, we prohibit hunting on the Snake River Islands Unit.

B. Upland Game Hunting. We allow hunting of upland game on designated areas of the refuge in accordance with State regulations subject to the following conditions:

1. You may hunt only pheasant, quail, and partridge on the Lake Lowell Unit.

2. We allow hunters to enter the refuge 1 hour before official shooting hours (½ hour before legal sunrise), and remain on the refuge until 1 hour after official shooting hours (½ hour after legal sunset).

3. We allow the use of dogs for hunting. Dogs must be under the immediate control of the handler at all times and not allowed to roam at large.

C. Big Game Hunting. We allow hunting of deer on designated areas of the refuge in accordance with State regulations subject to the following conditions;

1. You must obtain a refuge-specific hunting permit (signed brochure) to hunt deer on the Lake Lowell Unit. Hunters must sign and carry the permit in the field while hunting.

2. Only the southern portion of the Lake Lowell Unit is open to deer hunting. We define the deer hunting area on the north by the southern shoreline of Lake Lowell, on the east by the New York Canal, on the south by the southern boundary of the refuge, and on the west by Riverside Road.

3. Hunters may place up to two portable deer stands (including elevated platforms) in the Lake Lowell Unit. Hunters must place stands/platforms by hand, without the use of a vehicle. Hunters may place stands/platforms on the refuge no earlier than the beginning date of the assigned hunt permit and must remove them no later than the ending date of the hunt permit. Each stand must bear the hunter's name, address, and telephone number so that it is legible from the ground.

4. In the Lake Lowell Unit you may only shoot deer while hunting from an elevated tree stand/platform. We prohibit ground stalking and/or still hunting from the ground. We prohibit shooting a firearm or bow while on the ground, except to kill a downed deer.

5. While hunting from a tree stand, you must use a Fall-Arrest System (FAS)/Full Body Harness meeting Treestand Manufacturer's Association (TMA) Standards.

6. Hunters may only access the Lake Lowell Unit deer hunting area from Parking Areas 1-8.

7. Hunters may enter the Lake Lowell Unit no earlier than 2 hours before official shooting hours (½ hour before legal sunrise) and must leave the area within 2 hours after official shooting hours (½ hour after legal sunset). Successful hunters may extend their departure time up to 5 hours past official shooting hours (½ hour after legal sunset) to retrieve dead deer.

8. A refuge employee or State Game Warden must accompany hunters to retrieve a wounded or dead deer from any Closed Area.

D. Sport Fishing. We allow fishing on designated areas of the refuge in accordance with State regulations subject to the following conditions:

1. During the waterfowl hunting season, we allow fishing only within 200 yards (180 m) of the shoreline in front of both the Lower Dam (Fishing Area A) and the Upper Dam (Fishing Area B) on the Lake Lowell Unit.

2. From October 1 through April 14, we allow nonmotorized boats from ½ hour before legal sunrise to ½ hour after legal sunset only within 200 yards (180 m) of the shoreline in front of both the Lower Dam (Fishing Area A) and the Upper Dam (Fishing Area B) on the Lake Lowell Unit.

3. From April 15 through September 30, we allow motorized and nonmotorized boats from ½ hour before legal sunrise to ½ hour after legal sunset throughout the Lake Lowell Unit.

4. From February 1 through May 31, we prohibit fishing from the islands within the Snake River Islands Unit.

* * * * *

10. Amend § 32.32 Illinois by:

a. Revising paragraph D. under Chautauqua National Wildlife Refuge;

b. Adding paragraph A.4., revising paragraph B., revising paragraphs C.1. and C.2., adding paragraph C.3., and revising paragraph D. under Emiquon National Wildlife Refuge; and

c. Revising paragraphs D.1. and D.2. under Meredosia National Wildlife Refuge.

These additions and revisions read as follows:

§ 32.32 Illinois.

* * * * *

Chautauqua National Wildlife Refuge

* * * * *

D. Sport Fishing. We allow fishing on designated areas of the refuge from legal sunrise to legal sunset in accordance with State regulations subject to the following conditions:

1. We allow fishing on Lake Chautauqua from February 1 through October 15. We prohibit fishing in the Waterfowl Hunting Area during the waterfowl hunting season.

2. We allow bank fishing year-round between the boat ramp and the fishing trail in the North Pool and from Goofy Ridge Public Access to the west gate of the north pool water control structure.

3. Motorboats must not exceed “no-wake” speeds.

4. We prohibit the public entering Weis Lake on the Cameron-Billsbach Unit of the refuge from October 16 through January 31.

5. We prohibit leaving boats on refuge waters overnight (see § 27.93 of this chapter).

* * * * *

Emiquon National Wildlife Refuge

A. Migratory Game Bird Hunting. * * *

* * * * *

4. We allow access for hunting from 1 hour before legal shooting time (consult the State regulations for the species in question) until 1 hour after legal sunset.

B. Upland Game Hunting. We allow upland game hunting on designated areas of the refuge in accordance with State regulations subject to the following condition: Condition A4 applies.

C. Big Game Hunting. * * *

1. Condition A4 applies.

2. We prohibit the construction or use of permanent blinds, platforms, or ladders (see § 27.93 of this chapter).

3. You must remove all portable hunting stands and blinds from the area at the end of each day's hunt (see §§ 27.93 and 27.94 of this chapter).

D. Sport Fishing. We allow sport fishing throughout the year on designated areas of the refuge. We allow fishing from legal sunrise to legal sunset in accordance with State regulations subject to the following conditions:

1. We prohibit fishing in the Waterfowl Hunting area during the waterfowl hunting season.

2. We prohibit leaving boats on refuge waters overnight (see § 27.93 of this chapter).

3. Condition A3 applies.

* * * * *

Meredosia National Wildlife Refuge

* * * * *

D. Sport Fishing. * * *

1. We allow sport fishing on all areas open to public access from legal sunrise to legal sunset from February 1 to October 15.

2. We allow access to Meredosia Lake from the boat ramp and allow foot access on refuge land along the east side of the Meredosia Lake in Morgan County from legal sunrise to legal sunset throughout the year.

* * * * *

11. Amend § 32.33 Indiana by:

a. Revising paragraphs B., C.1., C.3., D.1., and D.4. under Big Oaks National Wildlife Refuge; and

b. Revising paragraphs B.1., B.4., C., and D. under Muscatatuck National Wildlife Refuge.

These revisions read as follows:

§ 32.33 Indiana.

* * * * *

Big Oaks National Wildlife Refuge

* * * * *

B. Upland Game Hunting. We allow hunting of squirrel in accordance with State regulations subject to the following conditions.

1. We require a refuge hunt permit (signature only).

2. We allow the use of hunting dogs only during the squirrel hunting season. You must ensure that all hunting dogs wear a collar displaying the owner's name, address, and telephone number.

3. You must hunt only in assigned areas. We prohibit trespass into an unassigned hunt area.

4. In areas posted “Area closed,” we prohibit entry, including hunting.

5. We prohibit the use of flagging tape and reflective tacks.

6. We allow the use of squirrel hunting dogs only in the day-use areas.

7. You may possess only approved nontoxic shot while in the field (see § 32.2(k)).

8. We require that all hunters check all harvested game taken on the refuge at the refuge check station.

9. We require all refuge hunters to hunt with a partner. We require hunting partners to know the location of their partner while hunting. An adult, age 18 or older, must directly supervise youth hunters age 17 or under.

10. We prohibit the use or possession of alcoholic beverages while hunting on the refuge (see § 32.2(j)).

11. Hunters must possess and carry a compass and/or GPS while hunting on the refuge.

C. Big Game Hunting. * * *

1. Conditions B1, B3, B4, B5, and B7 through B11 apply.

* * * * *

3. We allow the use of portable hunting stands and blinds. You may leave hunting stands and blinds in the field overnight only if you will be hunting that same location the following day. We prohibit tree steps or screw-in steps (see § 32.2(i)).

D. Sport Fishing. * * *

1. We require a refuge access permit (signature only).

* * * * *

4. We allow boats only if rowed, paddled, or powered by an electric trolling motor on the Old Timbers Lake.

* * * * *

Muscatatuck National Wildlife Refuge

* * * * *

B. Upland Game Hunting. * * *

1. We prohibit hunting and the discharge of a firearm within 100 yards (30 m) of any dwelling or any other building that people, pets, or livestock may occupy.

* * * * *

4. You may possess only approved nontoxic shot while in the field (see § 32.2(k)).

* * * * *

C. Big Game Hunting. We allow hunting of white-tailed deer and turkey on designated areas of the refuge in accordance with State regulations subject to the following conditions:

1. Conditions B1, B5, and B7 apply.

2. You must possess and carry a State-issued refuge hunting permit to hunt deer during the State muzzleloader season and the youth hunting weekend.

3. We prohibit firearms deer hunting during the State firearms season except in compliance with condition C2.

4. You may take only one deer per day from the refuge.

5. We prohibit the construction or use of permanent blinds, platforms, or ladders (see § 27.92 of this chapter).

6. We allow only spring turkey hunting on the refuge, and hunters must possess a State-issued hunting permit during the first 2 weeks of the season.

7. We require successful deer and turkey hunters to report their harvest on the Big Game Harvest Report (FWS Form 3-2359) at a box at the entrance gate before leaving the refuge.

8. Our late archery season deer hunt is open from the end of the State muzzleloader season to the conclusion of the State late archery season.

9. We allow archery deer hunting in November except during youth hunting weekend.

D. Sport Fishing. We allow fishing on designated areas of the refuge in accordance with State regulations subject to the following conditions:

1. We allow the use of boats (hand- or foot-propelled only) on Stanfield Lake. We prohibit the use of electric or gasoline motors.

2. We allow the use of kayaks and nonmotorized canoes on Richart Lake.

3. We allow the use of belly boats or float tubes in all designated fishing areas.

4. We allow fishing only with rod and reel or pole and line.

5. We prohibit harvest of frog and turtle (see § 27.21 of this chapter).

6. We prohibit the use of lead fishing tackle.

* * * * *

12. Amend § 32.35 Kansas by:

a. Revising paragraph A. and B.1., adding paragraphs B.2. through B.4., revising paragraph C.5., and adding paragraph C.6. under Flint Hills National Wildlife Refuge; and

b. Revising paragraph A.4. and adding paragraph D.8. under Quivira National Wildlife Refuge.

These additions and revisions read as follows:

§ 32.35 Kansas.

* * * * *

Flint Hills National Wildlife Refuge

A. Migratory Game Bird Hunting. We allow hunting of goose, duck, coot, dove, rail, woodcock, crow, and common snipe on designated areas of the refuge in accordance with State regulations subject to the following conditions:

1. We allow waterfowl hunting only on portions of the refuge on the south side of the Neosho River.

2. We prohibit hunting on the Neosho River and using boats on the river to gain hunting access.

3. We prohibit shooting from or over roads and parking areas.

4. You must remove boats, decoys, portable blinds, other personal property, and any materials brought onto the area for blind construction at the end of each day (see §§ 27.93 and 27.94 of this chapter).

5. You may leave temporary blinds (other than portable blinds) constructed of natural vegetation found on site overnight. We prohibit bringing any type of live or dead vegetation onto the refuge for any purpose at any time. Construction of these temporary blinds does not constitute exclusive use of the blind.

6. Dogs must be under the owner's immediate control at all times.

7. We prohibit hunters or dogs retrieving game in areas closed to hunting.

8. We prohibit leaving decoys unattended at any time.

9. We allow crow hunting on designated areas of the refuge subject to the following conditions:

i. We prohibit the use of centerfire rifles and pistols for hunting on the range.

ii. We close hunting areas on the north side of the Neosho River to all hunting from November 1 through March 1.

iii. Conditions A2, A3, and A7 apply.

B. Upland Game Hunting. * * *

1. Conditions A2, A3, A6, and A7 apply.

2. Hunters may possess only approved nontoxic shot (see § 32.2(k)).

3. We prohibit the use of centerfire rifles and pistols for hunting on the refuge.

4. We close hunting areas on the north side of the Neosho River to all hunting from November 1 through March 1.

C. Big Game Hunting. * * *

* * * * *

5. We allow portable tree stands and/or portable ground blinds; however, you must remove them along with any other personal property at the end of each day (see §§ 27.93 and 27.94 of this chapter).

6. Conditions A2, A3, A7, B3, and B4 apply.

* * * * *

Quivira National Wildlife Refuge

A. Migratory Game Bird Hunting. * * *

* * * * *

4. The refuge is open from 1½ hours before legal sunrise to 1½ hours after legal sunset. We prohibit hunters entering refuge hunting areas to set up decoys and other devices until 1 hour prior to legal shooting time (½ hour before legal sunrise). Hunters must remove all decoys within 1 hour following the end of legal shooting time (legal sunset).

* * * * *

D. Sport Fishing. * * *

* * * * *

8. The refuge is open 1½ hours before legal sunrise to 1½ hours after legal sunset.

13. Amend § 32.37 Louisiana by:

a. Revising paragraphs A.3., A.5., and A.13., adding paragraph A.20., and revising paragraph D.2. under Bayou Sauvage National Wildlife Refuge;

b. Revising paragraph A.6. and A.17., adding paragraph A.18., and revising paragraphs B.4., C.8., and D.1. under Big Branch Marsh National Wildlife Refuge;

c. Adding paragraph D.9. under Black Bayou Lake National Wildlife Refuge;

d. Revising paragraphs A.9., A.13., B.4., C.1., and C.5., redesignating paragraphs C.6. through C.10. as paragraphs C.8. through C.12., and adding new paragraphs C.6. and C.7. under Bogue Chitto National Wildlife Refuge;

e. Revising paragraphs A.7. and D.10. under Lacassine National Wildlife Refuge;

f. Revising paragraphs A.16., D.8.i., D.8.ii., D.8.iv., and D.8.vi., removing paragraph D.8.ix., and redesignating paragraph D.8.x. as paragraph D.8.ix. under Sabine National Wildlife Refuge; and

g. Revising the entry for Upper Ouachita National Wildlife Refuge.

These additions and revisions read as follows:

§ 32.37 Louisiana.

* * * * *

Bayou Sauvage National Wildlife Refuge

A. Migratory Game Bird Hunting. * * *

* * * * *

3. We allow waterfowl (duck, goose, and coot) hunting until 12 p.m. (noon) on Wednesdays, Thursdays, Saturdays, and Sundays, including early teal season, youth waterfowl hunt season, or other such special seasons that may be promulgated by law or statute. We will close the refuge to waterfowl and coot hunting during any segment of goose season that extends beyond the regular duck season.

* * * * *

5. We allow hunting only on those portions of the refuge that lie outside of the confines of the hurricane protection levee, unless we post areas closed to hunting or designated areas closed on the refuge hunt permit (signed brochure).

* * * * *

13. We prohibit air-thrust boats, aircraft, mud boats, and air-cooled propulsion engines on the refuge, except hunters may use air-cooled propulsion engines to traverse the refuge through the Intracoastal Waterway and the Irish Bayou Straight Canal.

* * * * *

20. We close all portions of the refuge outside of the Hurricane Protection Levee to public entry other than waterfowl hunting until 12 p.m. from November 1 through January 31 and during the State teal season.

* * * * *

D. Sport Fishing. * * *

* * * * *

2. We allow sport fishing and shell fishing year-round on designated areas of the refuge and only after 12 p.m. on portions of the refuge outside of the Hurricane Protection Levee from November 1 through January 31 and during the State teal season. We close the remainder of the refuge from November 1 through January 31.

* * * * *

Big Branch Marsh National Wildlife Refuge

A. Migratory Game Bird Hunting. * * *

* * * * *

6. We prohibit air-thrust boats, aircraft, mud boats, and air-cooled propulsion engines on the refuge.

* * * * *

17. We prohibit the use of any type of material used as flagging or trail markers except reflective tacks.

18. We designate refuge areas closed to public hunting on the refuge hunt permit (signed brochure) or posted with no hunting signs.

B. Upland Game Hunting. * * *

* * * * *

4. Conditions A5 through A10 and A12 through A18 apply.

C. Big Game Hunting. * * *

* * * * *

8. Conditions A5 through A10 and A12 through A18 apply.

* * * * *

D. Sport Fishing. * * *

1. You may fish only from ½ hour before legal sunrise until ½ hour after legal sunset, except we allow night fishing from the bank and pier on Lake Road.

* * * * *

Black Bayou Lake National Wildlife Refuge

* * * * *

D. Sport Fishing. * * *

* * * * *

9. We prohibit crossing the water hyacinth booms in a boat or traveling over idle speed within the booms.

Bogue Chitto National Wildlife Refuge

A. Migratory Game Bird Hunting. * * *

* * * * *

9. We allow primitive camping within 100 feet (30 m) of designated streams. These include either bank of the Boque Chitto River, Wilson Slough, and West Pearl River south of Wilson Slough, refuge lands along the East Pearl River, and Holmes Bayou. Campers must mark their campsite with the owner's name, address, and phone number placed in a conspicuous location in the center of camp.

* * * * *

13. We prohibit the use of any type of material used as flagging or trail markers, except reflective tacks.

* * * * *

B. Upland Game Hunting. * * *

* * * * *

4. All hunters in Louisiana (including archery hunters and small game hunters), except waterfowl hunters, must wear and display not less than 400 square inches (2,600 cm²) of unbroken hunter-orange as the outermost layer of clothing on the chest and back and a hunter-orange cap during deer gun seasons. We require all deer hunters to display a minimum of 400 square inches of hunter-orange or a hunter-orange cap or hat while walking to and from elevated stands. All hunters in Mississippi must wear not less than 500 square inches of hunter-orange in place of the 400 square inches requirement described above. All hunters, including archers (while on the ground), except waterfowl hunters, must wear a hunter-orange cap during the dog season for squirrels and rabbits.

* * * * *

C. Big Game Hunting. * * *

1. Conditions A5 through A7, A9 through A11, A13 through A17, B2, and B4 apply.

* * * * *

5. We list specific dates for the primitive weapons big game hunts in the refuge hunt brochure.

6. Legal primitive firearms used for hunting the primitive firearms season in Louisiana include:

i. Rifles or pistols, .35 caliber minimum, or shotguns 10 gauge or smaller, all of which must load exclusively from the muzzle or cap and ball cylinder; use of black powder or approved substitute only; use of ball or bullet projectile only, including saboted bullets, including primitive firearms known as “inline” primitive firearms; and

ii. Single shot, breech-loading rifles, .35 caliber or larger of a kind or type manufactured prior to 1900; and replicas, reproductions, or reintroductions of that type of rifle having an exposed hammer that use metallic cartridges loaded with black power or modern smokeless powder. Hunters may fit all of the above with magnified scopes.

7. Legal primitive firearms/weapons used for hunting the primitive firearms season in Mississippi are crossbows and primitive firearms, which include:

i. a. Single or double-barreled-muzzle-loading rifles of at least .38 caliber; single shot, breech- loading-metallic-cartridge rifles (.35 caliber or larger) and replicas, reproductions, or reintroductions of those type rifles with an exposed hammer; and

b. Single or double-barreled-muzzle-loading shotguns, with single ball or slug.

ii. All muzzle-loading primitive firearms must use black powder or a black powder substitute with either percussion caps or #209 shotgun primers or flintlock ignition. Hunters may load metallic cartridges with black powder or modern smokeless powder. Hunters may fit all of the above with magnified scopes.

* * * * *

Lacassine National Wildlife Refuge

A. Migratory Game Bird Hunting. * * *

* * * * *

7. We prohibit all boat motors, excluding trolling motors, within refuge marshes. We prohibit air-thrust boats and ATVs on the refuge (see § 27.31(f) of this chapter), unless otherwise permitted.

* * * * *

D. Sport Fishing. * * *

* * * * *

10. We prohibit boat and bank fishing in Lacassine Pool Unit D and refuge waters from October 16 through March 14.

* * * * *

Sabine National Wildlife Refuge

A. Migratory Game Bird Hunting. * * *

* * * * *

16. An adult at least age 21 must supervise youth hunters under age 16 during all hunts. One adult may supervise two youths during migratory game bird hunts. Youth must remain within normal voice contact of the adult who is supervising them. Parents or adult guardians are responsible for ensuring that hunters under age 16 do not engage in conduct that would constitute a violation of refuge regulations.

* * * * *

D. Sport Fishing. * * *

* * * * *

8. * * *

i. We allow recreational cast netting from boats only from legal sunrise to legal sunset during the Louisiana inshore shrimp season.

ii. Anglers must immediately return all incidental take (bycatch) to the water before continuing to cast.

* * * * *

iv. The daily bait shrimp limit is one gallon (3.8 L) per day, per boat, outside the Louisiana inshore shrimp season.

* * * * *

vi. We prohibit all cast netting activities from the banks, wharves, and water control structures.

* * * * *

Upper Ouachita National Wildlife Refuge

A. Migratory Game Bird Hunting. We allow hunting of waterfowl (duck, goose, coot, gallinule, rail, snipe), woodcock, and dove on designated areas of the refuge in accordance with State regulations subject to the following conditions:

1. Hunters must possess and carry a signed refuge permit (brochure).

2. We allow dove hunting during the first 3 days of the State season.

3. We allow waterfowl hunting until 12 p.m. (noon) during the State season.

4. Hunters may enter the refuge no earlier than 4 a.m.

5. We prohibit hunting within 100 feet (30 m) of the maintained rights of ways of roads, from or across ATV trails, and from above-ground oil, gas, or electrical transmission facilities.

6. We prohibit leaving boats, blinds, and decoys unattended.

7. We allow only recognized dog breeds to locate, point, and retrieve when hunting for migratory game birds.

8. Youth hunters under age 16 must remain within sight and normal voice contact of an adult age 21 or older. Each adult may supervise no more than two youth hunters.

9. We prohibit any person or group to act as a hunting guide or outfitter, or in any other capacity that receives payment directly or indirectly for services rendered to any other person or persons hunting on the refuge, regardless of whether such payment is for guiding, outfitting, lodging, or club membership.

B. Upland Game Hunting. We allow hunting of quail, squirrel, rabbit, raccoon, beaver, coyote, and opossum on designated areas of the refuge in accordance with State regulations subject to the following conditions:

1. Conditions A1 and A9 (to hunt upland game) apply.

2. We prohibit firearm ammunition used for hunting small game larger than a .22 caliber rim-fire, shotgun slugs, and buckshot.

3. We allow hunting of raccoon and opossum during the daylight hours (legal sunrise to legal sunset) of rabbit and squirrel season. We allow night hunting (legal sunset to legal sunrise) during December and January, and we allow use of dogs for night hunting. We prohibit the selling of raccoon and opossum taken on the refuge for human consumption.

4. We allow the use of dogs to hunt squirrel and rabbit after the last refuge gun deer hunt.

5. To use horses and mules to hunt raccoon and opossum at night, hunters must first obtain a General Special Use Application and Permit (FWS Form 3-1383-G) at the refuge office.

6. Hunters may enter the refuge no earlier than 4 a.m. and must exit no later than 2 hours after legal shooting hours.

7. We allow hunting of beaver and coyote during all open refuge hunts with weapons legal for the ongoing hunt.

8. Youth hunters under age 18 must remain within sight and normal voice contact of an adult age 21 or older. Each adult may supervise no more than two youth hunters.

C. Big Game Hunting. We allow hunting of white-tailed deer, feral hog, and turkey on designated areas of the refuge in accordance with State regulations subject to the following conditions:

1. Conditions A1, A9, B6, and B8 (to hunt big game) apply.

2. We allow deer gun hunts subject to State regulations. Specific open dates will appear in the Annual Public Use Regulations Brochure.

3. The daily bag limit is one either-sex deer. The State season limit applies.

4. We prohibit leaving deer stands, blinds, and other equipment unattended.

5. Deer hunters must wear hunter orange as per State deer hunting regulations on Wildlife Management Areas.

6. We prohibit hunters placing stands or hunting from stands on pine trees with white-painted bands and/or rings.

7. We will hold a limited lottery youth turkey hunt on the Saturday of the State youth turkey hunt weekend.

8. We prohibit possession or distribution of bait or hunting with the aid of bait, including any grain, salt, minerals, or other feed or nonnaturally occurring attractant on the refuge (see § 32.2(h)).

9. We allow hunting of hog during all open refuge hunts with weapons legal for the ongoing hunt.

10. We prohibit the use of dogs for hog hunting.

D. Sport Fishing. We allow fishing on designated areas of the refuge in accordance with State regulations subject to the following conditions:

1. We allow sport fishing year-round except within closed areas of the refuge, as designated by the Annual Public Use Regulations Brochure.

2. We prohibit outboard motors in the Wigeon Ponds.

3. We prohibit launching boats from a trailer or from a nondesignated boat ramp within the Mollicy levee.

4. We prohibit leaving boats and other personal property on the refuge unattended (see § 27.93 of this chapter).

5. You must tend trotlines daily. You must attach ends of trotlines by a length of cotton line that extends into the water.

6. We prohibit commercial fishing. Recreational fishing using commercial gear (slat traps, etc.) requires a special refuge permit (General Special Use Application and Permit, FWS Form 3-1383-G) that you must possess and carry and that is available at the refuge office.

7. We prohibit the taking of turtle (see § 27.21 of this chapter).

15. Amend § 32.38 Maine by:

a. Revising the listing of “Lake Umbagog National Wildlife Refuge” to read “Umbagog National Wildlife Refuge” and placing the newly titled entry in alphabetical order within the section;

b. Revising paragraph A.12., redesignating paragraphs C.6. through C.14. as paragraphs C.7. through C.15., adding a new paragraph C.6., and revising newly redesignated paragraph C.8. under Moosehorn National Wildlife Refuge;

c. Revising paragraph A., and the introductory text of paragraph B., adding paragraph B.5., revising paragraphs C.1. and C.2., redesignating paragraphs C.3. and C.4. as paragraphs C.4. and C.5., adding a new paragraph C.3., and revising newly redesignated paragraph C.5. under Petit Manan National Wildlife Refuge;

d. Revising paragraph A., revising the introductory text of paragraph B., revising paragraph B.3., adding paragraph B.4., revising the introductory text of paragraph C., revising paragraphs C.1. and C.2., and adding paragraph C.4. under Sunkhaze Meadows National Wildlife Refuge; and

e. Revising paragraphs A.1., A.3., A.4., and A.5., revising the introductory text of paragraph B., revising paragraphs B.3., B.5., and B.6., adding paragraph B.7., and revising paragraphs C.1., C.2., and C.4., under the newly titled Umbagog National Wildlife Refuge.

These additions and revisions read as follows:

§ 32.38 Maine.

* * * * *

Moosehorn National Wildlife Refuge

A. Migratory Game Bird Hunting. * * *

* * * * *

12. You must follow the State hunter-orange clothing requirements.

C. Big Game Hunting. * * *

* * * * *

6. The hunter must retrieve all species, including coyotes, harvested on the refuge.

* * * * *

8. All tree stands, blinds, and ladders must be portable.

* * * * *

Petit Manan National Wildlife Refuge

A. Migratory Game Bird Hunting. We allow hunting of duck, goose, woodcock, rail, gallinule, and snipe on designated areas of the refuge (Gouldsboro Bay and Sawyers Marsh Divisions) in accordance with State regulations subject to the following conditions:

1. We allow waterfowl hunting on the following islands: Little Libby, Eastern Brothers, Halifax, Schoppee, Inner Sand, Jordans Delight, Petit Manan, Sally, Abbott, Egg Rock, South Twinnie, John's, Little Marshall, Ship, Trumpet, East and West Barge, Matinicus Rock, Two Bush, Hart, Little Thrumcap, Outer White, Outer Heron, Upper Flag, and Ram.

2. We prohibit erection of permanent waterfowl blinds.

3. You must remove all temporary blinds, concealment materials, boats, and decoys (see § 27.93 of this chapter) each day.

B. Upland Game Hunting. We allow hunting of upland game on designated areas of the refuge (Gouldsboro Bay and Sawyers Marsh Division) in accordance with State regulations subject to the following conditions:

* * * * *

5. The hunter must retrieve all species, including coyotes, harvested on the refuge.

C. Big Game Hunting. * * *

1. We allow white-tailed deer hunting on designated areas of the Petit Manan Point, Sawyers Marsh, and Gouldsboro Bay Division and Bois Bubert Island. Petit Manan Point is open only during the State-prescribed muzzleloader season.

2. We allow black bear hunting only on designated areas of the Sawyers Marsh and Gouldsboro Bay Divisions during the firearm season for white-tailed deer.

3. We prohibit the use of dogs.

* * * * *

5. We normally close the refuge to all visitors from legal sunset to legal sunrise. However, during hunting season, we allow hunters to enter the refuge 1 hour prior to legal sunrise and remain on the refuge 1 hour after legal sunset.

* * * * *

Sunkhaze Meadows National Wildlife Refuge

A. Migratory Game Bird Hunting. We allow hunting of migratory game birds on all areas of the refuge in accordance with State regulations.

B. Upland Game Hunting. We allow hunting of upland game on all areas of the refuge in accordance with State regulations subject to the following conditions:

* * * * *

3. We allow hunters to enter the refuge 1 hour before legal shooting hours (½ hour before legal sunrise in the State of Maine), and they must exit the refuge by 1 hour past legal shooting hours (½ hour after legal sunset in the State of Maine), except for hunters pursuing raccoons and coyotes at night.

4. The hunter must retrieve all species, including coyotes, harvested on the refuge.

C. Big Game Hunting. We allow hunting of black bear, bobcat, moose, and white-tailed deer on all areas of the refuge in accordance with State regulations subject to the following conditions:

1. We require hunter-orange clothing in accordance with State of Maine regulations.

2. We allow hunters to enter the refuge 1 hour before legal shooting hours (½ hour before legal sunrise in the State of Maine), and they must exit the refuge by 1 hour past legal shooting hours (½ hour after legal sunset in the State of Maine).

* * * * *

4. You must remove all tree stands by the last day of the white-tailed deer hunting season (see § 27.93 of this chapter).

* * * * *

Umbagog National Wildlife Refuge

A. Migratory Game Bird Hunting. * * *

1. Hunters must comply with State regulations regarding hunter-orange clothing or material.

* * * * *

3. Pursuant to State regulations, you may use dogs to assist in hunting and retrieval of harvested birds.

4. We prohibit dog training on the refuge.

5. We open the refuge to hunting during the hours stipulated under the State's hunting regulations. Hunters will unload all hunting firearms outside of legal hunting hours.

* * * * *

B. Upland Game Hunting. We allow hunting of coyote (see C. Big Game Hunting), fox, raccoon, woodchuck, squirrel, porcupine, skunk, snowshoe hare, ring-necked pheasant, and ruffed grouse in accordance with State regulations, seasons, and bag limits, subject to the following conditions:

* * * * *

3. We open the refuge to hunting during the hours stipulated under State hunting regulations. Hunters must unload all hunting firearms (see § 27.42 of this chapter) and nock no arrows outside of legal hunting hours (½ hour before legal sunrise and ½ hour after legal sunset in the State of Maine).

* * * * *

5. Each hunter must wear hunter-orange clothing or material as specified by State hunting regulations.

6. We allow hunting of showshoe hare, ring-necked pheasant, and ruffed grouse with dogs during State hunting seasons in accordance with State regulations.

7. We prohibit dog training on the refuge.

C. Big Game Hunting. * * *

1. Condition B3 applies, and we prohibit night hunting.

2. We allow bear and coyote hunting with dogs during State hunting seasons. We prohibit dog training on the refuge.

* * * * *

4. Each hunter must wear hunter-orange clothing or material in accordance with State regulations.

* * * * *

16. Amend § 32.39 Maryland by revising paragraphs A.9.i., A.9.ii., A.10.i., A.12., B.2., C.6., C.11., C.12., D.1., and D.4. through D.6., removing paragraphs D.9. and D.10., redesignating paragraphs D.11. through D.18. as paragraphs D.9. through D.16., and revising newly redesignated paragraphs D.15.i., D.15.iii., and D.16.i. under Patuxent Research Refuge to read as follows:

§ 32.39 Maryland.

* * * * *

Patuxent Research Refuge

A. Migratory Game Bird Hunting. * * *

* * * * *

9. * * *

i. You must be more than 50 yards (135 m) beyond the gate at Blue Heron Pond before hunting.

ii. You must be more than 50 yards (135 m) from the road beyond the barricade at Wood Duck Pond before hunting.

* * * * *

10. * * *

i. You must wear a solid-colored-fluorescent hunter orange that must be visible 360° while carrying-in and carrying-out equipment (e.g., portable blinds).

* * * * *

12. We prohibit hunting of goose, duck, and dove during the youth deer firearms hunts, deer firearms seasons, and the early deer muzzleloader season. The only exceptions are that Blue Heron Pond, Lake Allen, and Area Z will remain open for duck hunters and the Junior Waterfowl hunt day during the early muzzleloader season.

* * * * *

B. Upland Game Hunting. * * *

* * * * *

2. Hunters may possess only approved nontoxic shot while in the field (see § 32.2(k)), except for the use of .22-caliber rimfire rifles during the month of January only to hunt squirrel.

* * * * *

C. Big Game Hunting. * * *

* * * * *

6. We require bow hunters to wear either a cap of solid-fluorescent-orange color at all times or a vest or jacket containing back and front panels of at least 250 square inches (1,625 cm²) of solid-fluorescent-orange color when moving to and from their vehicle to their deer stand or their hunting spot and while tracking or dragging out their deer. We do not require bow hunters to wear solid-colored-fluorescent hunter orange when positioned to hunt except during the North Tract Youth Firearms Deer Hunts, the muzzleloader seasons, and the firearms seasons, when they must wear it at all times.

* * * * *

11. We prohibit the use of dogs to hunt or track wounded deer.

12. If you wish to track wounded deer beyond 2 hours after legal sunset, you must gain consent from a refuge law enforcement officer. We prohibit tracking 3 hours after legal sunset. You must make a reasonable effort to retrieve the wounded deer. This may include next-day tracking except Sundays and Federal holidays.

* * * * *

D. Sport Fishing. * * *

1. We require all anglers, age 16 and older, to present their current Maryland State nontidal fishing license and complete the Fishing/Shrimping/Crabbing Application (FWS Form 3-2358). Anglers age 18 and older will receive a free Patuxent Research Refuge Fishing Vehicle Parking Pass. Organized groups must complete the Fishing/Shrimping/Crabbing Application (FWS Form 3-2358), and the group leader must stay with the group at all times while fishing.

* * * * *

4. Anglers must display a copy of the Fishing Vehicle Parking Pass in the vehicle windshield while fishing at Cash Lake.

5. We require anglers, ages 16 and 17, to have a parent or guardian cosign the Fishing/Shrimping/Crabbing Application (FWS Form 3-2358). We will not issue a Fishing Vehicle Parking Pass to anglers ages 16 and 17.

6. An adult age 21 or older possessing a Fishing Vehicle Parking Pass must accompany anglers age 17 or younger in the field; they must maintain visual contact with each other within a 50-yard (45 m) distance; and they may take 3 youths, age 15 or younger, to fish under their Fishing Vehicle Parking Pass.

* * * * *

15. * * *

i. Conditions D1 through D14 apply.

* * * * *

iii. Anglers age 18 and older must complete an Emergency Contact Information/warning/waiver form (PRR Fishing Form #1) prior to receiving a free North Tract Vehicle Access Pass. Anglers must display the North Tract Vehicle Access Pass in the vehicle windshield at all times and return the Pass to the North Tract Visitor Contact Station at the end of each visit.

* * * * *

16. * * *

i. Conditions D1 through D13 apply.

* * * * *

17. Amend § 32.40 Massachusetts by removing paragraph A.2., revising paragraphs C.1. and C.2., redesignating paragraphs C.4. through C.11. as paragraphs C.5. through C.12, adding new paragraph C.4., revising newly redesignated paragraphs C.8., C.9., and C.11., and revising paragraph D. under Parker River National Wildlife Refuge.

These additions and revisions read as follows:

§ 32.40 Massachusetts.

* * * * *

Parker River National Wildlife Refuge

* * * * *

C. Big Game Hunting. * * *

1. All hunters, regardless of age, must possess and carry a refuge permit (Quota Deer Hunt Application, FWS Form 3-2354). This is a quota hunt, and we will randomly select a limited number of hunters from those that apply. You may apply by mail from September 1 until October 1.

2. If selected from the random drawing, you must attend a refuge-specific hunter orientation session prior to the hunt. We will charge a fee of participating hunters.

* * * * *

4. We prohibit discharge of a firearm on or across the refuge road. You must unload hunting weapons when walking upon the refuge road.

* * * * *

8. We prohibit loaded hunting firearms (see § 27.42 of this chapter) on or within 150 feet (45 m) of the refuge road.

9. You must bring all deer to the refuge deer check station located at our Headquarters on the Plum Island Turnpike in Newburyport, Massachusetts.

* * * * *

11. We prohibit vehicular travel (emergency excepted) on refuge roads from ½ hour before legal sunrise until 8:30 a.m. Refuge and Sandy Point State Reservation hunters may enter or reenter the refuge until 2:30 p.m. during the refuge deer hunt.

* * * * *

D. Sport Fishing. We allow saltwater fishing on designated areas of the refuge in accordance with State regulations subject to the following conditions:

1. We allow saltwater fishing on the ocean beach and the surrounding waters of the Broad Sound with the following conditions:

i. We prohibit fishing during closures.

ii. Anglers are subject to State licensing requirements and catch limits.

iii. We allow persons using refuge fishing areas access from legal sunrise to legal sunset without a refuge permit. They are, however, subject to entrance fee requirements.

iv. Nelson Island is open to fishing from legal sunrise to legal sunset, except during waterfowl seasons, or other closures. We limit access to the trail, and fishing within 100 feet (30 m) on either side of the trail at the shoreline of Broad Sound.

v. The south-facing shoreline of Stage Island is open to fishing when accessed from the shore from Sandy Point State Reservation. We allow access from the Sandy Point State Reservation, along the shoreline below mean high tide, to a point 250 feet (73 m) beyond the terminus, or most western point, of the Stage Island peninsula known as Ipswich Bluff.

2. We require a Fishing Application (Fishing/Shrimping/Crabbing Application, FWS Form 3-2358) and application fee, as well as an entrance fee for night fishing and for the use of over-the-sand, surf-fishing vehicles (ORVs) with the following conditions:

i. We prohibit fishing in closed areas.

ii. Anglers must enter the refuge through the entrance gate and arrive prior to legal sunset.

iii. We generally allow fishing after legal sunset with a permit (vehicle sticker issued by the refuge office) sometime in mid-July until October 31 of the same year. Those persons are subject to additional listed environmental and/or emergency conditions.

iv. We will issue persons wishing access to the refuge beach with ORVs a separate Fishing/Shrimping/Crabbing Application (FWS Form 3-2358), generally valid between September 1 and October 31 of the same year. Those persons are subject to additional listed permit conditions. We may restrict ORV use due to beach, weather, tide, and other conditions.

18. Amend § 32.41 Michigan by adding an entry in alphabetical order for Detroit River International Wildlife Refuge to read as follows:

§ 32.41 Michigan.

* * * * *

Detroit River International Wildlife Refuge

A. Migratory Game Bird Hunting. We allow hunting of duck, goose, rail, gallinule, coot, woodcock, and snipe on designated areas of the refuge in accordance with State regulations subject to the following conditions:

1. We prohibit cutting of woody vegetation (see § 27.51 of this chapter) on the refuge for blinds.

2. All blinds must be portable; and you must remove all of your blinds, boats, and decoys (see § 27.93 of this chapter) from the refuge each day.

3. We prohibit the construction or use of permanent blinds, stands, platforms, or scaffolds (see § 27.92 of this chapter).

4. You may possess only approved nontoxic shot (see § 32.2(k)) while in the field.

5. We allow refuge access from 1½ hours prior to legal sunrise until 1 hour after legal sunset.

6. We prohibit the use of paint, flagging, reflectors, tacks, or other human-made materials to mark trails or hunting locations (see § 27.93 of this chapter).

7. We allow the use of hunting dogs, provided the dog is under the immediate control of the hunter at all times.

8. You must park all vehicles in designated parking areas.

9. We prohibit camping.

10. We allow hunting of waterfowl only on the Plum Creek Bay Unit of the refuge in accordance with State regulations subject to the following conditions:

i. Conditions A1 through A7 and A9 apply.

ii. Access to this unit is by boat only.

11. We allow hunting of waterfowl only on the Brancheau Unit of the refuge in accordance with State regulations subject to the following conditions:

i. You must obtain permits for this unit by entering the Michigan Department of Natural Resources daily drawing at the Point Mouilee State Game Area.

ii. You must possess a valid permit for the date you are hunting in the Brancheau Unit.

iii. Conditions A1, A2, A4, and A6 through A9 apply.

iv. You must remain with 75 feet (22.5 m) of your assigned blind or numbered post. We allow an exception for unarmed (hunting weapons) retrieval of waterfowl.

v. We prohibit boats. You may access all blinds or areas by walking.

vi. You may possess a maximum of 18 shells per hunter containing only approved nontoxic shot (see § 32.2(k)).

vii. We prohibit shot size larger than BBB.

B. Upland Game Hunting. We allow hunting of pheasant, squirrel, rabbit, fox, raccoon, and coyote on designated areas of the refuge in accordance with State regulations subject to the following conditions:

1. Conditions A1, A3, and A5 through A9 apply.

2. You may possess only approved nontoxic shot (see § 32.2(k)) while in the field with the following exception: while hunting fox, coyote, and raccoon in units where we allow it, hunters may use single-projectile shot such as bullets, slugs, or muzzleloader bullets containing lead. We prohibit the use of buckshot for any hunting on the refuge.

C. Big Game Hunting. We allow hunting of deer and turkey on designated areas of the refuge in accordance with State regulations subject to the following conditions:

1. Conditions A1 through A3, A5, A6, A8, and A9 apply.

2. We prohibit the distribution of bait or hunting with the aid of bait, salt, minerals, or other ingestible attractant (see § 32.2(h)).

3. For deer hunting, we allow only single-projectile shot. We prohibit the use of buckshot for any hunting on the refuge.

4. For turkey hunting, you must possess only approved nontoxic shot (see § 32.2(k)) while in the field.

5. We allow only portable tree stands for deer hunting.

6. We allow only one tree stand per hunter per refuge unit.

7. We do not require hunters to remove tree stands at the end of each day's hunt. However, we strictly enforce State rules on tree stands.

D. Sport Fishing. [Reserved]

19. Amend § 32.42 Minnesota by:

a. Revising paragraph A.4. under Agassiz National Wildlife Refuge;

b. Revising paragraph B.2. and adding paragraph B.3. under Glacial Ridge National Wildlife Refuge;

c. Revising paragraphs A.1., B.2., and B.3., removing paragraphs B.4. and B.5., revising the introductory text of paragraph C., removing paragraphs C.3 through C.6., revising the introductory text of paragraph D., and revising paragraph D.4. under Minnesota Valley National Wildlife Refuge;

d. Revising paragraph B. under Minnesota Valley Wetland Management District; and

e. Revising paragraph C.7. and adding paragraph C.8. under Sherburne National Wildlife Refuge.

These additions and revisions read as follows:

§ 32.42 Minnesota.

* * * * *

Agassiz National Wildlife Refuge

A. Migratory Game Bird Hunting. * * *

* * * * *

4. We prohibit the construction or use of permanent blinds (see § 27.92 of this chapter).

* * * * *

Glacial Ridge National Wildlife Refuge

* * * * *

B. Upland Game Hunting. * * *

* * * * *

2. You may possess only approved nontoxic shot while in the field, including shot used for hunting wild turkey (see § 32.2(k)).

3. Condition A2 applies.

* * * * *

Minnesota Valley National Wildlife Refuge

* * * * *

A. Migratory Game Bird Hunting. * * *

1. We require refuge authorization for refuge-specific special hunts.

* * * * *

B. Upland Game Hunting. * * *

* * * * *

2. We allow hunters to possess and use small-caliber rimfire rifles, .22 caliber and smaller, on designated areas of the refuge.

3. You may possess only approved nontoxic shotshells while in the field, including shotshells used for hunting wild turkey (see § 32.2(k)).

C. Big Game Hunting. We allow hunting of white-tailed deer on designated areas of the refuge in accordance with State regulations subject to the following conditions:

* * * * *

D. Sport Fishing. We allow sport fishing on designated areas of the refuge in accordance with State regulations subject to the following conditions:

* * * * *

4. We prohibit the taking of any turtle species by any method on the refuge (see § 27.21 of this chapter).

Minnesota Valley Wetland Management District

* * * * *

B. Upland Game Hunting. We allow upland game hunting throughout the District in accordance with State regulations subject to the following conditions:

1. Conditions A4 and A5 apply.

2. You may possess only approved nontoxic shot for hunting wild turkey (see § 32.2(k)).

* * * * *

Sherburne National Wildlife Refuge

* * * * *

C. Big Game Hunting. * * *

* * * * *

7. You may possess only approved nontoxic shot while in the field, including shot used for hunting wild turkey (see § 32.2(k)).

8. Conditions A4 and A7 apply.

* * * * *

20. Amend § 32.43 Mississippi by:

a. Revising paragraphs A., D.1., and D.2., removing paragraph D.4., redesignating paragraphs D.5. through D.9. as paragraphs D.4. through D.8. under Coldwater River National Wildlife Refuge;

b. Revising paragraphs A.1., A.3., and A.4., removing paragraph A.6., redesigating paragraphs A.7. through A.12. as paragraphs A.6. through A.11., adding new paragraph A.12., revising the introductory text of paragraph B., revising paragraphs B.1., B.3., B.5., C.1., and C.8., adding paragraphs C.9. and C.10., revising paragraphs D.1. and D.2., removing paragraph D.3., and redesignating paragraphs D.4. through D.8. as paragraphs D.3. through D.7. under Dahomey National Wildlife Refuge;

c. Revising paragraphs A.2. and A.3., adding paragraphs A.17. and A.18., and revising paragraphs B.1. and C.1. under Hillside National Wildlife Refuge;

d. Revising paragraphs B.2., B.3., and B.14., adding paragraph B.16., and revising paragraph C.1. under Holt Collier National Wildlife Refuge;

e. Revising paragraphs A.3. and A.4., adding paragraphs A.16. and A.17., and revising paragraphs B.1. and C.1. under Mathews Brake National Wildlife Refuge;

f. Revising paragraphs A.2. and A.3., adding paragraphs A.16. and A.17., and revising paragraphs B.1., C.1., and D.7. under Morgan Brake National Wildlife Refuge;

g. Revising the entry for “Noxubee National Wildlife Refuge” to read “Sam D. Hamilton Noxubee National Wildlife Refuge” and placing it in alphabetical order in this section, revising paragraphs A.1., A.3., and A.8., adding paragraph A.12., revising the introductory text of paragraph B., revising paragraphs B.4., B.7., B.8., and B.11., revising the introductory text of paragraph C., revising paragraphs C.1. and C.2., removing paragraph C.3., redesignating paragraphs C.4. through C.9. as paragraphs C.3. through C.8., revising newly redesignated paragraph C.8., and revising paragraphs D.1. and D.9. under Sam D. Hamilton Noxubee National Wildlife Refuge;

h. Revising paragraphs A.1. through A.3., A.10., and A.18., adding paragraph A.19., and revising paragraphs B.1., C.1., and D.7. under Panther Swamp National Wildlife Refuge;

i. Revising paragraphs A.1., A.3., and A.5., removing paragraph A.7., redesignating paragraphs A.8. through A.13. as paragraphs A.7. through A.12., adding new paragraph A.13., revising the introductory text of paragraph B., revising paragraphs B.1., B.3., B.5., and C.8., adding paragraphs C.9. and C.10., revising paragraphs D.1. and D.2., removing paragraph D.4., and redesignating paragraphs D.5. through D.9. as paragraphs D.4. through D.8 under Tallahatchie National Wildlife Refuge; and

j. Revising paragraphs A.1. through A.3., adding paragraphs A.16. and A.17., and revising paragraphs B.2., B.7., B.8., C.1., and C.12. under Yazoo National Wildlife Refuge.

These additions and revisions read as follows:

§ 32.43 Mississippi.

* * * * *

Coldwater River National Wildlife Refuge

A. Migratory Game Bird Hunting. We allow hunting of migratory waterfowl and coot on designated areas of the refuge in accordance with State regulations subject to the following conditions:

1. All hunters must comply with all State hunter education requirements. All hunters age 16 and older must possess and carry a valid signed refuge hunting permit (name and address).

2. We restrict all public use to the period beginning 2 hours before legal sunrise and ending 2 hours after legal sunset. We prohibit entering or remaining on the refuge before or after hours.

3. We allow hunting of migratory game birds, including the Light Goose Conservation Order, only on Wednesdays, Fridays, Saturdays, and Sundays from ½ hour before legal sunrise and ending at 12 p.m. (noon). Hunters must remove all decoys, blind materials (see § 27.93 of this chapter), and harvested waterfowl from the area no later than 1 p.m. each day.

4. Each hunter must obtain a daily Harvest Report Card (OMB 1018-0140) available at each refuge information station and follow the printed instructions on the card. You must display the card in plain view on the dashboard of your vehicle so that the personal information is readable. Prior to leaving the refuge, you must complete the reverse side of the card/form and deposit it at one of the refuge information stations. Include all game harvested; if you harvested no game, report “0”. Hunters may possess only one Harvest Report Card at a time.

5. We close certain areas of the refuge for sanctuary or administrative purposes. We will mark such areas with “No Hunting” or “Area Closed” signs.

6. Waterfowl hunters may leave boats meeting all State registration requirements on the refuge water bodies throughout the waterfowl season. You must remove boats (see § 27.93 of this chapter) within 72 hours after the season closes.

7. All hunters, or persons on the refuge for any reason, must wear a minimum of 500 square inches (3,250 cm²) of visible, unbroken, fluorescent-orange-colored material above the waistline. Waterfowl hunters must comply with this requirement while walking/boating to and from actual hunting area. We do not require fluorescent orange for turkey season, for hunting raccoons at night, or for waterfowl hunters while actually hunting.

8. We allow dogs on the refuge only when specifically authorized for hunting. We encourage the use of dogs to retrieve dead or wounded waterfowl. Dogs must remain under the immediate control of their handlers at all times (see § 26.21(b) of this chapter).

9. You must remove decoys, blinds, other personal property, and litter (see §§ 27.93 and 27.94 of this chapter) from the hunting area following each morning's hunt. We prohibit cutting or removing trees and other vegetation (see § 27.51 of this chapter). We prohibit the use of flagging, paint, blazes, tacks, or other types of markers.

10. We prohibit ATVs/UTVs (see § 27.31(f) of this chapter), horses, and mules on the refuge.

11. We prohibit the use or possession of alcoholic beverages while hunting on the refuge (see § 32.2(j)).

* * * * *

D. Sport Fishing. * * *

1. Condition A11 applies.

2. All anglers must possess and carry a valid, signed refuge fishing permit (name and address) certifying that they understand and will comply with all regulations.

* * * * *

Dahomey National Wildlife Refuge

A. Migratory Game Bird Hunting. * * *

1. All hunters must comply with all State hunter education requirements. All hunters age 16 and older must possess and carry a valid, signed refuge hunting permit (name and address).

* * * * *

3. We allow hunting of migratory game birds, including Light Goose Conservation Order, only on Wednesdays, Fridays, Saturdays, and Sundays from ½ hour before legal sunrise until 12 p.m. (noon). Hunters must remove all decoys, blind material (see § 27.93 of this chapter), and harvested waterfowl from the area no later than 1 p.m. each day.

4. Each hunter must obtain a Harvest Report Card (OMB 1018-0140) available at each refuge information station and follow the printed instructions on the card. Hunters must place the card in plain view on the dashboard of their vehicle so the personal information is readable. Prior to leaving the refuge, you must complete the reverse side of the card and deposit it at one of the hunter information stations. Include all game harvested, and if there is none, report “0”. We prohibit hunters possessing more than one Harvest Report Card at a time.

* * * * *

12. We prohibit the use or possession of alcoholic beverages while hunting on the refuge (see § 32.2(j)).

B. Upland Game Hunting. We allow hunting of quail, squirrel, rabbit, and raccoon (raccoon by General Special Use Application and Permit [FWS Form 3-1383-G] only) on designated areas of the refuge in accordance with State regulations subject to the following conditions:

1. Conditions A1, A4, A5, A7, A8, A11, and A12 apply.

* * * * *

3. You may possess shotguns with approved nontoxic shotgun shot (see § 32.2(k)), .17, .22, .22-magnum rifles, and legal archery equipment.

* * * * *

5. We allow use of dogs, but they must remain under the immediate control of their handlers at all times (see § 26.21(b) of this chapter).

* * * * *

C. Big Game Hunting. * * *

1. Conditions A1, A4, A5, A8, A11, and A12 apply.

* * * * *

8. You may erect portable deer stands (see § 32.2(i)) 2 weeks prior to the opening of archery season on the refuge, and you must remove them by January 31 (see § 27.93 of this chapter). We prohibit hunters leaving their stands in the tree at the end of each hunting day. Hunters who wish to leave a stand on the refuge must chain the stand to the base of the tree and label it with the hunter's name and phone number legibly written on or attached to the stand. This does not reserve the site for their exclusive use. All hunting sites are on a first-come, first-served basis. We may confiscate and dispose of deer stands not in compliance with these regulations.

9. Hunters using a climbing tree stand must use a fall-arrest system manufactured to Treestand Manufacturers Association standards.

10. We prohibit cutting or removing trees and other vegetation (see § 27.51 of this chapter). We prohibit the use of flagging, paint, blazes, tacks, or other types of markers. We prohibit nailing deer stands and/or steps to trees and attaching any blind or stand to a tree by any metal object driven, screwed, or otherwise inserted into the tree (see § 32.2(i)).

9. D. Sport Fishing. * * *

1. Condition A12 applies.

2. All anglers must possess and carry a valid, signed refuge fishing permit (name and address) certifying that they understand and will comply with all regulations.

* * * * *

Hillside National Wildlife Refuge

A. Migratory Game Bird Hunting. * * *

* * * * *

2. Before hunting or fishing, all participants must display their User Information/Harvest Report Card (OMB 1018-0140) in plain view on the dashboard of their vehicle so that the card number is readable.

3. Failure to display the User Information/Harvest Report Card will result in the loss of the participant's annual refuge public use permit (name, address, and phone number).

* * * * *

17. For instances of lost or stolen public use permits, management may issue duplicates at their discretion, and we may charge a fee.

18. We allow retriever dogs while hunting migratory birds.

B. Upland Game Hunting. * * *

1. Conditions A1 through A10 and A17 apply.

* * * * *

C. Big Game Hunting. * * *

1. Conditions A1 through A10, A17, B5, and B8 apply.

* * * * *

Holt Collier National Wildlife Refuge

* * * * *

B. Upland Game Hunting. * * *

* * * * *

2. Before hunting or fishing, all participants must display their User Information/Harvest Report Card (OMB 1018-0140) in plain view on the dashboard of their vehicle so that the card number is readable.

3. Failure to display the User Information/Harvest Report Card (OMB 1018-0140) will result in the loss of the participant's annual refuge public use permit (name, address, and phone number).

* * * * *

14. We prohibit ATVs, horses, and mules.

* * * * *

16. For instances of lost or stolen public use permits, management may issue duplicates at their discretion, and we may charge a fee.

C. Big Game Hunting. * * *

1. Conditions B1 through B7, B9, and B13 through B16 apply.

* * * * *

Mathews Brake National Wildlife Refuge

A. Migratory Game Bird Hunting. * * *

* * * * *

3. All participants must display the User Information/Harvest Report Card (OMB 1018-0140) in plain view on the dashboard of their vehicle so that the card number is readable.

4. Failure to display the User Information/Harvest Report Card will result in the loss of the participant's annual refuge public use permit (name, address, and phone number).

* * * * *

16. For instances of lost or stolen public use permits, management may issue duplicates at their discretion, and the hunter may incur a fee.

17. We allow retriever dogs while hunting migratory birds.

B. Upland Game Hunting. * * *

1. Conditions A2 through A9, A15, and A16 apply.

* * * * *

C. Big Game Hunting. * * *

1. Conditions A1 through A9, A15, A16, and B5 through B7 apply.

* * * * *

Morgan Brake National Wildlife Refuge

A. Migratory Game Bird Hunting. * * *

* * * * *

2. Before hunting and fishing, all participants must display their User Information/Harvest Report Card (OMB 1018-0140) in plain view on the dashboard of their vehicle so that the card number is readable.

3. Failure to display the User Information/Harvest Report Card will result in the loss of the participant's annual refuge public use permit (name, address, and phone number).

* * * * *

16. For instances of lost or stolen public use permits, management may issue duplicates at their discretion, and the hunter may incur a fee.

17. We allow retriever dogs while hunting migratory birds.

B. Upland Game Hunting. * * *

1. Conditions A1 through A11 and A16 apply.

* * * * *

C. Big Game Hunting. * * *

1. Conditions A1 through A7, A9, A10, A16, and B5 through B7 apply.

* * * * *

D. Sport Fishing. * * *

* * * * *

7. Conditions A2 through A10 and A16 apply.

* * * * *

Panther Swamp National Wildlife Refuge

A. Migratory Game Bird Hunting. * * *

1. Youth hunters age 15 and younger must possess and carry a hunter safety course card or certificate. Each youth hunter must remain within sight and normal voice contact of an adult age 21 or older. Each hunter age 16 and older must possess and carry a valid, signed refuge public use permit (name, address, and phone number) certifying that he or she understands and will comply with all regulations. One adult may supervise no more than one youth hunter.

2. Before hunting or fishing, all participants must display their User Information/Harvest Report Card (OMB 1018-0140) in plain view on the dashboard of their vehicle so that the card number is readable.

3. Failure to display the User Information/Harvest Report Card will result in the loss of the participant's annual public use permit.

* * * * *

10. We allow ATVs/UTVs only on designated trails (see § 27.31 of this chapter) (see refuge brochure map) from September 15 through February 28. Size limitations may apply (see refuge brochure).

* * * * *

18. For instances of lost or stolen public use permits, management may issue duplicates at their discretion, and the hunter may incur a fee.

19. We allow retriever dogs while hunting migratory birds.

B. Upland Game Hunting. * * *

1. Conditions A1 through A10 and A18 apply.

* * * * *

C. Big Game Hunting. * * *

1. Conditions A1 through A7, A9, A10, A18, and B6 through B8 apply.

* * * * *

D. Sport Fishing. * * *

* * * * *

7. Conditions A1 through A7, A10, and A18 apply.

Sam D. Hamilton Noxubee National Wildlife Refuge

A. Migratory Game Bird Hunting. * * *

1. We require a $15 fee permit (name and address) for waterfowl hunting, and only two companions may accompany each permit holder. Permits are nontransferable, and each hunter may apply for only one permit. We do not guarantee preferred dates.

* * * * *

3. Hunts and hunt dates are available at refuge headquarters and specified in the refuge brochure. You must possess and carry a signed refuge hunt permit (signed brochure) when hunting.

* * * * *

8. Persons possessing, transporting, or carrying firearms on the refuge must comply with all provisions of State and local law. Persons may only use (discharge) firearms in accordance with refuge regulations (see § 27.42 of this chapter and specific refuge regulations in part 32).

* * * * *

12. We allow dogs for retrieval of migratory game birds.

B. Upland Game Hunting. We allow hunting of squirrel, rabbit, quail, opossum, and raccoon on designated areas of the refuge in accordance with State regulations subject to the following conditions:

* * * * *

4. We allow hunting of squirrel, raccoon, rabbit, quail, and opossum with dogs during designated hunts.

* * * * *

7. Conditions A3, A7, A8, and A10 apply.

8. We prohibit the use of ATVs, horses, and mules.

* * * * *

11. Valid permit holders (signed brochure) may take incidental species (coyote, beaver, nutria, and feral hog) during any hunt with those weapons legal during those hunts.

C. Big Game Hunting. We allow hunting of white-tailed deer and turkey on designated areas of the refuge in accordance with State regulations subject to the following conditions:

1. Conditions A3, A5, A7, A8, A10, B8, B9, and B11 apply.

2. We require a $15 fee permit (name and address) for all refuge deer hunts. Hunters must sign this permit and have it in their possession at all times while hunting. Permits are nontransferable, and each hunter may apply for only one permit.

* * * * *

8. We will make special deer hunting blinds available for persons limited to the use of a wheelchair by General Special Use Application and Permit (FWS Form 3-1383-G). Contact the refuge office for information.

D. Sport Fishing. * * *

1. The sport fishing, boating, and bow fishing season extends from March 1 through October 31, except for the Noxubee River and borrow pit areas along Highway 25 that are open year-round. Persons must possess and carry a signed refuge fishing permit (signed brochure) when fishing.

* * * * *

9. We prohibit fishing tournaments on all refuge waters.

Tallahatchie National Wildlife Refuge

A. Migratory Game Bird Hunting. * * *

1. All hunters must comply with all State hunter education requirements. All hunters age 16 and older must possess and carry a valid, signed refuge hunting permit (name and address).

* * * * *

3. We allow hunting of migratory game birds, including Light Goose Conservation Order, only on Wednesdays, Fridays, Saturdays, and Sundays from ½ hour before legal sunrise and ending at 12 p.m. (noon). Hunters must remove all decoys, blind material (see § 27.93 of this chapter), and harvested waterfowl from the area no later than 1 p.m. each day.

* * * * *

5. Each hunter must obtain a daily User Information/Harvest Report Card (OMB-1018-0140) available at each refuge information station and follow the printed instructions on the card. You must display the card in plain view on the dashboard of your vehicle so that the personal information is readable. Prior to leaving the refuge, you must complete the reverse side of the card and deposit it at one of the refuge information stations. Include all game harvested, and if you harvest no game, report “0.” We prohibit hunters possessing more than one User Information/Harvest Report Card at a time.

* * * * *

13. We prohibit the use or possession of alcoholic beverages while hunting on the refuge (see § 32.2(j)).

B. Upland Game Hunting. We allow hunting of quail, squirrel, rabbit, and raccoon (raccoon by General Special Use Permit [FWS Form 3-1383-G] only) on designated areas of the refuge in accordance with State regulations subject to the following conditions:

1. Conditions A1, A4 through A6, A8, A9, and A11 through A13 apply.

* * * * *

3. You may possess shotguns only with approved nontoxic shotgun shot (see § 32.2(k)), .17, .22., .22-magnum rifles, and legal archery equipment.

* * * * *

5. Hunters may use dogs, but they must remain under the immediate control of their handlers at all times (see § 26.21(b) of this chapter).

* * * * *

C. Big Game Hunting. * * *

* * * * *

8. You may erect portable deer stands (see § 32.2(i)) 2 weeks prior to the opening of archery season on the refuge, and you must remove them by January 31 (see § 27.93 of this chapter). We prohibit hunters leaving their stands in the tree at the end of each hunting day. If they wish to leave the stands on the refuge, they may be chained to the base of the tree and labeled with the hunter's name and phone number legibly written on or attached to the stand. This does not reserve the site for their exclusive use. All hunting sites are on a first-come, first-served basis. We may confiscate and dispose of deer stands not in compliance with these regulations.

9. Hunters using a climbing tree stand must use a fall-arrest system manufactured to Treestand Manufacturers Association standards.

10. We prohibit cutting or removing trees and other vegetation (see § 27.51 of this chapter). We prohibit the use of flagging, paint, blazes, tacks, or other types of markers. We prohibit nailing deer stands and/or steps to trees and attaching any blind or stand to a tree by any metal object driven, screwed, or otherwise inserted into the tree (see § 32.2(i)).

D. Sport Fishing. * * *

1. Condition A13 applies.

2. All anglers must possess and carry a valid, signed refuge fishing permit (name and address) certifying that they understand and will comply with all regulations.

* * * * *

Yazoo National Wildlife Refuge

A. Migratory Game Bird Hunting. * * *

1. Youth hunters age 15 and under must possess and carry a hunter safety course card or certificate. Each youth hunter must remain within sight and normal voice contact of an adult age 21 or older. Each hunter age 16 and older must possess and carry a valid, signed refuge public use permit (name, address, and phone number) certifying that he or she understands and will comply with all regulations. One adult may supervise no more than one youth hunter.

2. Before hunting or fishing, all participants must display their User Information/Harvest Report Card (OMB 1018-0140) in plain view on the dashboard of their vehicle so that the card number is readable.

3. Failure to display the User Information/Harvest Report Card will result in the loss of the participant's annual refuge public use permit.

* * * * *

16. For instances of lost or stolen public use permits, management may issue duplicates at their discretion, and hunters may incur a fee.

17. We allow retriever dogs while hunting migratory birds.

B. Upland Game Hunting. * * *

* * * * *

2. Conditions A1 through A9 and A16 apply.

* * * * *

7. We prohibit ATVs, horses, and mules.

8. We allow rabbit hunting on the Herron and Brown Tracts.

* * * * *

C. Big Game Hunting. * * *

1. Conditions A1 through A7, A9, A16, B6, B7, and B9 apply.

* * * * *

12. We allow archery deer hunting on the Brown Tract.

* * * * *

21. Amend § 32.44 Missouri by removing paragraph B.3., and revising paragraphs C.4. through C.6., and removing paragraph C.7. under Big Muddy National Fish and Wildlife Refuge to read as follows:

§ 32.44 Missouri.

* * * * *

Big Muddy National Fish and Wildlife Refuge

* * * * *

C. Big Game Hunting. * * *

* * * * *

4. We restrict deer and turkey hunters on the Boone's Crossing Unit, including Johnson Island, to archery methods only.

5. The Cora Island Unit is open to deer hunting for archery methods only. We restrict hunting for other game to shotgun only with shot no larger than BB.

6. You may possess only approved nontoxic shot while hunting on the refuge (see § 32.2(k)); this includes turkey hunting.

* * * * *

22. Amend § 32.45 Montana by:

a. Revising the entry for “National Bison National Wildlife Refuge” to read “National Bison Range”, and revising paragraph D. under the newly titled National Bison Range;

b. Revising the entry for “Nine-Pipe National Wildlife Refuge” to read “Ninepipe National Wildlife Refuge”, and revising paragraph D. under the newly titled Ninepipe National Wildlife Refuge;

c. Revising the entry for Northwest Montana Wetland Management District;

d. Revising paragraph D. under Pablo National Wildlife Refuge; and

e. Revising paragraph A.1., adding paragraphs A.4. and A.5., revising paragraphs C.2. through C.6., adding paragraphs C.7. through C.11., and revising paragraph D. under Red Rock Lakes National Wildlife Refuge;

These additions and revisions read as follows:

§ 32.45 Montana.

* * * * *

National Bison Range

* * * * *

D. Sport Fishing. We allow sport fishing on designated areas of the refuge in accordance with State laws and regulations and per Joint State and Confederated Salish and Kootenai Tribal regulations subject to the following conditions:

1. We allow public access by walk-in only. All anglers must remain within 100 feet (30 m) of the creek except they may use the canal road to access the creek.

2. We prohibit the use of lead or lead-based lures or sinkers.

3. We prohibit leaving or dumping any dead animal, fish or fish entrails, garbage, or litter on the refuge (see § 27.94 of this chapter).

Ninepipe National Wildlife Refuge

* * * * *

D. Sport Fishing. We allow sport fishing on designated areas of the refuge in accordance with State laws and regulations and per joint State and Confederated Salish and Kootenai Tribal regulations subject to the following conditions:

1. We prohibit the use of lead or lead-based tackle.

2. We prohibit the use of boats, float tubes, and other flotation devices.

3. You must remove ice fishing shelters and other personal property at the end of each day (see § 27.93 of this chapter).

4. We prohibit leaving or dumping any dead animal, fish or fish entrails, garbage, or litter on the refuge (see § 27.94 of this chapter).

* * * * *

Northwest Montana Wetland Management District

A. Migratory Game Bird Hunting. We allow migratory game bird hunting on Waterfowl Production Areas (WPAs) throughout the wetland district in accordance with State law (Flathead County WPAs) and per Joint State and Confederated Salish and Kootenai Tribal regulations (Lake Count WPAs) subject to the following conditions:

1. Hunters must remove all boats, decoys, portable blinds, boat blinds, and other personal property at the end of each day (see § 27.93 of this chapter).

2. Hunters must construct blinds, other than portable blinds, of native materials only. They must label all nonportable blinds with their name, Automated License System (ALS) number, address, and phone number. Construction and labeling of these blinds does not constitute exclusive use of the blind. Hunters must remove these blinds within 7 days of the close of the migratory game bird hunting season.

3. We prohibit the use or possession of alcoholic beverages while hunting (see § 32.2(j)).

B. Upland Game Hunting. We allow upland game hunting on Waterfowl Production Areas (WPAs) throughout the wetland district in accordance with State law (Flathead County WPAs) and per Joint State and Confederated Salish and Kootenai Tribal regulations (Lake County WPAs) subject to the following conditions:

1. Hunters may possess only approved nontoxic shot (see § 32.2(k)).

2. We prohibit hunting with a shotgun capable of holding more than three shells on all Lake County WPAs.

3. We prohibit the use or possession of alcoholic beverages while hunting (see § 32.2(j)).

C. Big Game Hunting. We allow big game hunting on Lake County Waterfowl Production Areas (WPAs) per Joint State and Confederated Salish and Kootenai Tribal regulations. We allow big game hunting on Flathead County WPAs in accordance with State regulations subject to the following conditions:

1. We allow portable tree stands and/or portable ground blinds; however, hunters must remove them daily (see § 27.93 of this chapter). We prohibit construction and/or use of tree stands or portable ground blinds from dimensional lumber. We prohibit the use of nails, wire, screws, or bolts to attach a stand to a tree or hunting from a tree into which a metal object has been driven (see § 32.2(i)).

D. Sport Fishing. We allow sport fishing on all Waterfowl Production Areas (WPAs) throughout the wetland district in accordance with State law (Flathead County WPAs) and per Joint State and confederated Salish and Kootenai Tribal regulations (Lake County WPAs) subject to the following condition: Anglers must remove all motorboats, boat trailers, vehicles, fishing equipment, and other personal property from the WPAs at the end of each day (see § 27.93 of this chapter).

Pablo National Wildlife Refuge

* * * * *

D. Sport Fishing. We allow sport fishing on designated areas of the refuge in accordance with State laws and per Joint State and Confederated Salish and Kootenai Tribal regulations subject to the following conditions:

1. We prohibit the use of lead or lead-based lures or sinkers.

2. We prohibit the use of boats, float tubes, and other flotation devices.

3. You must remove ice fishing shelters and other personal property at the end of each day (see § 27.93 of this chapter).

4. We prohibit leaving or dumping any dead animal, fish or fish entrails, garbage, or litter on the refuge (see § 27.94 of this chapter).

Red Rock Lakes National Wildlife Refuge

A. Migratory Game Bird Hunting. * * *

1. We allow only goose, duck, and coot hunting in the area surrounding Lower Red Rock Lake. The north boundary is the east-west running fence line 1 mile (1.6 km) north of the River Marsh. The west boundary is the west boundary of the refuge. The south boundary is the South Valley Road and Sparrow Pond Trail. The east boundary is 50 yards (45 m) east of Odell Creek northward from Sparrow Pond Trail Bridge to Lower Red Rock Lake then continuing due north from the mouth of Odell Creek to the north boundary. (Consult the refuge manager prior to hunting to learn the specific boundary of the hunting area.)

* * * * *

4. We prohibit the use of motorized decoys.

5. We prohibit camping along roadsides. We allow camping only in two established campgrounds. We restrict camping to 16 consecutive days within any 30-day period. We prohibit horses in the campgrounds. All bear attractants including, but not limited to, food, garbage, and carcasses, must be acceptably stored at night (unless in immediate use) and during the day if unattended.

* * * * *

C. Big Game Hunting. * * *

* * * * *

2. We restrict moose hunting to the willow fen area south of Elk Springs Creek, east of Upper Red Rock Lake and north and west of the South Valley Road, at the southeast corner of the refuge. We prohibit moose hunting in all other areas of the refuge.

3. We allow big game hunting (elk, white-tailed deer, mule deer, and pronghorn antelope) on the refuge except we prohibit big game hunting in the moose hunting area (willow fen area), in Alaska Basin (far east end of the refuge), on those areas of the refuge east of Elk Lake Road (Culver Pond/Widgeon Pond Area), and east of the willow fen.

4. We prohibit hunting near the Lakeview town site, near refuge headquarters, and on portions of Odell Creek Trail. We close those areas for protection of nearby residences. (Consult the refuge manager prior to hunting to learn the specific boundary of the closed areas.)

5. We limit the number of hunters per day during the “general” big game season for the area north of South Valley Road, south of Red Rock River Mash, west of Upper Red Rock Lake to the west refuge boundary. We close this area to hunting by other big game hunters during the general big game season. We select the hunters per day by annual lottery. (Consult the refuge manager to participate in the lottery.)

6. You may hire outfitters or ranchers for the retrieval of big game only. We prohibit outfitted or guided hunting on the refuge.

7. We prohibit retrieval of game from closed areas of the refuge without consent of a refuge employee.

8. We prohibit use of wheeled game carts or other mechanical transportation devices for game retrieval on portions of the refuge designated as Wilderness Area.

9. We prohibit horses north of South Valley Road except for the retrieval of big game. We only allow horses for back-country access to the Centennial Mountains south of South Valley Road. We require the use of certified weed-free hay or pellets in refuge parking lots and on refuge roads or trails.

10. We prohibit shooting and/or hunting until the hunter is more than 50 yards (45 m) from the center line of South Valley Road. We prohibit shooting from any refuge or county roadway.

11. Condition A5 applies.

D. Sport Fishing. We allow fishing on designated areas of the refuge in accordance with State fishing regulations subject to the following conditions:

1. We allow fishing on all refuge streams in accordance with State River and Stream regulations, unless closure is necessary to protect nesting trumpeter swans or Arctic grayling restoration efforts.

2. We allow fishing on Widgeon Pond and Culver Pond. These are open under State River and Stream regulations to fishing from the bank, except for necessary closures to protect nesting trumpeter swans or Arctic grayling restoration efforts.

3. We prohibit fishing on all other refuge waters.

4. We prohibit all means of fishing except the use of pole and line or rod and reel while fishing on the refuge.

5. We prohibit the use of felt-soled wading boots on all refuge waters.

6. We prohibit bait fishing and allow only artificial lures or flies when fishing refuge waters.

7. We prohibit the use or possession of lead sinkers or any lead fishing product while fishing.

8. We prohibit tubes and other flotation devices while fishing on Widgeon and Culver Ponds.

9. Condition A5 applies.

* * * * *

23. Amend § 32.46 Nebraska by adding an entry for Rainwater Basin Wetland Management District and placing it in alphabetical order to read as follows:

§ 32.46 Nebraska.

* * * * *

Rainwater Basin Wetland Management District

A. Migratory Game Bird Hunting. We allow migratory game bird hunting on Waterfowl Production Areas (WPA) throughout the District, excluding McMurtrey Waterfowl Production Area in Clay County, in accordance with State regulations subject to the following conditions:

1. We prohibit the use of motorboats. We allow only nonpowered motorboats and those powered by electric motors (see § 27.32 of this chapter).

2. You must remove boats, decoys, portable blinds, other personal property, and any materials brought onto the area for blind construction at the end of each day (see §§ 27.93 and 27.94(a) of this chapter).

3. You may leave temporary blinds, other than portable blinds, constructed of natural vegetation found on site overnight. We prohibit bringing any type of live or dead vegetation onto the WPAs for any purpose at any time (see § 27.52 of this chapter). Construction of these temporary blinds does not constitute exclusive use of the blind (see § 27.92 of this chapter).

4. We prohibit exercising, running, training, or hunting with dogs from May 1 to July 31; and dogs must be on a leash during this time period. At all other times during the hunting season, dogs must be under the owner's immediate control (see § 26.21(b) of this chapter).

5. We prohibit camping and/or open fires (see § 27.95(a) of this chapter).

6. We restrict the use of all motorized vehicles, including ATVs and/or snowmobiles, to designated parking lots only (see § 27.31 of this chapter).

7. We prohibit the use of all firearms for target practice (see § 27.41 of this chapter).

8. We prohibit the use of horses for any purpose (see § 26.21(b) of this chapter).

B. Upland Game Hunting. We allow upland game hunting on Waterfowl Production Areas throughout the District, excluding McMurtrey WPA in Clay County, in accordance with State regulations subject to the following conditions:

1. Hunters may possess only approved nontoxic shot (see § 32.2(k)).

2. We prohibit the shooting or harvesting of black-tailed prairie dogs.

3. Conditions A4 through A8 apply.

C. Big Game Hunting. We allow big game hunting on Waterfowl Production Areas throughout the District, excluding McMurtrey WPA in Clay County, in accordance with State regulations subject to the following conditions:

1. We allow portable tree stands and/or portable ground blinds; however, you must remove them along with any other personal property at the end of each day (see §§ 27.93 and 27.94(a) of this chapter).

2. Conditions A3 through A8 apply.

D. Sport Fishing. We allow sport fishing on Waterfowl Production Areas throughout the District, excluding McMurtrey WPA in Clay County, in accordance with State regulations subject to the following conditions;

1. You must remove all boats, boat trailers, vehicles, fishing equipment, and other personal property from the WPAs at the end of each day (see §§ 27.93 and 27.94(a) of this chapter).

2. Conditions A1 and A5 apply.

24. Amend § 32.48 New Hampshire by:

a. Revising paragraph A.2., removing paragraph A.4., revising paragraphs C.3., C.10., and C.11., and removing paragraphs C.12. through C.17. under Great Bay National Wildlife Refuge; and

b. Revising the entry for “Lake Umbagog National Wildlife Refuge” to read “Umbagog National Wildlife Refuge,” placing the newly titled entry in alphabetical order within the section, and revising paragraphs A.1., A.3., A.4., B.3., B.5., B.6., C.1., C.2., and C.4. under Umbagog National Wildlife Refuge.

These revisions read as follows:

§ 32.48 New Hampshire.

* * * * *

Great Bay National Wildlife Refuge

A. Migratory Game Bird Hunting. * * *

* * * * *

2. We allow hunting within the refuge boundary upon navigable waters from within a boat. We prohibit access to land areas, mud flats, rocks, or marsh grass above mean high tide within the refuge. We prohibit hunters retrieving birds inland of the boundary signs.

* * * * *

C. Big Game Hunting. * * *

* * * * *

3. We require a fee for a Quota Deer Hunt Application (FWS Form 3-2354) which you must possess and carry. We draw, by lottery, 20 hunters for each day for a total of 40 hunters. We also draw 20 alternate hunters.

* * * * *

10. Refuge hunting regulations, as listed in the Hunter Information Package and map, will be in effect, and hunters must be in compliance with State law.

11. The refuge is located in Newington, New Hampshire, along the eastern shoreline of Great Bay. McIntyre Road borders the refuge to the east. The southern boundary begins approximately ¼ mile (.4 km) north of the intersection of Fabyan Point Road and McIntyre Road and continues west to the shoreline of Great Bay. The northern boundary begins approximately 150 feet (45 m) south of the intersection of McIntyre Road and Little Bay Road and continues west to the shoreline of Great Bay. The western boundary is the shoreline of Great Bay.

* * * * *

Umbagog National Wildlife Refuge

A. Migratory Game Bird Hunting. * * *

1. You must wear hunter-orange clothing or material in accordance with State of Maine regulations for the season and/or species you are hunting.

* * * * *

3. You may use dogs to assist in hunting and retrieval of harvested birds. We prohibit dog training on the refuge.

4. We open the refuge to hunting during the hours stipulated under the State's hunting regulations. We close the refuge to night hunting. Hunters must unload all hunting firearms (see § 27.42 of this chapter) outside of legal hunting hours.

* * * * *

B. Upland Game Hunting. * * *

* * * * *

3. We open the refuge to hunting during the hours stipulated under the State's hunting regulations. We close the refuge to night hunting. Hunters must unload all hunting firearms (see § 27.42 of this chapter) and nock no arrows outside of legal hunting hours.

* * * * *

5. Condition A1 applies.

6. We allow hunting of snowshoe hare, ring-necked pheasant, and ruffed grouse with dogs during State hunting seasons. We prohibit dog training on the refuge.

C. Big Game Hunting. * * *

1. We open the refuge to hunting during the hours stipulated under the State's hunting regulations. We prohibit night hunting. Hunters must unload all hunting firearms (see § 27.42 of this chapter) and nock no arrows outside of legal hunting hours.

2. We allow bear and coyote hunting with dogs during State hunting seasons. We prohibit dog training on the refuge.

* * * * *

4. Each hunter must wear hunter-orange clothing or material in accordance with State of Maine regulations for the season and/or species you are hunting.

* * * * *

25. Amend § 32.49 New Jersey by revising paragraph C.2., removing paragraph C.3., redesignating paragraphs C.4. through C.6. as paragraphs C.3. through C.5., and revising newly redesignated paragraph C.5. under Great Swamp National Wildlife Refuge.

These revisions read as follows:

§ 32.49 New Jersey.

* * * * *

Great Swamp National Wildlife Refuge

* * * * *

C. Big Game Hunting. * * *

* * * * *

2. In addition to the State permit, we require a Deer Hunting Permit (Big/Upland Game Hunt Application, FWS Form 3-2356) along with a fee, issued by the refuge. We must stamp this permit for validation.

* * * * *

5. Refuge hunting regulations, as listed in the “Great Swamp National Wildlife Refuge Public Deer Hunt Map,” will be in effect.

* * * * *

26. Amend § 32.50 New Mexico by revising the entry for Bitter Lake National Wildlife Refuge to read as follows:

§ 32.50 New Mexico.

* * * * *

Bitter Lake National Wildlife Refuge

A. Migratory Game Bird Hunting. We allow hunting of goose, duck, coot, mourning dove, and sandhill crane on designated areas of the refuge in accordance with State regulations and any special posting or publications subject to the following conditions:

1. On the North Tract (including Salt Creek Wilderness Area and the portion of the refuge located north of U.S. Highway 70), all hunting must be in accordance with State seasons and regulations.

2. On the Middle Tract (the portion of the refuge located between U.S. Highway 70 and U.S. Highway 380), we restrict hunting to goose, duck, sandhill crane, and American coot (no dove):

i. In the designated public hunting area;

ii. In the southern portion of the Tract that never approaches closer than 100 yards (90 m) to the public auto tour route;

iii. In the southern portion of the Tract only, we limit hunting to Tuesdays, Thursdays, and Saturdays during the period when the State seasons for that area are open simultaneously for most of these species; and

iv. All hunting must cease at 1 p.m. (local time) on each hunt day.

3. On the South Tract (the portion of the refuge located south of U.S. Highway 380), we allow hunting only during Special Hunts (hunters with disabilities and/or youth hunters age 17 and younger).

4. You may use only approved nontoxic shot while hunting (see § 32.2(k)).

5. We prohibit pit or permanent blinds and require removal of all waterfowl decoys and all temporary blinds/stands (see § 27.93 of this chapter).

6. We allow unleashed hunting and/or retrieving dogs on the refuge when hunters are legally present in areas where we allow hunters, only if the dogs are under the immediate control of hunters at all times (see § 26.21(b) of this chapter), and only to pursue species legally in season at that time.

7. We prohibit hunters and their dogs from entering closed areas for retrieval of game.

8. We do not require refuge or other special hunt permits other than those required by the State (e.g., sandhill crane permits).

9. Visit the refuge office or Web site, and/or refer to additional on-site brochures, leaflets, or postings for additional information.

B. Upland Game Hunting. We allow hunting of pheasant, quail, cottontail, and jack rabbit on designated areas of the refuge in accordance with State regulations and any special postings or publications subject to the following conditions:

1. On the North Tract (including Salt Creek Wilderness Area and the portion of the refuge located north of U.S. Highway 70), all hunting must be in accordance with State seasons and regulations with the specification that we allow rabbit hunting only during the season that is concurrently open for quail hunting within the State.

2. On the Middle Tract (the portion of the refuge located between U.S. Highway 70 and U.S. Highway 380), we allow only pheasant hunting:

i. In the designated public hunting area in the southern portion of the Tract;

ii. No closer than 100 yards (90 m) to the public auto tour route; and

iii. We limit hunting to Tuesdays, Thursdays, and Saturdays during the appropriate State season for that area.

3. On the South Tract (the portion of the refuge located south of U.S. Highway 380), we allow public hunting only during Special Hunts (hunters with disabilities and/or youth hunters age 17 and younger) as per State seasons and regulations.

4. Conditions A4 and A6 through A9 apply.

5. We prohibit the use of archery equipment at any time on the refuge except when hunting deer and hogs (see C. Big Game Hunting).

C. Big Game Hunting. We allow hunting of mule deer, white-tailed deer, and feral hog on designated areas of the refuge in accordance with State regulations and any special postings or publications subject to the following conditions:

1. We restrict all hunting to the North Tract (including Salt Creek Wilderness Area and the portion of the refuge located north of U.S. Highway 70) in accordance with State seasons and regulations, with the specification that you may hunt and take feral hog (no bag limit) only while legally hunting deer and only with the weapon legal for deer on that day in that area.

2. Conditions A4 and A7 through A9 apply.

3. We allow use of only portable blinds or stands and require daily removal of all blinds and stands (see § 27.93 of this chapter).

D. Sport Fishing. [Reserved]

* * * * *

27. Amend § 32.52 North Carolina by:

a. Removing paragraph A.5. and revising paragraph C.2. under Currituck National Wildlife Refuge;

b. Redesignating paragraphs C.2. through C.5. as paragraphs C.3. through C.6., and adding new paragraph C.2. under Mackay Island National Wildlife Refuge;

c. Adding paragraphs A.5. and A.6., and revising paragraphs B.1., C.1., and C.7. under Pee Dee National Wildlife Refuge; and

d. Revising the introductory text of paragraph A., revising paragraphs A.1., A.2., A.4., and A.6., revising the introductory text of paragraph B., and revising paragraphs B.4., B.5., C.2., C.3., C.5., C.7., C.9., D.2., and D.3. under Pocosin Lakes National Wildlife Refuge;

These additions and revisions read as follows:

§ 32.52 North Carolina.

* * * * *

Currituck National Wildlife Refuge

* * * * *

C. Big Game Hunting. * * *

* * * * *

2. Each hunter must pay an annual $15 hunt permit (signed brochure) fee.

* * * * *

Mackay Island National Wildlife Refuge

* * * * *

C. Big Game Hunting. * * *

* * * * *

2. Each hunter must pay an annual $15 hunt permit (signed brochure) fee.

* * * * *

Pee Dee National Wildlife Refuge

A. Migratory Game Bird Hunting. * * *

* * * * *

5. We prohibit hunting on Sundays.

6. We prohibit the use of trail cameras. We define a trail camera as any unattended, self-powered photographic device that records photographic images.

B. Upland Game Hunting. * * *

1. Conditions A1 through A6 apply (with the following exception to condition A2: Each adult may supervise no more than one youth hunter).

* * * * *

C. Big Game Hunting. * * *

1. Conditions A1 through A6 apply (with the following exception to condition A2: Each adult may supervise no more than one youth hunter).

* * * * *

7. We prohibit placing a tree stand on the refuge more than 4 days prior to the opening day of the deer hunt in which hunters will be participating, except for participants of the youth deer hunt, who may place tree stands no more than 7 days prior to the hunt day. Archery hunters must remove the tree stands (see § 27.93 of this chapter) by the last day of that hunt. Muzzleloader and firearms hunters must remove tree stands by the day after the last day of that hunt.

* * * * *

Pocosin Lakes National Wildlife Refuge

A. Migratory Game Bird Hunting. We allow hunting of duck, goose, swan, dove, woodcock, rail, and snipe on designated areas of the refuge in accordance with State regulations subject to the following conditions:

1. We prohibit hunting on the Davenport and Deaver tracts (which include the area surrounding the Headquarters/Visitor Center and Scuppernong River Interpretive Boardwalk), the Pungo Shop area, New Lake, refuge lands between Lake Phelps and Shore Drive, that portion of the Pinner Tract east of SR 1105, the portion of Western Road between the intersection with Seagoing Road and the gate to the south, and the unnamed road at the southern boundary of the refuge land located west of Pettigrew State Park's Cypress Point Access Area. We prohibit all public entry on Pungo Lake year-round. During November, December, January, and February, we prohibit all public entry on New Lake, Duck Pen Road (except that portion that forms the Duck Pen Wildlife Trail and Pungo Lake Observation point when the trail and observation point are open), and the Pungo Lake, Riders Creek, and Dunbar Road waterfowl banding sites.

2. We require consent from refuge personnel to enter and retrieve legally taken game animals from closed areas including “No Hunting Zones.” We prohibit hunting firearms in all closed areas and No Hunting Zones.

* * * * *

4. We open the refuge for daylight use only (½ hour before legal sunrise to ½ hour after legal sunset), except that we allow hunters to enter and remain in open hunting areas from 2 hours before legal sunrise until 2 hours after legal sunset except on the Pungo Unit (see condition C6).

* * * * *

6. Persons may only use (discharge) firearms in accordance with refuge regulations (50 CFR 27.42 and specific regulations in part 32). We prohibit hunting, taking, and attempting to take any wildlife from a vehicle while the passenger area is occupied or when the engine is running, except that:

i. We allow hunting from ATVs and other similarly classed vehicles (where we authorize them) as long as they are stationary and the engine is turned off; and

ii. We allow hunting from boats (where we authorize them) when the motor is off and all forward momentum from a motor has ceased.

* * * * *

B. Upland Game Hunting. We allow hunting of quail, squirrel, raccoon, opossum, rabbit, beaver, nutria, and fox on designated areas of the refuge in accordance with State regulations subject to the following conditions:

* * * * *

4. We prohibit the hunting of raccoon and opossum during, 5 days before, and 5 days after the State bear seasons. Outside of these periods, we allow the hunting of raccoon and opossum at night but only while possessing a General Special Use Application and Permit (FWS Form 3-1383-G).

5. We allow those weapons authorized by the North Carolina Wildlife Resources Commission for taking upland game species except that we prohibit the use of rifles, other than .22-caliber rimfire rifles for hunting, and we prohibit the use of pistols for hunting.

* * * * *

C. Big Game Hunting. * * *

* * * * *

2. You may hunt spring turkey only if you possess and carry a valid permit (General Special Use Application and Permit, FWS Form 3-1383-G). These permits are valid only for the dates and areas shown on the permit. We require an application and a fee for those permits and hold a drawing, when necessary, to select the permittees.

3. We allow those weapons authorized by the North Carolina Wildlife Resources Commission for taking big game species except that we prohibit the use of rifles or pistols for hunting. We allow hunters to take feral hog in any area that is open to hunting deer using only those weapons authorized for taking deer. We also allow hunters to take feral hogs with shotgun, muzzleloader, bow and arrow, and crossbow on the Frying Pan area tracts whenever we open those tracts to hunting any game species with firearms.

* * * * *

5. We allow deer hunting with shotgun and muzzleloader on the Pungo Unit only while possessing a valid permit from the North Carolina Wildlife Resources Commission for the Pocosin Lakes National Wildlife Refuge Pungo Unit-either-sex deer special hunts that we hold in late September and October. We require a fee that validates the State permit to participate in these special hunts.

* * * * *

7. Prior to December 1, we allow deer hunting with archery equipment as described by the North Carolina Wildlife Resources Commission on the Pungo Unit during all State deer seasons, except during the muzzleloader season and except during the special hunts described in C5.

* * * * *

9. We allow the use of only portable deer stands (tree climbers, ladders, tripods, etc.). Hunters with a valid permit (State permit) for the special hunts described in condition C5 may install one deer stand on the Pungo Unit the day before the start of their hunt and leave it until the end of their hunt. Hunters must tag any stands left overnight on the refuge with their name, address, and telephone number. Hunters may use ground blinds, chairs, buckets, and other such items for hunting, but we require that you remove all of these items at the end of each day (see § 27.93 of this chapter).

* * * * *

D. Sport Fishing. * * *

* * * * *

2. We prohibit boats on Pungo Lake. We prohibit leaving a boat anywhere on the refuge overnight.

3. We allow fishing only from ½ hour before legal sunrise until ½ hour after legal sunset.

* * * * *

28. Amend § 32.55 Oklahoma by adding paragraph A.10., revising paragraph B.2., adding paragraphs B.11., C.10., and C.11., and revising paragraphs D.2. and D.3. under Deep Fork National Wildlife Refuge. These additions and revisions read as follows:

§ 32.55 Oklahoma.

* * * * *

Deep Fork National Wildlife Refuge

A. Migratory Game Bird Hunting. * * *

* * * * *

10. An adult at least age 18 must directly supervise youth age 14 or younger while hunting.

B. Upland Game Hunting. * * *

* * * * *

2. We allow shotguns, .22- and .17-caliber rimfire rifles, and pistols for rabbit and squirrel hunting.

* * * * *

11. An adult at least age 18 must directly supervise youth hunters age 14 or younger while hunting.

C. Big Game Hunting. * * *

* * * * *

10. An adult at least age 18 must directly supervise youth age 14 or younger while hunting.

11. During the refuge archery deer season/hunt, we follow the archery legal means of taking found in the Oklahoma Department of Wildlife Conservation's annual official Hunting Guide. No person may use any firearm in conjunction with this hunt.

D. Sport Fishing. * * *

* * * * *

2. No person may use any firearm in conjunction with fishing.

3. We allow year-round fishing on the Deep Fork River and at the Montezuma Creek Fishing Area. We allow fishing on all other sloughs, farm ponds, and impoundments not connected to the River from March 1 through October 31.

* * * * *

29. Amend § 32.56 Oregon by:

a. Removing paragraph C.5. and redesignating paragraph C.6. as C.5. under Hart Mountain National Antelope Refuge;

b. Revising paragraph A. under Julia Butler Hansen Refuge for the Columbian White-Tailed Deer; and

c. Revising paragraph C. under William L. Finley National Wildlife Refuge.

These revisions read as follows:

§ 32.56 Oregon.

* * * * *

Julia Butler Hansen Refuge for the Columbian White-Tailed Deer

A. Migratory Game Bird Hunting. We allow hunting of goose, duck, coot, and common snipe on the shorelines of refuge-owned portions of Crims, Price, Hunting, and Wallace Islands subject to the following conditions:

1. You may possess only approved nontoxic shot for hunting on the refuge (see § 32.2(k)).

2. We prohibit hunting along refuge-owned shorelines of Hunting and Price Islands where it parallels Steamboat Slough.

3. We prohibit permanent blinds. You must remove all personal property, including decoys and boats, by 1 hour after legal sunset (see §§ 27.93 and 27.94 of this chapter).

* * * * *

William L. Finley National Wildlife Refuge

* * * * *

C. Big Game Hunting. We allow deer hunting on designated areas of the refuge in accordance with State regulations subject to the following conditions:

1. We allow restricted firearms and archery deer hunting on designated dates from ½ hour before legal sunrise until ½ hour after legal sunset. We post these refuge-specific regulations at self-service hunt kiosks.

2. We allow only shotguns using buckshot or slugs and muzzleloaders for the restricted firearms deer hunt during the designated dates.

3. You may harvest either-sex deer with appropriate State-issued tags.

4. We prohibit overnight camping or after-hours parking on the refuge.

5. We prohibit hunting from any refuge structure, observation blind, or boardwalk.

6. All hunters must complete a Big Game Harvest Report (FWS Form 3-2359), available at the self-service hunt kiosks, after each hunt day.

7. Hunters may use portable or climbing deer stands but must remove them from the refuge daily (see § 27.93 of this chapter).

8. Persons possessing, transporting, or carrying firearms on national wildlife refuges must comply with all provisions of State and local law. Persons may only use (discharge) firearms in accordance with refuge regulations (see § 27.42 of this chapter and specific refuge regulations in part 32).

* * * * *

30. Amend § 32.59 Rhode Island by:

a. Revising paragraph C. under Block Island National Wildlife Refuge;

b. Revising paragraph C. under Ninigret National Wildlife Refuge; and

c. Revising the heading of the entry for “Pettaquamscutt Cove National Wildlife Refuge” to read “John H. Chafee National Wildlife Refuge” and placing that newly titled entry in alphabetical order within the section.

§ 32.59 Rhode Island.

* * * * *

Block Island National Wildlife Refuge

* * * * *

C. Big Game Hunting. We allow hunting of white-tailed deer on designated areas of the refuge in accordance with State regulations subject to the following conditions:

1. We require hunters to submit a Big/Upland Game Hunt Application (FWS Form 3-2356) to be selected to hunt on the refuge. Hunting brochures containing hunting application procedures, seasons, bag limits, methods of hunting, maps depicting areas open to hunting, and the terms and conditions under which we issue hunting permits are available at the refuge administration office and on the refuge's Web site.

2. We require hunters to possess a valid State hunting license and all required stamps, a valid government-issued photo identification, and a valid hunting permit issued by the refuge at all times while on refuge property.

3. We prohibit hunters from taking any other wildlife.

4. We require hunters to notify a refuge representative if they need to enter a closed area to retrieve game.

5. We allow only shotguns (slugs only), muzzleloaders, and archery equipment to harvest deer.

6. We prohibit the use of any drug on any arrow for bow hunting, including crossbows, on national wildlife refuges (see § 32.2(g)). We prohibit archers possessing any arrows employing such drugs on any national wildlife refuge.

7. We prohibit the distribution of bait and/or hunting over bait (see § 32.2(h)).

8. We prohibit the use of nails, wire, screws, or bolts to attach a stand to a tree, or hunting from a tree into which a metal object has been driven to support a hunter (see § 32.2(i)).

9. We prohibit the use or possession of alcoholic beverages while hunting (see § 32.2(j)).

10. We prohibit the use of spotlights, automotive headlights, or other artificial light for the purpose of spotting, locating, or taking any animal. This regulation applies even if no weapons are in the vehicle.

11. Anytime State hunting regulations specify the requirement that hunters wear blaze-orange clothing, hunters must adhere to those regulations both in amount of blaze-orange clothing required and in specified seasons. For example, we require both archery and firearms hunters to wear blaze-orange clothing during the firearm seasons in areas open to both types of hunts.

12. We prohibit permanent tree stands. Hunters must remove all portable tree stands from the refuge daily (see § 27.93 of this chapter). The Service takes no responsibility for the loss or theft of tree stands left in the field.

13. Hunters must mark tree stands with owner information (name, address, and phone number). We allow only portable stands.

14. We will prohibit the use of motorized or nonmotorized vehicles on the refuge unless the refuge manager grants prior approval (e.g., accessibility for disabled individuals). This includes, but we do not limit it to, vehicles, all-terrain vehicles, dirt bikes, motorcycles, and bicycles.

15. We prohibit marking (including, but we do not limit it to, the use of flagging, bright eyes, tacks, and paint), cutting, and/or removal of trees or vegetation (see § 27.51 of this chapter).

16. We prohibit hunting in areas designated as closed.

17. We prohibit hunting within 100 feet (30 m) of a State, county, city roadway, or refuge trail.

18. We prohibit hunting with the use of firearms within 500 feet (150 m) of an occupied dwelling.

19. We prohibit archery deer hunting within 200 feet (60 m) of an occupied dwelling.

20. We prohibit the use of buckshot.

21. We prohibit hunters field dressing deer within 100 feet (30 m) of a road or trail.

22. We prohibit tracking later than 2½ hours after legal sunset. Hunters must make a reasonable effort to retrieve all wounded deer. This may include next-day tracking except on Federal holidays.

23. We prohibit deer drives or anyone taking part in any deer drive. We define a “deer drive” as an organized or planned effort to pursue, drive, chase, or otherwise frighten or cause deer to move in the direction of any person or persons who are part of the organized or planned hunt and known to be waiting for the deer.

24. Refuge hunting information and the Rhode Island Hunting and Trapping Abstract will inform hunters of both State and refuge regulations. Refuge-specific hunting regulations, as listed in the “Block Island National Wildlife Refuge Hunting Regulations” handout, will be in effect.

* * * * *

Ninigret National Wildlife Refuge

* * * * *

C. Big Game Hunting. We allow hunting of white-tailed deer on designated areas of the refuge in accordance with State regulations subject to the following conditions:

1. We require hunters to submit a Big/Upland Game Hunt Application (FWS Form 3-2356) to be selected to hunt on the refuge. Hunting brochures containing hunting application procedures, seasons, bag limits, methods of hunting, maps depicting areas open to hunting, and the terms and conditions under which we issue hunting permits are available at the refuge administration office and on the refuge's web site.

2. We require hunters to possess a valid State hunting license and all required stamps, a valid government-issued photo identification, and a valid hunting permit issued by the refuge at all times while on refuge property.

3. We prohibit hunters from taking any other wildlife.

4. We require hunters to notify a refuge representative if they need to enter a closed area to retrieve game.

5. We allow only shotguns (slugs only), muzzleloaders, and archery equipment to harvest deer.

6. We prohibit the use of any drug on any arrow for bow hunting, including crossbows, on national wildlife refuges (see § 32.2(g)). We prohibit archers possessing any arrows employing such drugs on any national wildlife refuge.

7. We prohibit the distribution of bait and/or hunting over bait (see § 32.2(h)).

8. We prohibit the use of nails, wire, screws, or bolts to attach a stand to a tree, or hunting from a tree into which a metal object has been driven to support a hunter (see § 32.2(i)).

9. We prohibit the use or possession of alcoholic beverages while hunting (see § 32.2(j)).

10. We prohibit the use of spotlights, automotive headlights, or other artificial light for the purposes of spotting, locating, or taking any animal. This regulation applies even if no weapons are in the vehicle.

11. Anytime State hunting regulations specify the requirement that hunters wear blaze-orange clothing, hunters must adhere to those regulations both in amount of blaze-orange clothing required and in specified seasons. For example, we require both archery and firearms hunters to wear blaze-orange clothing during the firearm seasons in areas open to both types of hunts.

12. We prohibit permanent tree stands. Hunters must remove all portable tree stands from the refuge daily (see § 27.93 of this chapter). The Service takes no responsibility for the loss or theft of tree stands left in the field.

13. Hunters must mark tree stands with owner information (name, address, and phone number). We allow only portable stands.

14. We will prohibit the use of motorized or nonmotorized vehicles on the refuge unless the refuge manager grants prior approval (e.g., accessibility for disabled individuals). This includes, but we do not limit it to, vehicles, all-terrain vehicles, dirt bikes, motorcycles, and bicycles.

15. We prohibit marking (including, but we do not limit it to, the use of flagging, bright eyes, tacks, and paint), cutting, and/or removal of trees or vegetation (see § 27.51 of this chapter).

16. We prohibit hunting in areas designated as closed.

17. We prohibit hunting within 100 feet (30 m) of a State, county, city roadway, or refuge trail.

18. We prohibit hunting on the Kettle Pond Unit within 200 feet (60 m) of the visitor center and parking lots.

19. We prohibit hunting with the use of firearms within 500 feet (150 m) of an occupied dwelling.

20. We prohibit archery deer hunting within 200 feet (60 m) of an occupied dwelling.

21. We prohibit the use of buckshot.

22. We prohibit hunters field dressing deer within 100 feet (30 m) of a road or trail.

23. We prohibit tracking later than 2½ hours after legal sunset. Hunters must make a reasonable effort to retrieve all wounded deer. This may include next-day tracking except we prohibit tracking on Federal holidays.

24. We prohibit deer drives or anyone taking part in any deer drive. We define a “deer drive” as an organized or planned effort to pursue, drive, chase, or otherwise frighten or cause deer to move in the direction of any person or persons who are part of the organized or planned hunt and known to be waiting for the deer.

25. Refuge hunting information and the Rhode Island Hunting and Trapping Abstract will inform hunters of both State and refuge regulations. Refuge-specific hunting regulations, as listed in the “Ninigret National Wildlife Refuge Hunting Regulations” handout, will be in effect.

* * * * *

31. Amend § 32.60 South Carolina by:

a. Revising paragraphs A.7., C.1., and C.3., adding paragraphs C.15. through C.20., and adding paragraphs D.7. through D.9. under Carolina Sandhills National Wildlife Refuge;

b. Removing paragraph C.15., redesignating paragraphs C.16. and C.17. as paragraphs C.15. and C.16., removing paragraph D.2., and redesignating paragraph D.3. as D.2. under Pinckney Island National Wildlife Refuge;

c. Revising the entry for Santee National Wildlife Refuge; and

d. Revising the introductory text for paragraph A., revising paragraphs A.2., A.7., and B.3., adding paragraph B.5., revising the introductory text of paragraph C., revising paragraphs C.1., C.2., C.5., C.10., C.14., and C.18., and adding paragraphs C.19. and C.20. under Waccamaw National Wildlife Refuge.

These additions and revisions read as follows:

§ 32.60 South Carolina.

* * * * *

Carolina Sandhills National Wildlife Refuge

A. Migratory Game Bird Hunting. * * *

* * * * *

7. Legal shooting hours for September dove hunts are 12 p.m. (noon) to 6 p.m.

* * * * *

C. Big Game Hunting. * * *

1. Conditions A1 through A5 and A8 apply (with the following exception for condition A4: Each adult may supervise no more than one youth hunter.).

* * * * *

3. During deer and turkey hunts, we prohibit hunters from entering the refuge earlier than 4 a.m. and staying on the refuge later than 2 hours after legal sunset.

* * * * *

15. We prohibit the use of game and trail cameras.

16. We prohibit placing stands on the refuge more than 3 days prior to the opening day of each big game hunt period and leaving stands at the end of each hunt period.

17. We prohibit the use of a tree stand or climbing equipment without a safety belt or harness.

18. We prohibit the use of permanent, nonportable tree stands (see § 27.93 of this chapter).

19. We prohibit inserting a nail, screw, spike, or other metal object into a tree or hunting from a tree into which the hunter has inserted a metal object (see § 32.2(i)).

20. We prohibit baiting or hunting in the vicinity of bait (see § 32.2(h)).

* * * * *

D. Sport Fishing. * * *

* * * * *

7. At Mays and Honkers Lakes, the creel limit on largemouth bass is five fish per person per day. All bass must be a minimum length of 12 inches (30 cm).

8. We designate Oxpen Lake as adult-youth fishing only. A youth (under age 16) must be actively fishing and accompanied by no more than two adults at least age 18. We prohibit adults fishing unless a youth accompanies them. The creel limit on channel catfish is five fish per person per day.

9. We prohibit the use or possession of alcoholic beverages while hunting (see § 32.2(j)).

* * * * *

Santee National Wildlife Refuge

A. Migratory Game Bird Hunting. [Reserved]

B. Upland Game Hunting. We allow hunting of raccoon and opossum on designated areas of the refuge in accordance with State regulations subject to the following conditions:

1. We allow hunters to use only weapons, firearms, and ammunition specifically authorized for each hunt.

2. All refuge hunters under age 16 must show proof of successfully completing a hunter education/safety course. A properly licensed adult at least age 21 must directly supervise (within sight and normal voice contact) hunters under age 16. An adult may supervise only one youth.

3. We require hunters to possess a refuge hunt permit (brochure signed by the hunter), a valid State hunting license, and photo identification while hunting.

4. Hunters must check all animals taken on the refuge at the check station prior to removing the animal from the refuge.

5. We require hunters to make a reasonable effort to retrieve wounded game. Hunters must obtain permission from refuge personnel to enter a “No Hunting Zone” or “Closed Area” for any purpose.

6. We allow vehicles only on established roads marked open for vehicular traffic. Hunters may travel roads marked “Closed to all vehicles” on foot or by bicycle. The speed limit for all roads is 15 mph. We prohibit blocking travel through refuge access gates or roads. We prohibit ATVs.

7. Hunters must unload and dismantle (or case) hunting firearms when transporting them in vehicles and boats during refuge hunts. We define a loaded firearm as having ammunition in the chamber or magazine. We will consider muzzleloaders unloaded if the percussion cap is not seated in the chamber.

8. We prohibit possession of bait, baiting, and/or hunting in the vicinity of bait (see § 32.2(h)).

9. We prohibit camping, overnight parking, open fires, and littering (see §§ 27.95(a) and 27.94 of this chapter).

10. We prohibit game and trail cameras.

11. We prohibit entry beyond “Closed Area” or “No Hunting Zone” signs. We prohibit discharging weapons within, into, or across a “No Hunting Zone” or “Closed Area.”

12. We prohibit discharging a firearm from, on, or across any refuge road, or designated refuge foot trail.

13. We prohibit hunting from within 100 feet (30 m) of any roadway, whether open or closed to vehicular traffic, or from or within 300 yards (270 m) of any residence or designated hunter check station.

14. We prohibit use or possession of alcoholic beverages while hunting (see § 32.2(j)).

15. We prohibit man or dog drives, stalk hunting, and/or hunting from artificially pruned trees.

16. We allow hunting on each refuge unit only within specified hunt periods and only for raccoon or opossum, and white-tailed deer (see paragraph C. Big Game Hunting below).

17. We allow unlimited harvest of feral hog as an incidental take while hunting.

18. We allow use of dogs only for raccoon hunting. The dogs must wear a collar displaying the owner's name, address, and telephone number.

19. We allow take of raccoon and opossum only during night hunting. Special State regulations apply for night hunting.

20. We allow take of raccoon and opossum with a shotgun using nontoxic shot size no larger than #4 or a .22-caliber rimfire rifle. We prohibit possession of buckshot or slugs. We prohibit the use of all other weapons for hunting.

C. Big Game Hunting. We allow hunting of white-tailed deer on designated areas of the refuge in accordance with State regulations subject to the following conditions:

1. Conditions B1 through B17 apply.

2. We prohibit the use of dogs during deer hunts. We prohibit night hunting.

3. We prohibit the use of nails, screws, or bolts to attach a tree stand to a tree or hunting from a tree where a metal object has been driven to support a hunter (see § 32.2(i)).

4. We prohibit destroying or cutting vegetation (see § 27.51 of this chapter). We prohibit the possession of axes, saws, machetes, or other tools used for cutting vegetation on the refuge while scouting or hunting.

5. We allow flagging only along the edges of roads and trails and at the tree in which the hunter places the stand. Hunters may use clothes pins with reflective tape to mark the path to the tree, but they must mark all pins and flagging with the hunter's full name, date, and phone number. Hunters must remove all flagging and pins at the end of the hunt; we will consider any flagging or pins found after the end of the hunt to be littering (see § 27.94 of this chapter), and we will remove them immediately.

6. We require hunters to wear 500 square inches (3,250 cm²) of solid fluorescent-orange above the waist consisting of a hat and vest or jacket during all refuge big game firearm hunts.

7. Deer hunting must occur from elevated deer stands; we prohibit ground blinds. We allow only one stand per hunter, and the hunters must clearly mark stands with their full name, date, and phone number.

8. We allow scouting on both the Pine Island and Cuddo Units during periods when these units are open to general public access. We allow vehicles only on roads designated as open for vehicular traffic. All other roads and trails are open to walk-in or bicycle traffic. We prohibit hunting weapons and dogs during scouting activities.

9. Hunters may place stands, cloth pins, and flagging only on respective hunt areas on the Friday and Saturday immediately prior to each hunt (from 8 a.m. until 5 p.m.) and must remove them by 8:30 p.m. on the last day of each hunt. We will confiscate any stands found within the designated hunt areas outside of allowed periods.

10. We will open access roads, closed to the general public for driving, only during each deer hunt and on the Friday and Saturday prior to each hunt.

11. We will open hunting areas from 5 a.m. until 8:30 p.m. during designated hunt periods. We require all hunters to check out at the hunter check station by 8:30 p.m.

12. We open the Plantation Islands (Cuddo Unit) to hunting only from 5 a.m. until 2:30 p.m. All hunters hunting Plantation Islands must indicate on the check-in sheet that they are hunting on an island.

13. Shooting hours are from ½ hour before legal sunrise until ½ hour after legal sunset.

14. The refuge conducts one lottery draw hunt (using Quota Deer Hunt Application FWS 3-2354) for the Family, Friends, and Kids (Family Friendly) hunts conducted on the Bluff Unit of the refuge. Contact the refuge office for dates, application information, and more information about this special hunt opportunity.

D. Sport Fishing. We allow fishing on the refuge in accordance with State regulations subject to the following conditions:

1. A valid State fishing license and a signed refuge fishing permit (signed brochure) must be in each angler's possession while fishing on the refuge.

2. We allow public fishing on all four refuge units. We open waters of Lake Marion within refuge boundaries for fishing 24 hours a day, except in areas posted as “Closed Areas” or closed for migratory bird management. We allow fishing only on the inland ponds and canals during times the refuge units are open for general public access or as posted.

3. Cantey Bay (Bluff Unit), Black Bottom (Cuddo Unit), and Savannah Branch (Pine Island Unit) are only open to public access, including boating and fishing, from March 1 through October 31.

4. We limit access to the interior freshwater canals and ponds to canoes or kayaks, or by foot or bicycle travel only. We prohibit use of internal combustion engines on interior ponds and canals.

5. We prohibit littering, camping and/or overnight parking, open fires, swimming or wading, collecting or searching for or taking of any items of antiquity, and overnight mooring of boats (see §§ 27.62, 27.94, 27.95(a) of this chapter). We allow pets only in designated areas, and they must remain on a leash or within vehicles/vessels.

6. We prohibit fishing or boating within 100 feet (30 m) of any nesting bird or bird rookeries within refuge boundaries.

7. We prohibit commercial fishing, air-thrust boats, hovercraft, airboats, and personal watercraft within the waters of and/or boundary of the refuge.

8. We prohibit fishing at night, except by boat in Lake Marion. We prohibit bank fishing and fishing within interior ponds, canals, and impoundments at night.

9. We prohibit nighttime access to boat launching areas.

* * * * *

Waccamaw National Wildlife Refuge

A. Migratory Game Bird Hunting. We allow hunting of duck, goose, coot, woodcock, and snipe on designated areas of the refuge in accordance with State regulations subject to the following conditions:

* * * * *

2. Each youth hunter age 15 and younger must remain within sight, within normal voice contact, and under the supervision of an adult age 21 or older. We do not require youth hunters to have a hunter education card, but they must possess the refuge hunting regulations permit. The supervising adult must comply with all State and Federal hunting license requirements and possess a signed refuge hunting regulations permit (signed brochure). Each supervising adult may supervise no more than two youths.

* * * * *

7. We allow use of retrieving dogs only while hunting. We require dogs to wear a collar displaying the owner's name, address, and phone number.

* * * * *

B. Upland Game Hunting. * * *

* * * * *

3. We require nontoxic shot no larger than #2 in shotguns when hunting. We allow .22-caliber rimfire rifles.

* * * * *

5. We require the use of dogs for hunting raccoon and opossum.

C. Big Game Hunting. We allow hunting of white-tailed deer, feral hog, and turkey on designated areas of the refuge. The State of South Carolina does not classify feral hog as big game; however, for the purpose of hunting regulations, we put feral hog in the big game category. We allow big game hunting on the refuge in accordance with State regulations subject to the following conditions:

1. Conditions A1, A9, A10, B2, and B4 apply.

2. We allow hunting for designated species only on days designated annually by the refuge, within the State season, and according to refuge unit-specific regulations.

* * * * *

5. We prohibit blow guns and drugged arrows (see § 32.2(g)). We allow muzzleloading rifles that use only a single projectile on the muzzleloader hunts. We prohibit buckshot, rimfire ammunition, and full-metal-jacketed military ammunition.

* * * * *

10. The refuge limit on deer is two antlered bucks per year. Hunters can harvest up to three antlerless deer per year during coinciding State doe days or by using personal doe tags.

* * * * *

14. We allow only one portable tree stand per hunter, and the hunter must clearly mark it with their full name and phone number. We prohibit placing deer stands on the refuge more than 3 days prior to the opening day of a hunting session. Hunters must remove stands from the refuge no later than 3 days after each refuge big game hunt (see § 27.93 of this chapter).

* * * * *

18. We prohibit possession of bait, distribution of bait, or hunting over a baited area (see § 32.2(h)).

19. We allow crossbows only during the big game hunting sessions where we allow muzzleloaders and modern weapons. We may also allow them during special hunts if we determine they are appropriate.

20. Each youth hunter age 15 and younger must remain within sight, within normal voice contact, and under supervision of an adult age 21 or older, and must possess the refuge hunting regulations permit (signed brochure). We do not require youth hunters who are sitting in the same hunting stand as the supervising adult to possess a hunter education card. We require youth hunters who are sitting in a hunting stand by themselves to possess a valid hunter education card. The supervising adult must comply with all State and Federal hunting license requirements and possess a signed refuge hunting regulations permit. Each supervising adult may supervise a maximum of one youth.

* * * * *

32. Amend § 32.61 South Dakota by revising the entry for LaCreek National Wildlife Refuge and placing that entry in alphabetical order to read as follows:

§ 32.61 South Dakota.

* * * * *

LaCreek National Wildlife Refuge

A. Migratory Game Bird Hunting. We allow the hunting of goose, duck, coot, common snipe, sandhill crane, American crow, and mourning dove only within the Little White River Recreation Area in accordance with State regulations.

B. Upland Game Hunting. We allow the hunting of ring-necked pheasant and sharp-tailed grouse on designated areas of the refuge in accordance with State regulations subject to the following conditions:

1. Hunters may remain on the refuge no longer than ½ hour after legal sunset.

2. You must park vehicles in a designated hunter parking area.

3. Hunters must access and exit the hunting area only from a designated hunter parking area.

4. We prohibit hunting with the aid of a motor vehicle.

C. Big Game Hunting. We allow hunting of white-tailed and mule deer on designated areas of the refuge in accordance with State regulations subject to the following conditions:

1. We require a State permit for muzzleloader deer hunting.

2. All archery deer hunters must possess and carry a refuge permit (signature required).

3. Deer hunters may enter the refuge 1½ hours before legal sunrise and remain no longer than 1½ hours after legal sunset.

4. Hunters may leave portable tree stands and free-standing elevated platforms on the refuge from the first Saturday after August 25 through February 15. Hunters must remove all other personal property by the end of the day (see § 27.93 of this chapter).

5. Portable tree stands and free-standing elevated platforms must bear the name and address of the owner or user, or that person's current hunting license number. The labeling must be legible from the ground.

6. We close the refuge to archery hunting during refuge firearm seasons.

7. Conditions B2 through B4 apply.

D. Sport Fishing. We allow sport fishing on designated areas of the refuge in accordance with State regulations subject to the following conditions:

1. Areas open for fishing include: Pools 3, 4, 7, and 10, the Little White River Recreation Area, and the Cedar Creek Trout Ponds. We prohibit fishing in all other areas of the refuge.

2. We allow boat use only on Pools 3, 4, 7, and 10, and the Little White River Recreation Area.

3. We prohibit the use of internal combustion motors in Pools 3, 4, 7, and 10.

4. We prohibit the use or possession of live minnows or bait fish in Pools 3, 4, 7, and 10 and the Cedar Creek Trout Ponds.

5. We will open designated fishing areas from ½ hour before legal sunrise to ½ hour after legal sunset, except the Little White River Recreation Area.

* * * * *

33. Amend § 32.62 Tennessee by:

a. Revising paragraphs A.1., A.2., and A.4. through A.7., removing paragraph A.8., redesignating paragraphs A.9. and A.10. as paragraphs A.8. and A.9., revising newly redesignated paragraph A.9., adding new paragraphs A.10. through A.12., revising paragraphs B.1., B.4., and B.5., removing paragraph B.7., redesignating paragraph B.8. as paragraph B.7., adding new paragraph B.8., and revising paragraphs C.1., C.4., and D.6. under Chickasaw National Wildlife Refuge;

b. Revising the introductory text of paragraph A., revising paragraphs A.1., A.2., A.4., A.5., A.7., A.8., and A.10., adding paragraphs A.11. and A.12., revising paragraphs B.1. and B.2., removing paragraph B.6., redesignating paragraph B.7. as B.6., adding new paragraphs B.7. and B.8., and revising paragraphs C.1., C.4., and D.9. under Hatchie National Wildlife Refuge;

c. Revising paragraphs B.1. through B.5., B.9., and B.10., adding paragraphs B.13. through B.16., revising paragraph C.1., revising the introductory text of paragraph D., and adding paragraphs D.4. through D.7. under Lake Isom National Wildlife Refuge;

d. Revising paragraphs A.1., A.2., and A4. through A.7., removing paragraph A.8., redesignating paragraphs A.9. through A.11. as paragraphs A.8. through A.10., revising newly redesignated paragraph A.9., adding new paragraphs A.11. through A.13., revising paragraphs B.1., B.4., and B.5., removing paragraph B.7., redesignating paragraphs B.8. and B.9. as paragraphs B.7. and B.8., adding new paragraph B.9., revising paragraphs C.1. and C.4., and adding paragraph D.8. under Lower Hatchie National Wildlife Refuge; and

e. Revising paragraphs B.1. through B.5., B.9., and B.10., adding paragraphs B.13. through B.16., revising paragraphs C.1., C.4., and C.5., revising the introductory text of paragraph D., and adding paragraphs D.5. through D.8. of Reelfoot National Wildlife Refuge.

These additions and revisions read as follows:

§ 32.62 Tennessee.

* * * * *

Chickasaw National Wildlife Refuge

A. Migratory Game Bird Hunting. * * *

1. The refuge is a day-use area only. We close the refuge from legal sunset to legal sunrise, with the exception of legal hunting/fishing activities.

2. We prohibit the use of all motorized off-road vehicles (e.g., ATVs, UTVs) on the refuge (see § 27.31(f) of this chapter).

* * * * *

4. You must possess and carry a signed refuge permit (signed refuge brochure) and comply with all permit provisions and other applicable State and Federal law.

5. We allow hunting for duck, goose, coot, and merganser from ½ hour before legal sunrise to 12 p.m. (noon) CST. We allow hunters to access the refuge no more than 2 hours before legal sunrise.

6. Mourning dove, woodcock, and snipe seasons close during all firearms, youth, and muzzleloader deer seasons.

7. You may use only portable blinds, and you must remove all boats, blinds, and decoys (see § 27.93 of this chapter) from the refuge by 1 p.m. CST daily.

* * * * *

9. You may possess only approved nontoxic shot while hunting with a shotgun (see § 32.2(k)).

10. We prohibit cutting of holes, lanes, or other manipulation of vegetation (e.g., cutting bushes and trees, mowing, herbicide use, and other actions) or hunting from manipulated areas (see § 27.51 of this chapter).

11. We prohibit use or possession of alcoholic beverages while hunting on refuge lands (see § 32.2(j)).

12. We prohibit hunting over or the placement of bait (see § 32.2(h)). Baiting means the direct or indirect placing, exposing, depositing, or scattering of any salt, grain, powder, liquid, or other feed substance to attract game.

B. Upland Game Hunting. * * *

1. Conditions A1 through A4 and A8 through A12 apply.

* * * * *

4. Squirrel, rabbit, and quail seasons close during all firearms, youth, and muzzleloader deer seasons.

5. Raccoon and opossum seasons close Friday and Saturday nights during all firearms, youth, and muzzleloader deer hunts and seasons, including the Friday night prior to any hunt or season that opens on a Saturday morning.

* * * * *

8. We prohibit trapping.

C. Big Game Hunting. * * *

1. Conditions A1 through A4, A8, A10 through A12, B6, and B7 apply.

* * * * *

4. Hunters may possess lead-rifled slugs while deer hunting on the refuge (see § 32.2(k)).

* * * * *

D. Sport Fishing. * * *

* * * * *

6. We prohibit use or possession of alcoholic beverages while fishing on refuge lands and waters (see § 32.2(j)).

* * * * *

Hatchie National Wildlife Refuge

A. Migratory Game Bird Hunting. We allow hunting of duck, goose, coot, merganser, mourning dove, woodcock, and snipe on designated areas of the refuge in accordance with State regulations subject to the following conditions:

1. The refuge is a day-use area only. We close the refuge from legal sunset to legal sunrise, with the exception of legal hunting/fishing activities.

2. We prohibit use of all motorized off-road vehicles (e.g., ATVs, UTVs) on the refuge (see § 27.31(f) of this chapter).

* * * * *

4. You must possess and carry a signed refuge permit (signed refuge brochure) and comply with all permit provisions and other applicable State and Federal laws.

5. We allow waterfowl hunting only on Tuesdays, Thursdays, and Saturdays. We allow hunting for duck, goose, coot, and merganser from ½ hour before legal sunrise until 12 p.m. (noon) CST. We allow hunters to access the refuge no earlier than 2 hours before legal sunrise.

* * * * *

7. You may use only portable blinds, and you must remove all boats, blinds, and decoys (see § 27.93 of this chapter) from the refuge by 1 p.m. CST daily.

8. We prohibit use or possession of alcoholic beverages while hunting on refuge lands (see § 32.2(j)).

* * * * *

10. You may possess only approved nontoxic shot while hunting with a shotgun (see § 32.2(k)).

11. We prohibit cutting of holes, lanes, or other manipulation of vegetation (e.g., cutting bushes and trees, mowing, herbicide use, and other actions) or hunting from manipulated areas (see § 27.51 of this chapter).

12. We prohibit hunting over or the placement of bait (see § 32.2(h)). Baiting means the direct or indirect placing, exposing, depositing, or scattering of any salt, grain, powder, liquid, or other feed substance to attract game.

B. Upland Game Hunting. * * *

1. Conditions A1 through A4 and A8 through A12 apply.

2. We allow hunters to access the refuge no earlier than 2 hours before legal sunrise to no later than 2 hours after legal sunset, with the exception of raccoon and opossum hunters. We will allow access to those hunters from legal sunset to legal sunrise.

* * * * *

7. We prohibit camping and fires on the refuge.

8. We prohibit trapping.

C. Big Game Hunting. * * *

1. Conditions A1 through A4, A8, A10 through A12, and B5 through B7 apply.

* * * * *

4. Hunters may possess lead-rifled slugs while deer hunting on the refuge (see § 32.2(k)).

* * * * *

D. Sport Fishing. * * *

* * * * *

9. We prohibit use or possession of alcoholic beverages while fishing on refuge lands and waters (see § 32.2(j)).

Lake Isom National Wildlife Refuge

* * * * *

B. Upland Game Hunting. * * *

1. The refuge is a day-use area only. We close the refuge from legal sunset to legal sunrise, with the exception of legal hunting activities.

2. We prohibit the use of all motorized off-road vehicles (e.g., ATVs, UTVs) on the refuge (see § 27.31(f) of this chapter).

3. We set season dates and bag limits annually and publish them in the refuge brochure available at the refuge office.

4. You must possess and carry a signed refuge permit (signed refuge brochure) and comply with all permit provisions and other applicable State and Federal laws.

5. We allow hunters to access the refuge no earlier than 2 hours before legal sunrise to no later than 2 hours after legal sunset, with the exception of raccoon and opossum hunters. We will allow access to those hunters from legal sunset to legal sunrise.

* * * * *

9. We prohibit use or possession of alcoholic beverages while hunting on refuge lands (see § 32.2(j)).

10. You may possess only approved nontoxic shot while hunting with a shotgun (see § 32.2(k)).

* * * * *

13. We prohibit cutting of holes, lanes, or other manipulation of vegetation (e.g., cutting bushes and trees, mowing, herbicide use, and other actions) or hunting from manipulated areas (see § 27.51 of this chapter).

14. We prohibit hunting over or the placement of bait (see § 32.2(h)). Baiting means the direct or indirect placing, exposing, depositing, or scattering of any salt, grain, powder, liquid, or other feed substance to attract game.

15. We do not open for spring squirrel season on the refuge.

16. We prohibit trapping.

C. Big Game Hunting. * * *

1. Conditions B1 through B6 and B8 through B14 apply.

* * * * *

D. Sport Fishing. We allow sport fishing on designated areas of the refuge in accordance with State regulations subject to the following conditions:

* * * * *

4. We allow fishing only with pole and line or rod and reel.

5. We prohibit possession of unauthorized fishing gear, including trotlines, limblines, juglines, yo-yos, nets, spears, and snag hooks while fishing on the refuge.

6. We allow use of a bow and arrow or a gig to take nongame fish on refuge waters.

7. We prohibit use or possession of alcoholic beverages while fishing on refuge lands and waters (see § 32.2(j)).

Lower Hatchie National Wildlife Refuge

A. Migratory Game Bird Hunting. * * *

1. The refuge is a day-use area only. We close the refuge from legal sunset to legal sunrise, with the exception of legal hunting/fishing activities.

2. We prohibit the use of all motorized off-road vehicles (e.g., ATVs, UTVs) on the refuge (see § 27.31(f) of this chapter).

* * * * *

4. You must possess and carry a signed refuge permit (signed refuge brochure) and comply with all permit provisions and other applicable State and Federal law.

5. We allow hunting for duck, goose, coot, and merganser from ½ hour before legal sunrise to 12 p.m. (noon) CST. We allow hunters to access the refuge no earlier than 2 hours before legal sunrise.

6. Mourning dove, woodcock, and snipe seasons close during all firearms, youth, and muzzleloader deer seasons.

7. You may use only portable blinds, and you must remove all boats, blinds, and decoys (see § 27.93 of this chapter) from the refuge by 1 p.m. CST daily.

* * * * *

9. You may possess only approved nontoxic shot while hunting with a shotgun (see § 32.2(k)).

* * * * *

11. We prohibit cutting of holes, lanes, or other manipulation of vegetation (e.g., cutting bushes and trees, mowing, herbicide use, and other actions) or hunting from manipulated areas (see § 27.51 of this chapter).

12. We prohibit use or possession of alcoholic beverages while hunting on refuge lands (see § 32.2(j)).

13. We prohibit hunting over or the placement of bait (see § 32.2(h)). Baiting means the direct or indirect placing, exposing, depositing, or scattering of any salt, grain, powder, liquid, or other feed substance to attract game.

B. Upland Game Hunting. * * *

1. Conditions A1 through A4 and A8 through A13 apply.

* * * * *

4. Squirrel, rabbit, and quail seasons close during all firearms, youth, and muzzleloader deer seasons.

5. Raccoon and opossum seasons close Friday and Saturday nights during all firearms, youth, and muzzleloader deer hunts and seasons, including the Friday night prior to any hunt or season that opens on a Saturday morning.

* * * * *

9. We prohibit trapping.

C. Big Game Hunting. * * *

1. Conditions A1 through A4, A8, A10 through A13, and B6 through B8 apply.

* * * * *

4. Hunters may possess lead-rifled slugs while deer hunting on the refuge (see § 32.2(k)).

* * * * *

D. Sport Fishing. * * *

* * * * *

8. We prohibit use or possession of alcoholic beverages while fishing on refuge lands and waters (see § 32.2(j)).

Reelfoot National Wildlife Refuge

* * * * *

B. Upland Game Hunting. * * *

1. The refuge is a day-use area only. We close the refuge from legal sunset to legal sunrise, with the exception of legal hunting/fishing activities.

2. We prohibit the use of all motorized off-road vehicles (e.g., ATVs, UTVs) on the refuge (see § 27.31(f) of this chapter).

3. We set season dates and bag limits annually and publish them in the refuge brochure available at the refuge office.

4. You must possess and carry a signed refuge permit (signed refuge brochure) and comply with all permit provisions and other applicable State and Federal law.

5. We allow hunters to access the refuge no earlier than 2 hours before legal sunrise to no later than 2 hours after legal sunset, with the exception of raccoon and opossum hunters. We will allow access to those hunters from legal sunset to legal sunrise.

* * * * *

9. We prohibit use or possession of alcoholic beverages while hunting on refuge lands (see § 32.2(j)).

10. You may possess only approved nontoxic shot while hunting with a shotgun (see § 32.2(k)).

* * * * *

13. We prohibit cutting of holes, lanes, or other manipulation of vegetation (e.g., cutting bushes and trees, mowing, herbicide use, and other actions) or hunting from manipulated areas (see § 27.51 of this chapter).

14. We prohibit hunting over or the placement of bait (see § 32.2(h)). Baiting means the direct or indirect placing, exposing, depositing, or scattering of any salt, grain, powder, liquid, or other feed substance to attract game.

15. We do not open for spring squirrel season on the refuge.

16. We prohibit trapping.

C. Big Game Hunting. * * *

1. Conditions B1 through B6 and B8 through B14 apply.

* * * * *

4. Hunters may possess lead-rifled slugs while deer hunting on the refuge (see § 32.2(k)).

5. We allow the use of only portable blinds and tree stands on the refuge. You must remove blinds, tree stands, and all other personal equipment (see § 27.93 of this chapter) from the refuge at the end of each day's hunt.

* * * * *

D. Sport Fishing. We allow sport fishing on designated areas of the refuge in accordance with State regulations subject to the following conditions:

* * * * *

5. We allow fishing only with pole and line or rod and reel.

6. We prohibit possession of unauthorized fishing gear, including trotlines, limblines, juglines, yo-yos, nets, spears, and snag hooks while fishing on the refuge.

7. We allow use of a bow and arrow or a gig to take nongame fish on refuge water.

8. We prohibit use or possession of alcoholic beverages while fishing on refuge lands and waters (see § 32.2(j)).

* * * * *

34. Amend § 32.63 Texas by:

a. Revising paragraph C.1. and adding paragraph C.11. under Balcones Canyonlands National Wildlife Refuge; and

b. Revising the entry under Hagerman National Wildlife Refuge; and

c. Revising paragraphs C.6. and C.8. under Laguna Atascosa National Wildlife Refuge.

These revisions and additions read as follows:

§ 32.63 Texas.

* * * * *

Balcones Canyonlands National Wildlife Refuge

* * * * *

C. Big Game Hunting. * * *

1. Conditions A1, A4, A5, and A8 through A11 apply.

* * * * *

11. Hunters must be at least age 12. A Texas-licensed adult (age 21 or older), who has successfully completed a Hunter Education Training Course, must accompany hunters between ages 12 and 17 (inclusive). We exempt those persons born prior to September 2, 1971, from the Hunter Education Training Course requirement. We define accompanied as being within normal voice contact of an adult. This adult may supervise no more than two hunters.

* * * * *

Hagerman National Wildlife Refuge

A. Migratory Game Bird Hunting. We allow hunting of mourning dove in the month of September on designated areas of the refuge in accordance with State regulations subject to the following conditions:

1. You must possess and carry a signed refuge brochure (which serves as your Migratory Game Bird/Upland Game permit). The permit is available free of charge at the refuge headquarters.

2. We require the hunter to self check-in and check out.

3. We allow only shotguns for hunting.

4. You may possess shot for hunting no larger than #4 in the hunting area.

5. Hunters may possess only approved nontoxic shot while in the field (see § 32.2(k)).

6. We prohibit hunting within 150 feet (45 m) of any Day Use Area or walking trail.

7. We prohibit target practice or any nonhunting discharge of firearms.

8. We prohibit falconry.

9. We allow retriever dogs, but the dogs must be under the control of the handler at all times (see § 26.21(b) of this chapter).

10. We prohibit airboats, hovercraft, and personal watercraft (jet skis, wave runner, jet boats, etc.) year-round on refuge waters.

11. We prohibit building or hunting from permanent blinds.

12. We prohibit blocking of gates and roads (see § 27.31(h) of this chapter).

13. We prohibit ATVs.

14. We prohibit horses.

15. We prohibit glass containers.

16. We prohibit use or possession of alcoholic beverages while hunting (see § 32.2(j)).

17. We prohibit hunting over feeders or feed (see § 32.2(h)).

B. Upland Game Hunting. We allow hunting of squirrel and rabbit in the months of February and September on designated areas of the refuge in accordance with State regulations subject to the following conditions: Conditions A1 through A17 apply.

C. Big Game Hunting. We allow hunting of white-tailed deer, feral hog, and turkey on designated areas of the refuge in accordance with State regulations subject to the following conditions:

1. We require a limited hunt permit (Big/Upland Game Hunting Application, FWS Form 3-2356) for archery deer, feral hog, and spring turkey hunts. For additional information on how to apply, contact the refuge headquarters at 903-786-2826.

2. Conditions A2, A5 through A7, and A11 through A17 apply.

3. We restrict hunt participants for quota hunts to those drawn for and in possession of a limited hunt permit. The permits are nontransferable. Hunt dates and application procedures will be available annually at the refuge headquarters.

4. We allow limited hunts for feral hog (March), archery deer (November, December), and spring turkey (April). We allow muzzleloaders, bow and arrow, and shotguns for feral hog and spring turkey hunts. You may possess and use only lead free, nontoxic (steel, bismuth, copper, or tungsten) bullets, slugs, and shot (00 buck for hogs, no shell larger than No. 4 shot size for turkey).

5. We require all hunters to check-in, show proof of personal identification, and produce a valid limited hunt permit (see C1) prior to the hunt.

6. We limit each hunter to one stand which the hunter may place on the refuge during the day preceding each hunt. Hunters must remove all stands by legal sunset on the last day of each hunt (see §§ 27.93 and 27.94 of this chapter).

7. We prohibit the use of nonbiodegradable flagging, blazing, tacks, nails, or other trail marking devices to locate stands or for any other purpose.

8. Hunters must check all game harvested during limited hunts at the refuge check station the same day of the kill and prior to leaving the refuge for the day.

9. We prohibit crossbows except by special permit (General Special Use Application and Permit FWS Form 3-1383-G) issued on a case-by-case basis by the refuge manager to accommodate hunter accessibility needs.

10. We divide the refuge into six hunting units, and we may rotate areas open to hunting annually. We allow hunting only on designated days and only on areas identified annually by the refuge.

11. We require proof of completion of a bow hunter education course for all archery hunting.

12. We require annual successful completion of an archery proficiency test with a score of 80 percent or higher for all deer and turkey hunt permit holders.

13. Hunting is from stands, blinds, or by stalking only.

14. We prohibit cutting of trees or limbs greater than 1 inch (2.5 cm).

15. We will close the hunt units to public entry the day prior to each hunt segment.

16. We will allow hunters with valid limited permits to place hunt stands on trees the day before their hunt segment begins, but they must first check-in at the hunter check station. They may not enter any hunt unit until 8 a.m., and they must leave the unit by 2 p.m. We will disqualify anyone in violation from hunting.

17. There is no bag or size limit on the harvesting of feral hogs.

18. We prohibit scouting the day prior to and during each hunt segment.

19. We require hunters to wear a safety harness while hunting in elevated stands.

D. Sport Fishing. We allow fishing on designated areas of the refuge in accordance with State regulations subject to the following conditions:

1. Lake Texoma and connected streams are open to fishing year-round. We require a valid State of Texas or Lake Texoma fishing license as per State regulations.

2. Conditions A10, and A12 through A15 apply.

3. You may bank and wade fish with pole and line, rod and reel, or hand line year-round in all areas open to public fishing.

4. We allow fishing in refuge ponds March 15 through September 30 annually. We require a valid State of Texas or Lake Texoma fishing license as per State regulations.

5. Anglers may not use any glass containers, plastic jugs, or plastic bottles as floats.

6. We prohibit discarding any type of fishing line.

7. You may take bait only for personal use while fishing in refuge waters in accordance with Texas State law. We prohibit removal of bait from the refuge for commercial sales or use.

8. We prohibit fishing from bridges.

9. We allow the use of bow and arrow to take nongame fish on refuge waters.

10. We prohibit limb lines, throw lines, jug lines, seine nets, and yo-yos.

11. We prohibit taking frog, turtle, and mussel from refuge lands and waters (see § 27.21 of this chapter).

12. We prohibit entry into refuge impoundments and ponds by any means (i.e., foot, boat, other floating device), for any purpose, year-round.

13. We prohibit boats and all other floating devices on all open waters of Lake Texoma, except Big Mineral Creek from October 1 through March 14 annually.

14. At the point where Big Mineral Creek joins Lake Texoma, Big Mineral Creek becomes a year-round no-wake zone to the end of upstream navigable waters.

15. From October 1 through March 14, we allow only nonmotorized boats in Big Mineral Creek from the point where it joins Lake Texoma to the upstream end of navigable waters. This includes any type of gas or electric motor that is onboard and capable of use. We allow launching only from L Pad Road or by hand at the Big Mineral Day Use Area.

Laguna Atascosa National Wildlife Refuge

* * * * *

C. Big Game Hunting. * * *

* * * * *

6. We define youth hunters as ages 9 through 16. A Texas-licensed adult hunter, age 21 or older who has successfully completed a Hunter Education Training Course or is exempt, must accompany the youth hunter. We exempt those persons born prior to September 2, 1971, from the Hunter Education Training course requirement. We define accompanied as being within normal voice contact of the adult. Each adult hunter may supervise only one youth hunter.

* * * * *

8. We allow a scouting period prior to the commencement of the refuge deer hunting season. A permitted hunter and a limit of two nonpermitted individuals may enter the hunt units during the scouting period. We allow access to the units during the scouting period from 1½ hours before legal sunrise to legal sunset. You must clearly display the refuge-issued Hunter Vehicle Validation Tag/Scouting Permit (available from the refuge office) face up on the vehicle dashboard when hunting and scouting.

* * * * *

35. Amend § 32.64 Utah by:

a. Revising paragraphs A. and B., and adding paragraphs D.2. through D.4. under Bear River Migratory Bird Refuge; and

b. Revising paragraph B.3., adding paragraph B.4., revising paragraphs C.3., C.4., C.6., and C.7., and adding paragraphs C.8. and C.9. under Ouray National Wildlife Refuge.

These additions and revisions read as follows:

§ 32.64 Utah.

* * * * *

Bear River Migratory Bird Refuge

A. Migratory Game Bird Hunting. We allow hunting of goose, duck, coot, and tundra swan on designated areas of the refuge in accordance with State regulations subject to the following conditions:

1. We prohibit hunting or shooting within 100 yards (90 m) of refuge roads, parking areas, and observation platforms.

2. You may possess only approved nontoxic shot while in the field (see § 32.2(k)).

3. We allow only portable blinds and blinds made from natural vegetation. We prohibit the construction or use of permanent blinds and/or pits for blinds (see § 27.92 of this chapter).

4. You must remove boats, decoys, portable blinds, and other personal property from the refuge at the end of each day (see §§ 27.93 and 27.94 of this chapter).

5. We allow airboats only in Refuge Unit 9 and Block C.

6. You may possess only 10 shells while hunting on or within 50 feet (15 m) from the center of Unit 1A or 2C dike.

7. We prohibit hunters or dogs to enter closed areas to retrieve downed birds.

8. We prohibit the consumption or possession of alcoholic beverages while hunting (see § 32.2(j)).

9. We are closed for spring and extended season goose hunts.

10. You must possess a valid State permit to hunt swans on the refuge.

11. We prohibit all commercial guiding and outfitter activities on the refuge.

12. We prohibit entering the refuge hunting units prior to the opening day of waterfowl season.

13. We prohibit archery hunting on the refuge.

14. You may enter the refuge 2 hours before legal sunrise and must exit the refuge by 2 hours after legal sunset.

15. You may park only in designated areas.

16. We allow only legally licensed vehicles on the refuge. We prohibit use of unlicensed off-highway vehicles and all-terrain vehicles on the refuge.

17. We prohibit fires, camping, and overnight RV parking on the refuge.

18. You may discharge firearms only during legal hunting activities. We prohibit target shooting.

19. Persons possessing, transporting, or carrying firearms on national wildlife refuges must comply with all provisions of State and local law. Persons may only use (discharge) hunting firearms in accordance with refuge regulations (see § 27.42 of this chapter and part 32).

20. You must abide by all terms and conditions in the refuge hunting brochure.

B. Upland Game Hunting. We allow hunting of pheasants on designated areas of the refuge in accordance with State regulations subject to the following conditions:

1. We prohibit hunting or taking of pheasants with a shotgun of any description capable of holding more than three shells, unless it is plugged with a one-piece filler incapable of removal without disassembling the gun, so its total capacity does not exceed three shells.

2. Condition A2 applies.

* * * * *

D. Sport Fishing. * * *

* * * * *

2. You may fish only in designated areas west of the Auto Tour Road access gate from legal sunrise to legal sunset.

3. We prohibit fishing from refuge bridges and water control structures.

4. You must remove all fishing equipment, personal property, and trash from the refuge at the end of each day (see §§ 27.93 and 27.94 of this chapter).

* * * * *

Ouray National Wildlife Refuge

* * * * *

B. Upland Game Hunting. * * *

* * * * *

3. You may possess only approved nontoxic shot while in the field (see § 32.2(k)).

4. We allow turkey hunting for youth hunters only during the youth-only and general turkey seasons. We are closed for all limited-entry turkey hunts.

C. Big Game Hunting. * * *

* * * * *

3. You may use portable tree stands and hunting blinds that do not require drilling or nailing into a tree (see § 32.2(i)). You must remove all tree stands and blinds no later than the last day of the hunting season for which you have a permit (see § 27.93 of this chapter).

4. We allow any-legal-weapon elk hunting for youth, disabled, and depredation pool hunters only prior to October 1. We allow additional youth, disabled, and depredation-pool elk hunts after October 1 according to refuge and State regulations.

* * * * *

6. We are closed for the general season any-legal-weapon (rifle) and muzzleloader bull elk hunts.

7. We allow any-legal-weapon elk hunting during limited late season antlerless elk hunts starting on December 1.

8. We prohibit the use of bait or hunting over bait (see § 32.2(i)).

9. We prohibit the use of trail or game cameras.

* * * * *

36. Amend § 32.66 Virginia by:

a. Revising paragraphs C.1. through C.4., C.8. through C.10., and C.15., and adding paragraphs C.18. and C.19. under James River National Wildlife Refuge;

b. Revising the introductory text of paragraph A., and revising paragraphs A.1. and A.2. under Plum Tree Island National Wildlife Refuge;

c. Revising paragraphs C.1. through C.8. and C.12., and adding paragraph C.16. of Presquile National Wildlife Refuge; and

d. Revising paragraphs C.1. through C.3., C.11., and C.15., and adding paragraph C.16. of Rappahannock River Valley National Wildlife Refuge;

These additions and revisions read as follows:

§ 32.66 Virginia.

* * * * *

James River National Wildlife Refuge

* * * * *

C. Big Game Hunting. * * *

1. We require hunters to possess and carry a refuge hunting permit (contains date selected to hunt and permit number), along with their State hunting license while on refuge property. We require hunters to display a vehicle permit (contains date selected to hunt and permit number) provided by the refuge on the dashboard of their vehicle while on the refuge so that the permit is visible through the windshield.

2. We require firearm hunters to complete and sign a Quota Deer Hunt Application (FWS Form 3-2354) and provide the application and hunt fee to the hunt administrator at the Refuge Hunter Check Station on the morning of each hunt on a first-come-first-served basis. The hunt administrator will then provide the applicant a one-day refuge hunting permit.

3. We require persons who wish to hunt during the refuge's archery season to obtain a refuge hunting permit through a lottery administered by the Virginia Department of Game and Inland Fisheries. We notify successful applicants by mail or email, and if we receive the hunting fee by the date identified in the mailing, we mail refuge hunting permits to successful applicants.

4. We allow archery, muzzleloader, and shotgun hunting on designated days as indicated on refuge hunting permits.

* * * * *

8. We require hunters during archery-only seasons to wear, in a visible manner, a minimum of 100 square inches (645 cm²) of solid-colored-hunter-orange clothing or material while moving to and from their stand and/or hunting location.

9. We require hunters during firearms and muzzleloader seasons to wear in a conspicuous manner on head, chest, and back a minimum of 400 square inches (2,600 cm²) of solid-colored- hunter-orange clothing or material.

10. We require that hunters during firearms and muzzleloader seasons remain within 100 feet (30 m) of their assigned stand while hunting.

* * * * *

15. An adult age 21 or older, possessing and carrying a valid hunting license and refuge hunting permit, must accompany and directly control youth hunters ages 12 to 17. We prohibit persons under age 12 to hunt on the refuge.

* * * * *

18. We require hunters to unload hunting bows, crossbows, muzzleloaders, and shotguns while in or around vehicles or on refuge roads (see § 27.42 of this chapter). We define unloaded as: arrows or bolts removed from bow or crossbow, primer removed from muzzleloader or shotgun shell removed from chamber of shotgun.

19. We require hunters during archery-only seasons to sign in and out at the Hunter Sign-In/Sign-Out stations, and record deer harvest information on the Big Game Harvest Report (FWS Form 3-2359).

* * * * *

Plum Tree Island National Wildlife Refuge

A. Migratory Game Bird Hunting. We allow hunting of migratory waterfowl, gallinule, and coot on designated areas of the refuge in accordance with State regulations subject to the following conditions:

1. We require hunters to possess and carry a refuge hunting permit (see condition A2 below) along with their State hunting license and stamps, while hunting migratory game birds on the refuge. We open the Cow Island unit of the refuge only to migratory game bird hunting. We close all other areas of the refuge to all public entry.

2. We require migratory game bird hunters to obtain a permit through a lottery administered by the Virginia Department of Game and Inland Fisheries. We mail permits to successful applicants.

* * * * *

Presquile National Wildlife Refuge

* * * * *

C. Big Game Hunting. * * *

1. We require big game hunters to obtain a permit through a lottery administered by the Virginia Department of Game and Inland Fisheries. We require a fee to obtain a refuge hunting permit. We will notify successful applicants by mail or email, and if we receive the hunting fee by the date identified in the mailing, we will mail refuge hunting permits to successful applicants.

2. We require hunters to possess a refuge hunting permit (contains date selected to hunt and permit number), along with their State hunting license, while on refuge property.

3. We require stand hunting only. Stand hunting means the use of portable hunting blinds, portable tree stands, or stationary ground hunting. We prohibit the use of nails, screws, bolts, or screw-in steps. We prohibit damage to trees (see § 32.2(i)). Hunters must remove stands and blinds daily (see § 27.93 of this chapter).

4. We prohibit the use of “man drives,” defined as individual or group efforts intended to “push” or “jump” deer for the purposes of hunting.

5. We allow shotgun hunting on designated days as indicated on refuge hunting permits, in the State hunting guide, and on the refuge Web site, http://www.fws.gov/northeast/presquile/.

6. We allow the take of two deer of either sex per day.

7. We prohibit dogs.

8. We prohibit the discharge of a weapon within 300 feet (90 m) of any building.

* * * * *

12. An adult age 21 or older, possessing and carrying a valid hunting license and refuge hunting permit, must accompany and directly control youth hunters ages 12 to 17. We prohibit persons younger than age 12 to hunt on the refuge.

* * * * *

16. We require hunters to unload hunting bows, crossbows, muzzleloaders, and shotguns while in or around vehicles or on refuge roads (see § 27.42 of this chapter). We define unloaded as: arrows or bolts removed from bow or crossbow, primer removed from muzzleloader, or shotgun shell removed from chamber of shotgun.

* * * * *

Rappahannock River Valley National Wildlife Refuge

* * * * *

C. Big Game Hunting. * * *

1. We require big game hunters to obtain a permit through a lottery administered by the Virginia Department of Game and Inland Fisheries. We require a fee to obtain a refuge hunting permit (signed and dated sheet). We will notify successful applicants by mail or email, and if we receive the hunting fee by the date identified in the mailing, we will mail refuge hunting permits to successful applicants. We offer walk-in registration to fill hunting slots not filled during the lottery process.

2. We require hunters to possess a refuge hunting permit (contains date selected to hunt and permit number), along with their State hunting license, while on refuge property. We require hunters to display a vehicle permit (contains date selected to hunt and permit number) provided by the refuge on the dashboard of their vehicle while on the refuge so that the permit is visible through the windshield.

3. We require stand hunting only. Stand hunting means the use of portable hunting blinds, portable tree stands, or stationary ground hunting. We prohibit the use of nails, screws, bolts, or screw-in steps. We prohibit damage to trees (see § 32.2(i)). Hunters must remove stands and blinds daily (see § 27.93 of this chapter). We prohibit deer drives, still hunting, and roaming.

* * * * *

11. Persons possessing, transporting, or carrying firearms on the refuge must comply with all provisions of State and local law. Persons may only use (discharge) firearms in accordance with refuge regulations (see § 27.42 of this chapter).

* * * * *

15. We prohibit the discharge of hunting firearms or archery equipment within 300 feet (90 m) of any building. We prohibit the discharge of hunting firearms or archery equipment in or across a refuge road as marked on the refuge hunt maps.

16. We require hunters to unload hunting bows, crossbows, muzzleloaders, and shotguns while in or around vehicles or on refuge roads (see § 27.42 of this chapter). We define unloaded as: arrows or bolts removed from bow or crossbow, primer removed from muzzleloader, or shotgun shell removed from chamber of shotgun.

* * * * *

37. Amend § 32.67 Washington by:

a. Revising paragraph A.1., removing paragraph A.6., and revising paragraph C.3. under Columbia National Wildlife Refuge; and

b. Revising the entry for Hanford Reach National Monument/Saddle Mountain National Wildlife Refuge.

The revisions read as follows:

§ 32.67 Washington.

* * * * *

Columbia National Wildlife Refuge

A. Migratory Game Bird Hunting. * * *

1. We prohibit overnight parking and/or camping.

* * * * *

C. Big Game Hunting. * * *

* * * * *

3. We allow hunting with shotgun, muzzleloader, and archery only.

* * * * *

Hanford Reach National Monument/Saddle Mountain National Wildlife Refuge

A. Migratory Game Bird Hunting. We allow hunting of goose, duck, coot, dove, and snipe on designated areas of the Monument/Refuge in accordance with State regulations subject to the following conditions:

1. We prohibit overnight camping and/or parking.

2. You may possess only approved nontoxic shot for hunting (see § 32.2(k)).

3. We prohibit discharge of any firearm within ¼ mile (396 m) of any maintained building or Federal facility, such as, but not limited to, a structure designed for storage, human occupancy, or shelter for animals.

4. We allow only portable blinds and temporary blinds constructed of nonliving natural materials. Hunters must remove all decoys and other equipment (see § 27.93 of this chapter) at the end of each day.

5. We allow only nonmotorized boats and boats with electric motors on the WB-10 Pond (Wahluke Lake) and with walk-in access only.

6. We close all islands within the Columbia River to all access.

B. Upland Game Hunting. We allow hunting of pheasant, quail, grey partridge, and chukar partridge on designated areas of the Monument/Refuge in accordance with State regulations subject to the following conditions: Conditions A1, A2, A3, and A6 apply.

C. Big Game Hunting. We allow hunting of deer and elk on designated areas of the Monument/Refuge in accordance with State regulations subject to the following conditions:

1. We allow sport hunting of deer and elk on designated areas of the Monument/Refuge.

i. Conditions A1, A2, A3, and A6 apply.

ii. We allow hunting with shotgun, muzzleloader, and archery only.

2. We allow population control hunting of elk on the Rattlesnake Unit of the Monument/Refuge.

i. Condition A1 applies, and we also prohibit smoking.

ii. We require elk population control hunters to participate in a Service-directed, hunt-specific training session each year prior to hunting and receive a Service-provided permit (signed brochure) that hunters must carry at all times.

iii. We allow hunting with modern firearms only.

iv. We allow authorized vehicles only on designated roads and only in designated parking areas.

v. We prohibit the use of bicycles and carts.

vi. We allow hunting Monday through Friday only.

vii. All hunt assistants must be under the supervision of the permitted hunter at all times.

viii. We allow foot access only beyond designated roads and parking areas.

ix. We prohibit retrieval of animals outside the hunt area without prior Service approval.

x. All hunt assistants must check-in and out and be under the supervision of the permitted hunter at all times.

D. Sport Fishing. We allow fishing on the Wahluke and Ringold Units in accordance with State regulations subject to the following conditions:

1. Conditions A1, A5, and A6 apply.

2. We allow access from legal sunrise to legal sunset, except that we allow access to the Wahluke Unit's White Bluffs boat launch from 2 hours before legal sunrise until 2 hours after legal sunset for launch and recovery activities only.

* * * * *

38. Amend § 32.68 West Virginia by revising paragraph A.2., adding paragraph A.9., revising paragraph B.1., removing paragraph B.2., redesignating paragraphs B.3. through B.6. as paragraphs B.2. through B.5., revising paragraph C.1., and removing paragraph C.12. under Canaan Valley National Wildlife Refuge.

This addition and these revisions read as follows:

§ 32.68 West Virginia.

* * * * *

Canaan Valley National Wildlife Refuge

A. Migratory Game Bird Hunting. * * *

* * * * *

2. We allow hunting on refuge lands with the following exceptions: the area surrounding the refuge headquarters, safety zones, areas marked as no hunting zones, areas marked as closed to all public entry, and areas within 500 feet (150 m) of any dwelling in accordance with State regulations.

* * * * *

9. We close the Research Natural Area except for deer hunting, which we allow for management purposes.

B. Upland Game Hunting. * * *

1. Conditions A1 (Upland/Small Game/Furbearer Report, FWS Form 3-2362), A2, A4, A6, A7, and A9 apply.

* * * * *

C. Big Game Hunting. * * *

1. Conditions A1 (Big Game Harvest Report, FWS Form 3-2359), A2, A4, A6, A7, A9, and B3 apply.

* * * * *

Dated: August 30, 2012.
Rachel Jacobson,
Principal Deputy Assistant Secretary for Fish and Wildlife and Parks.

[FR Doc. 2012-22099 Filed 9-10-12; 8:45 am]

BILLING CODE 4310-55-P